DEPARTMENT OF HOUSING AND URBAN DEVELOPMENT

[Docket No. FR-6247-N-02]

Announcement of Funding Awards

AGENCY: Office of Chief Financial Officer, HUD.

ACTION: Notice.

SUMMARY: In accordance with section 102(a)(4)(C) of the Department of Housing and Urban Development Reform Act of 1989, this announcement notifies the public of funding decisions made by the Department in competitions for funding under the Notices of Funding Opportunity (NOFOs) and Notices for the following programs: FY2020 and FY2021 Community Compass Technical Assistance and Capacity Building Program, FY2020 Self-Help Homeownership Opportunity Program (SHOP), FY2020 Veterans Housing Rehabilitation and Modification Pilot Program (VHRMP), FY2018 Fair Housing Initiatives Program (FHIP): Education and Outreach Initiative (EOI), FY2018 Fair Housing Initiatives Program (FHIP): Fair Housing Organizations Initiative (FHOI), FY2018 Fair Housing Initiatives Program (FHIP): Private Enforcement Initiative (PEI), FY2019 Fair Housing Initiatives Program (FHIP): Education and Outreach Initiative (EOI), FY2019 Fair Housing Initiatives Program (FHIP): Fair Housing Organizations Initiative (FHOI), FY2019 Fair Housing Initiatives Program (FHIP): Private Enforcement Initiative (PEI), FY2020 Fair Housing Initiatives Program (FHIP): Education and Outreach Initiative (EOI), FY2020 Fair Housing Initiatives Program (FHIP): Fair Housing Organizations Initiative (FHOI), FY2020 Fair Housing Initiatives Program (FHIP): Private Enforcement Initiative (PEI), FY2020 Fair Housing Initiatives Program (FHIP): COVID-19 Education and Outreach Initiative (COVID) Grant Program, FY2020 Lead Hazard Reduction Grant Program, FY2020 Healthy Homes and Weatherization Cooperation Demonstration, FY2019 Moving to Work Demonstration Program, FY2020 HBCU Cooperative Research in Housing Technologies Program, FY2020 Social and Economic Impacts of the CDBG and HOME Programs, FY2020 Alternative Methods for Calculating Fair Market Rents (FMRs) in Rental Markets with Rapidly Rising Rents Program, FY2020 Choice Neighborhoods Planning, Foster Youth to Independence (FYI) Initiative, FY 2020 Family Self-Sufficiency Renewal Program and FY 2020 Family Self-Sufficiency Renewal Program Supplemental, FY2015 Tribal Veterans Affairs Supportive Housing (TRIBAL HUD VASH) Grant Program, FY2020 Indian Community Development Block Grant- Imminent Threat CARES (ICDBG-IT), FY2020 Indian Community Development Block Grant- Imminent Threat (ICDBG-IT), FY2019 Emergency Safety and Security RD1, FY2019 Emergency Safety and Security RD 2, FY2019 Emergency Safety and Security RD3, FY2020 Emergency Disaster Grant, FY2020 Emergency Receivership, FY2020 Emergency Safety and Security, and FY2021 Emergency Disaster Grant.

FOR FURTHER INFORMATION CONTACT: Office of the Chief Financial Officer (Systems), Grants Management and Oversight at AskGMO@hud.gov or the contact person listed in each appendix.

SUPPLEMENTARY INFORMATION: HUD posted FY2020 and FY2021 Community Compass Technical Assistance and Capacity Building Grant Program on grants.gov July 23, 20202 (FR-6400-N-06). The competition closed on September 23, 2020. HUD rated and selected applicants for funding based on selection criteria contained in the NOFO. This competition awarded $38,300,000 to 20 recipients to provide technical assistance and capacity building services to grantees and other customers of HUD's mission-critical programs. Awards are made using all or part of the following sources: (1) The Further Consolidated Appropriations Act, 2020 (Pub. L. 116-94), which includes funding for technical assistance for grantees in the Office of Community Planning and Development; Office of Public and Indian Housing for PHA Receivership and Native American Programs; Office of Fair Housing and Equal Opportunity; and Office of Policy Development and Research (which is used for Departmental TA priorities and grantees); and (2) the Coronavirus Aid, Relief, and Economic Security Act (CARES Act), 2020 (Pub. L. 116-136), which includes funding for Community Development Block Grant recipients impacted by the coronavirus pandemic.

HUD posted FY2020 Self-Help Homeownership Opportunity (SHOP) Grant Program on grants.gov June 17, 2020, (FR-6400-N-19). The competition closed on August 18, 2020. HUD rated and selected for funding based on selection criteria contained in the NOFO. This competition awarded $10,000,000 to 4 recipients to funds eligible national and regional non-profit organizations and consortia to purchase home sites and develop or improve the infrastructure needed to set the stage for sweat equity and volunteer-based homeownership programs for low-income persons and families.

HUD posted FY2020 Veterans Housing Rehabilitation and Modification Pilot Program (VHRMP) Grant Program on grants.gov June 17, 2020, (FR-6400-N-39). The competition closed on August 18, 2020. HUD rated and selected for funding based on selection criteria contained in the NOFO. This competition awarded $3,999,992 to 4 recipients to provide nationwide or statewide programs which primarily serve low-income veterans living with disabilities who need adaptive housing to help them regain or maintain their independence. Through the VHRMP program, grantees will make necessary physical modifications to address the adaptive housing needs of eligible veterans, including wheelchair ramps, widening exterior and interior doors, reconfiguring, and reequipping bathrooms, or adding a bedroom or bathroom for the veteran.

HUD posted FY2018 Fair Housing Initiatives Program (FHIP): Education and Outreach Initiative (EOI) Grant Program on grants.gov October 29, 2018, (FR-6200-N-21A). The competition closed on December 18, 2018. HUD rated and selected for funding based on selection criteria contained in the NOFO. This competition awarded $8,754,521.87 to 64 recipients to develop, implement, carry out, and coordinate education and outreach programs designed to inform members of the public concerning their rights and obligations under the provisions of the Fair Housing Act. Under the EOI NOFO, activities eligible for funding include but are not limited to developing educational advertising campaigns, developing, and distributing material, and conducting educational activities that inform people of their rights and responsibilities under the Fair Housing Act.

HUD posted FY2018 Fair Housing Initiatives Program (FHIP): Fair Housing Organizations Initiative (FHOI) Grant Program on grants.gov October 29, 2018, (FR-6200-N-21B). The competition closed on December 18, 2018. HUD rated and selected for funding based on selection criteria contained in the NOFO. This competition awarded $500,000 to 2 non-profit fair housing organizations recipients to build their capacity and effectiveness to conduct enforcement related activities eligible for funding including but not limited to: (1) Adding an enforcement staff and enforcement-related activities (e.g., to an existing fair housing education organization); and (2) expanding testing expertise and experience.

HUD posted FY2018 Fair Housing Initiatives Program (FHIP): Private Enforcement Initiative (PEI) Grant Program on grants.gov October 29, 2018, (FR-6200-N-21C). The competition closed on December 18, 2018. HUD rated and selected for funding based on selection criteria contained in the NOFO. This competition awarded $30,095,473.13 to 101 recipients to conduct testing, investigate violations and obtain enforcement of the rights granted under the Fair Housing Act or State or local laws that are substantially equivalent to the rights and remedies provided in the Fair Housing Act. Under the PEI NOFO, activities eligible for funding include but are not limited to intake of allegations of violations of the Fair Housing Act, testing, evaluating testing results, and providing other investigative work to provide a just resolution for violations of the Fair Housing Act that may violate federal, state or substantially equivalent local fair housing laws; investigation of violations of the Fair Housing Act, through testing and other investigative methods including systemic investigations; mediation or other voluntary resolution of allegations of violations of the Fair Housing Act; litigation of fair housing cases, including procuring expert witnesses, and fair housing education activities.

HUD posted FY2019 Fair Housing Initiatives Program (FHIP): Education and Outreach Initiative (EOI) Grant Program on grants.gov December 19, 2019, (FR-6300-N-21A). The competition closed on February 6, 2020. HUD rated and selected for funding based on selection criteria contained in the NOFO. This competition awarded $8,687,983.67 to 69 recipients to develop, implement, carry out, and coordinate education and outreach programs designed to inform members of the public concerning their rights and obligations under the provisions of the Fair Housing Act. Under the EOI NOFO, activities eligible for funding include but are not limited to developing educational advertising campaigns, developing, and distributing material, and conducting educational activities that inform people of their rights and responsibilities under the Fair Housing Act.

HUD posted FY2019 Fair Housing Initiatives Program (FHIP): Fair Housing Organizations Initiative (FHOI) Grant Program on grants.gov December 19, 2018, (FR-6300-N-21B). The competition closed on February 6, 2020. HUD rated and selected for funding based on selection criteria contained in the NOFO. This competition awarded $250,000 to 1 non-profit fair housing organizations recipients to build their capacity and effectiveness to conduct enforcement related activities eligible for funding including but not limited to: (1) Adding an enforcement staff and enforcement-related activities (e.g., to an existing fair housing education organization); and (2) expanding testing expertise and experience.

HUD posted FY2019 Fair Housing Initiatives Program (FHIP): Private Enforcement Initiative (PEI) Grant Program on grants.gov December 19, 2019, (FR-6300-N-21C). The competition closed on February 6, 2020. HUD rated and selected for funding based on selection criteria contained in the NOFO. This competition awarded $29,762,016.46 to 100 recipients to conduct testing, investigate violations and obtain enforcement of the rights granted under the Fair Housing Act or State or local laws that are substantially equivalent to the rights and remedies provided in the Fair Housing Act. Under the PEI NOFO, activities eligible for funding include but are not limited to intake of allegations of violations of the Fair Housing Act, testing, evaluating testing results, and providing other investigative work to provide a just resolution for violations of the Fair Housing Act that may violate federal, state or substantially equivalent local fair housing laws; investigation of violations of the Fair Housing Act, through testing and other investigative methods including systemic investigations; mediation or other voluntary resolution of allegations of violations of the Fair Housing Act; litigation of fair housing cases, including procuring expert witnesses, and fair housing education activities.

HUD posted FY2020 Fair Housing Initiatives Program (FHIP): Education and Outreach Initiative (EOI) Grant Program on grants.gov April 8, 2020, (FR-6400-N-21A). The competition closed on May 11, 2020. HUD rated and selected for funding based on selection criteria contained in the NOFO. This competition awarded $6,231,350.76 to 49 recipients to develop, implement, carry out, and coordinate education and outreach programs designed to inform members of the public concerning their rights and obligations under the provisions of the Fair Housing Act. Under the EOI NOFO, activities eligible for funding include but are not limited to developing educational advertising campaigns, developing, and distributing material, and conducting educational activities that inform people of their rights and responsibilities under the Fair Housing Act.

HUD posted FY2020 Fair Housing Initiatives Program (FHIP): Fair Housing Organizations Initiative (FHOI) Grant Program on grants.gov April 8, 2020, (FR-6400-N-21B). The competition closed on May 11, 2020. HUD rated and selected for funding based on selection criteria contained in the NOFO. This competition awarded $500,000 to 2 non-profit fair housing organizations recipients to build their capacity and effectiveness to conduct enforcement related activities eligible for funding including but not limited to: (1) Adding an enforcement staff and enforcement-related activities (e.g., to an existing fair housing education organization); and (2) expanding testing expertise and experience.

HUD posted FY2020 Fair Housing Initiatives Program (FHIP): Private Enforcement Initiative (PEI) Grant Program on grants.gov April 8, 2020, (FR-6400-N-21C). The competition closed on May 11, 2020. HUD rated and selected for funding based on selection criteria contained in the NOFO. This competition awarded $34,269,516.46 to 96 recipients to conduct testing, investigate violations and obtain enforcement of the rights granted under the Fair Housing Act or State or local laws that are substantially equivalent to the rights and remedies provided in the Fair Housing Act. Under the PEI NOFO, activities eligible for funding include but are not limited to intake of allegations of violations of the Fair Housing Act, testing, evaluating testing results, and providing other investigative work to provide a just resolution for violations of the Fair Housing Act that may violate federal, state or substantially equivalent local fair housing laws; investigation of violations of the Fair Housing Act, through testing and other investigative methods including systemic investigations; mediation or other voluntary resolution of allegations of violations of the Fair Housing Act; litigation of fair housing cases, including procuring expert witnesses, and fair housing education activities.

HUD posted FY2020 Fair Housing Initiatives Program (FHIP): COVID-19 Education and Outreach Initiative (COVID) Grant Program on grants.gov June 8, 2020, (FR-6400-N-70). The competition closed on July 8, 2020. HUD rated and selected for funding based on selection criteria contained in the NOFO. This competition awarded $990,000 to 26 recipients to create and disseminate fair housing education and outreach materials designed to inform members of the public concerning their rights and obligations under the Fair Housing Act in COVID-19 affected areas.

HUD posted FY2020 Lead Hazard Reduction Grant Program on grants.gov July 22, 2020, (FR-6400-N-13). The competition closed on August 24, 2020. HUD rated and selected for funding based on selection criteria contained in the NOFO. This competition awarded $164,155,145.90 to 44 recipients to maximize the number of children under the age of six protected from lead poisoning by assisting states, cities, counties/parishes, Native American Tribes, or other units of local government in undertaking comprehensive programs to identify and control lead-based paint hazards in eligible privately-owned rental or owner-occupied housing populations.

HUD posted FY2020 Healthy Homes and Weatherization Cooperation Demonstration Grant Program on grants.gov September 10, 2020, (FR-6400-N-62). The competition closed on November 9, 2020. HUD rated and selected for funding based on selection criteria contained in the NOFO. This competition awarded $4,994,831 to 5 recipients to provide housing interventions in lower income households that are conducted jointly through the coordination of HUD's Office of Lead Hazard Control and Healthy Homes (OLHCHH)-funded Lead Hazard Control/Healthy Homes programs and Weatherization Assistance Program (WAP) grantees or sub-grantees funded by the U.S. Department of Energy (DOE) to determine whether this coordinated delivery of services achieves cost effectiveness and better outcomes, including resident health, in improving the safety and energy efficiency of homes.

HUD posted FY2019 Moving to Work Demonstration Program (PIH Notice-2018-17) on October 11, 2018 HUD rated and selected for funding based on selection criteria contained in the Notice. This competition awarded $775,000 to 31 recipients to apply for admission to the Moving to Work (MTW) Demonstration Program. MTW allows PHAs to design and test innovative, locally designed housing and self-sufficiency strategies for low-income families.

HUD posted FY2020 HBCU Cooperative Research in Housing Technologies Program on grants.gov September 15, 2020, (FR-6400-N-55). The competition closed on January 5, 2021. HUD rated and selected for funding based on selection criteria contained in the NOFO. This competition awarded $249,930 to 1 recipient to fund the homebuilding industry with new innovative construction, that lead to more affordable, energy efficient, resilient durable, disaster resistant for heathier homes.

HUD posted FY2020 Social and Economic Impacts of the CDBG and HOME Programs on grants.gov June 15, 2020, (FR-6400-N-57). The competition closed on August 17, 2020. HUD rated and selected for funding based on selection criteria contained in the NOFO. This competition awarded $494,687 to 2 recipients to develop a better understanding of the effects of specific eligible Community Development Block Grant (CDBG) and HOME Investment Partnerships Program activities.

HUD posted FY2020 Alternative Methods for Calculating Fair Market Rents (FMRs) in Rental Markets with Rapidly Rising Rents Program on grants.gov June 02, 2020, (FR-6400-N-60). The competition closed on August 04, 2020. HUD rated and selected for funding based on selection criteria contained in the NOFO. This competition awarded $499,973 to 2 recipients to provide a strong evidence base for policy, practice, and, ultimately, to improve the calculation of FMRs in areas with rising rents.

HUD posted FY2020 Choice Neighborhoods Planning Grant Program on grants.gov July 14, 2020, (FR-6400-N-38). The competition closed on September 14, 2020. HUD rated and selected for funding based on selection criteria contained in the NOFO. This competition awarded $4,910,000 to 11 recipients to support the development of comprehensive neighborhood revitalization plans which focused on directing resources to address three core goals: Housing, People and Neighborhoods. To achieve these core goals, communities must develop and implement a comprehensive neighborhood revitalization strategy, or Transformation Plan. The Transformation Plan will become the guiding document for the revitalization of the public and/or assisted housing units while simultaneously directing the transformation of the surrounding neighborhood and positive outcomes for families.

HUD published Notice PIH 2020-28 Foster Youth to Independence (FYI) initiative on October 06, 2020. This is not a competition and therefore has no closing date. HUD accepts a Public Housing Authority's (PHA) requests for FYI vouchers under the Notice on a rolling basis as funding remains available. Funding under this notice is dependent on the availability of appropriations. HUD approved applicants for funding based on selection criteria contained in the Notice. Through the Notice HUD has awarded $1,937,782 to 43 Public Housing Agencies (PHAs) to prevent and end homelessness among youth with a current or prior history of child welfare involvement processed and announced in HUD's press release dated November 17, 2020.

HUD posted FY2020 FY 2020 Family Self-Sufficiency Renewal Grant Program on grants.gov July 31, 2020, (FR-6400-N-04). The competition closed on August 20, 2020. HUD rated and selected for funding based on selection criteria contained in the NOFO. This competition awarded $77,745,862 to 680 recipients. HUD re-opened the competition by posting FY2020 FY 2020 Family Self-Sufficiency Renewal Supplemental Grant Program on grants.gov on December 21, 2020, (FR-6400-N-04). The supplemental competition closed on January 22, 2020. HUD rated and selected for funding based on selection criteria contained in the NOFO. This competition awarded $1,563,893 to14 recipients. The Family Self-Sufficiency program provides grants to Public Housing Authorities (PHAs) to support the salaries and training needs of FSS Program Coordinators who assist participating families receiving housing assistance through the Housing Choice Voucher (HCV/PBV) and Public Housing (PH) programs. FSS Program Coordinators develop local strategies to connect participating families to public and private resources to increase their earned income and financial empowerment, reduce or eliminate the need for welfare assistance, and make progress toward economic independence and self-sufficiency. PHAs and each individual participating family execute a five-year contract that incorporates the responsibilities of each party, as well as a training and services plan to help the family become more self-sufficient.

HUD posted FY2015 Tribal Veterans Affairs Supportive Housing (TRIBAL HUD VASH) Grant Program to grants.gov May 13, 2020, (PIH Notice 2020-10). The competition closed on July 13. HUD rated and selected for funding based on selection criteria contained in the NOFO. This competition awarded $3,268,172 to 26 recipients to renew rental assistance and associated administrative fees to all eligible Tribal HUD-VASH recipients initially funded with appropriated funds from Fiscal Year 2015.

HUD posted FY2020 Indian Community Development Block Grant Imminent Threat Coronavirus Aid, Relief, and Economic Security Grant Program (ICDBG-IT CARES) to grants.gov May 15, 2020, (PIH Notice 2020-11). The competition closed on June 01, 2020. HUD rated and selected for funding based on selection criteria contained in the NOFO. This competition awarded $100,00,000 to 96 recipients to provide Indian tribes with instructions on how to apply for Indian Community Development Block Grant (ICDBG) Imminent Threat funding provided under the Coronavirus Aid, Relief, and Economic Security Act (Pub. L. 116-136) (CARES Act), and other program requirements.

HUD posted FY2020 Indian Community Development Block Grant Imminent Threat Grant Program (ICDBG-IT) to grants.gov February 03, 2020, (FR-6400-N-23). The competition was non-competitive; first come first served. HUD rated and selected for funding based on selection criteria contained in the NOFO. This competition awarded $2,030,172 to 3 recipients to eliminate or lessen problems which pose an imminent threat to public health or safety of tribal residents.

HUD posted the Emergency Safety and Security annual funding and application PIH Notice 2019-22 on August 19, 2019, and later posted the related FY2019 Emergency Safety and Security (RD1), FY2019 Emergency Safety and Security (RD2), and FY2019 Emergency Safety and Security (RD3) Grant awards on HUD's website. Closing dates are not applicable to these grants. HUD reviewed and selected for funding based on selection criteria contained in the Notice. The grants awarded RD1 $1,399,059 to 21, RD2 $3,210,667 to 37, and RD3 $3,724,952 to 26 recipients to address the safety of public housing residents. These grants may be used to install, repair, or replace capital needs items including security systems/surveillance cameras, fencing, lighting systems, emergency alarm systems, window bars, deadbolt locks and doors.

HUD made available FY2020 Emergency Disaster Grants on December 10, 2020. Closing dates are not applicable to these grants. HUD reviewed and selected for funding based on selection criteria contained in the grant. The grants awarded $10,608,376 to 7 recipients to confront an emergency or a natural disaster. The definition of an emergency is an unforeseen or unpreventable event or occurrence that poses an immediate threat to the health and safety of the residents (including fire safety) that must be corrected within one year of funding. HUD made available FY2020 Emergency Receivership grants on July 14, 2020. The application process closed on October 12, 2020. HUD reviewed and selected for funding based on selection criteria contained in the grant. The grants awarded $34,650,000 to 3 recipients to assist Public Housing Agencies currently under receivership.

HUD made available FY2020 Emergency Safety and Security Grants on September 29, 20202. The application process closed on November 17, 2020. HUD reviewed and selected for funding based on selection criteria contained in the PIH notice 2020-25. The grants awarded $10,000,000 to 62 recipients to address the safety of public housing residents. These grants may be used to install, repair, or replace capital needs items including security systems/surveillance cameras, fencing, lighting systems, emergency alarm systems, window bars, deadbolt locks and doors.

HUD made available FY2021 Emergency Disaster Grants on March 04, 2020. Closing dates are not applicable to these grants. HUD reviewed and selected for funding based on selection criteria contained in the grant. The grants awarded $7,196,461 to 7 recipients to confront an emergency or a natural disaster. The definition of an emergency is an unforeseen or unpreventable event or occurrence that poses an immediate threat to the health and safety of the residents (including fire safety) that must be corrected within one year of funding.

In accordance with section 102(a)(4)(C) of the Department of Housing and Urban Development Reform Act of 1989 (103 Stat. 1987, 42 U.S.C. 3545(a)(4)(C)), the Department is publishing the awardees and the amounts of the awards in Appendix A-AG of this document.

Dorthera Yorkshire,
Director, Grants Management and Oversight, Office of the Chief Financial Officer.

Appendix A

FY2020 and FY2021 Community Compass Technical Assistance and Capacity Building Program (FR-6400-N-06)

Contact: Stephanie Stone, (202) 402-7418, communitycompass@hud.gov.

Organization | Street address | City | State | Zip code | FY20 P.L. 116-94 funding total | FY20 P.L. 116-136 funding total | Sum FY20 funding total amount
ICF Incorporated, L.L.C | 9300 Lee Highway | Fairfax | VA | 22031 | $9,990,000.00 | $1,000,000.00 | $10,990,000.00
Technical Assistance Collaborative | 15 Court Square | Boston | MA | 02108 | 1,405,000.00 | 0.00 | 1,405,000.00
Cloudburst Consulting Group, Inc | 8400 Corporate Drive | Landover | MD | 20785 | 2,580,000.00 | 750,000.00 | 3,330,000.00
Collaborative Solutions, Inc | P.O. Box 130159 | Birmingham | AL | 35213 | 490,000.00 | 0.00 | 490,000.00
FirstPic, Inc | 2614 Chapel Lake | Gambrills | MD | 21054 | 3,900,000.00 | 0.00 | 3,900,000.00
Local Initiatives Support Corporation | 28 Liberty Street | New York | NY | 10005 | 675,000.00 | 500,000.00 | 1,175,000.00
Econometrica, Inc | 7475 Wisconsin Avenue | Bethesda | MD | 20814 | 850,000.00 | 0.00 | 850,000.00
Homebase/The Center for Common Concerns | 870 Market Street | San Francisco | CA | 94102 | 750,000.00 | 0.00 | 750,000.00
TDA Consulting, Inc | 1110 Harvest Canyon | San Antonio | TX | 78258 | 865,000.00 | 750,000.00 | 1,615,000.00
CVR Associates, Inc | 2309 S MacDill Avenue | Tampa | FL | 33629 | 1,900,000.00 | 0.00 | 1,900,000.00
Du & Associates, Inc | 4350 East-West Highway | Bethesda | MD | 20814 | 550,000.00 | 0.00 | 500,000.00
CGI Federal Inc | 12601 Fair Lakes Circle | Fairfax | VA | 22033 | 250,000.00 | 0.00 | 250,000.00
American Institutes for Research (AIR) | 1000 Thomas Jefferson Street NW | Washington | DC | 20007 | 385,000.00 | 0.00 | 435,000.00
Association of Alaska Housing Authorities | 4300 Boniface Parkway | Anchorage | AK | 99504 | 1,000,000.00 | 0.00 | 1,000,000.00
Abt Associates, Inc | 6130 Executive Blvd | Rockville | MD | 20852 | 1,185,000.00 | 0.00 | 1,185,000.00
National Association for Latino Community Asset Builders | 5404 Wurzbach Road | San Antonio | TX | 78238 | 825,000.00 | 250,000.00 | 1,075,000.00
Enterprise Community Partners, Inc | 70 Corporate Center | Columbia | MD | 21044 | 2,525,000.00 | 750,000.00 | 3,275,000.00
Corporate F.A.C.T.S., Inc | 51248 Plymouth Valley Drive | Plymouth | MI | 48170 | 250,000.00 | 500,000.00 | 750,000.00
Capital Access, Inc | 220 Locust Street | Philadelphia | PA | 19106 | 325,000.00 | 500,000.00 | 825,000.00
National American Indian Housing Council | 122 C Street NW, Suite 350 | Washington | DC | 20001 | 2,600,000.00 | 0.00 | 2,600,000.00
Total |  |  |  |  | 33,300,000.00 | 5,000,000.00 | 38,300,000.00

Appendix B

FY2020 Self-Help Homeownership Opportunity Program (SHOP) (FR-6400-N-19)

Contact: Thann Young 202-402-4464.

Organization | Address | City | State | Zip code | Amount
Habitat for Humanity International | 322 West Lamar Street | Americus | GA | 31709-3423 | $5,341,907
Tierra del Sol Housing Corporation | P.O. Box 2626 | Anthony | NM | 88021-9346 | 2,043,781
Community Frameworks | 907 West Riverside Avenue | Spokane | WA | 98337-1902 | 1,320,232
Housing Assistance Council | 1025 Vermont Avenue NW, Suite 606 | Washington | DC | 20005-3516 | 1,294,080
Total |  |  |  |  | 10,000,000

Appendix C

FY2020 Veterans Housing Rehabilitation and Modification Pilot Program (VHRMP) Grant Program (FR-6400-N-39)

Contact: Jovette Gadson, Senior Community Planning and Development Specialist, 877-787-2526.

Organization | Address | City | State | Zip code | Amount
Habitat for Humanity International | 322 West Lamar Street | Americus | GA | 31709 | $1,000,000.00
Habitat for Humanity Michigan | 618 South Creyts Road, Suite A | Lansing | MI | 48917 | 1,000,000.00
Rebuilding Together, Inc | 999 North Capitol Street NE, Suite 701 | Washington | DC | 20002 | 999,992.00
St. Bernard Project | 2645 Toulouse Street | New Orleans | LA | 70119 | 1,000,000.00
Total |  |  |  |  | 3,999,992.00

Appendix D

FY2018 Fair Housing Initiatives Program (FHIP): Education and Outreach Initiative (EOI) (FR-6200-N-21A)

Contact: Kimberly Harley (202) 402-4753.

Recipient | Address | City | State | Zip code | Amount
Alaska Legal Services Corporation | 1016 W 6th Ave., Suite 200 | Anchorage | AK | 99501 | $125,000.00
Asian Americans for Equality, Inc | 2 Allen Street, 7th Floor | New York | NY | 10002 | 125,000.00
Bridgeport Neighborhood Trust | 570 State Street | Bridgeport | CT | 06604 | 125,000.00
California Rural Legal Assistance, Inc | 1430 Franklin Street, Suite 103 | Oakland | CA | 94612 | 125,000.00
Central Alabama Fair Housing Center | 2867 Zelda Road | Montgomery | AL | 36106 | 125,000.00
Champlain Valley Office of Economic Opportunity, Inc | 255 South Champlain St., Suite 9 | Burlington | VT | 05401 | 125,000.00
Chautauqua Opportunities, Inc | 17 West Courtney Street | Dunkirk | NY | 14048 | 125,000.00
Citizen Action of New Jersey | 625 Broad Street, Suite 270 | Newark | NJ | 7102 | 125,000.00
City of Baltimore, Office of Civil Rights & Wage Enforcement | 7 E Redwood Street, 9th Floor | Baltimore | MD | 21202 | 101,464.00
CNY Fair Housing, Inc | 731 James Street, Suite 200 | Syracuse | NY | 13203 | 125,000.00
Community Legal Services of Mid-Florida | 444 Seabreeze Blvd., Suite 150 | Daytona Beach | FL | 32118 | 125,000.00
Community Students Learning Center | 333 Yazoo Street | Lexington | MS | 39095 | 125,000.00
Connecticut Fair Housing Center | 60 Popieluszko Court | Hartford | CT | 6106 | 125,000.00
Consumer Action Network | 1300 L Street NW, Suite 1000 | Washington | DC | 20005 | 113,225.87
Denver Metro Fair Housing Center | 3280 Downing Street, Suite B | Denver | CO | 80205 | 124,505.00
Equal Rights Center | 820 First St NE, LL160 | Washington | DC | 20002 | 125,000.00
Fair Housing Advocates of Northern California | 1314 Lincoln Ave., Suite A | San Rafael | CA | 94901 | 125,000.00
Fair Housing Center of Central Indiana, Inc | 445 N Pennsylvania St., Suite 811 | Indianapolis | IN | 46204 | 125,000.00
Fair Housing Center of West Michigan | 20 Hall Street SE | Grand Rapids | MI | 49507 | 125,000.00
Fair Housing Center Southeastern Michigan | 301 W Michigan Avenue, Suite 321 | Ypsilanti | MI | 48197 | 125,000.00
Fair Housing Contact Service, Inc | 441 Wolf Ledges Parkway, Suite 200 | Akron | OH | 44311 | 125,000.00
Fair Housing Council of Oregon | 1221 SW Yamhill St., #305 | Portland | OR | 97205 | 125,000.00
Fair Housing Council of Suburban Philadelphia, Inc | 550 Pinetown Road, Suite 460 | Fort Washington | PA | 19034 | 125,000.00
Fair Housing Justice Center, Inc | 30-30 Northern Boulevard, Suite 302 | Long Island City | NY | 11101 | 125,000.00
Fair Housing Opportunities, Inc. dba Fair Housing Center | 432 N. Superior Street | Toledo | OH | 43604 | 125,000.00
Fair Housing Resource Center, Inc | 1100 Mentor Avenue | Painesville | OH | 44077 | 125,000.00
Greater New Orleans Fair Housing Action Center, Inc | 1340 Paydras Street, Suite 701 | New Orleans | LA | 70112 | 125,000.00
H.O.P.E. Inc D/B/A HOPE Fair Housing Center | 202 W Willow Ave., Suite 203 | Wheaton | IL | 60187 | 124,980.00
HCP of Illinois, Inc | 401 S LaSalle, Suite 1101 | Chicago | IL | 60605 | 125,000.00
High Plains Fair Housing Center | 406 Demers Ave | Grand Forks | ND | 58201 | 125,000.00
Housing and Economic Rights Advocates | 1814 Franklin Street, Suite 1040 | Oakland | CA | 94612 | 125,000.00
Housing Counseling Services | 2410 17th Street NW, Suite 100 | Washington | DC | 20009 | 125,000.00
Housing Opportunities Made Equal of Greater Cincinnati, Inc | 2400 Reading Road, Suite 118 | Cincinnati | OH | 45202 | 125,000.00
Housing Opportunities Made Equal of Virginia, Inc | 626 E Broad Street, Suite 400 | Richmond | VA | 23219 | 125,000.00
Housing Opportunities Made Equal, Inc | 1542 Main Street | Buffalo | NY | 14209 | 125,000.00
Housing Opportunities Project for Excellence, Inc | 11501 NW 2nd Avenue | Miami | FL | 33189 | 125,000.00
Housing Research & Advocacy Center | 2728 Euclid Ave., Suite 200 | Cleveland | OH | 44115 | 125,000.00
Idaho Legal Aid Services, Inc | 1447 S Tyrell Lane | Boise | ID | 83706 | 124,272.00
Inland Fair Housing and Mediation Board | 1500 S Haven Avenue, Suite 100 | Ontario | CA | 91761 | 125,000.00
Intermountain Fair Housing Council, Inc | 4696 W Overland Rd. Suite 140 | Boise | ID | 83705 | 124,903.00
Iowa Legal Aid | 1111 9th Street, Suite 23 | Des Moines | IA | 50314 | 60,017.00
Lancaster Housing Opportunity Partnership | 123 E King Street | Lancaster | PA | 17602 | 125,000.00
Latin United Community Housing Association | 3541 W North Avenue | Chicago | IL | 60647 | 125,000.00
Legal Aid of North Carolina, Inc | 224 S Dawson St. | Raleigh | NC | 27601 | 125,000.00
Legal Services of Eastern Michigan | 436 S Saginaw Street, Suite 101 | Flint | MI | 48502 | 125,000.00
Mental Health Advocacy Services, Inc | 3255 Wilshire Blvd., Suite 902 | Los Angeles | CA | 90010 | 125,000.00
Metropolitan Milwaukee Fair Housing Council | 759 North Milwaukee Street, Suite 500 | Milwaukee | WI | 53202 | 250,000.00
Metropolitan St. Louis Equal Housing and Opportunity Council | 1027 S Vandeventer Ave., 6th Floor | St. Louis | MO | 63110 | 125,000.00
Miami Valley Fair Housing Center, Inc | 505 Riverside Drive | Dayton | OH | 45405 | 125,000.00
National Association of Home Builders of the United States | 1201 15th Street, NW | Washington | DC | 20005 | 109,085.00
National Fair Housing Alliance | 1331 Pennsylvania Ave., NW, Suite 650 | Washington | DC | 20004 | 999,995.00
Northwest Fair Housing Alliance | 35 W Main, Suite 250 | Spokane | WA | 99201 | 125,000.00
Orange County Fair Housing Council, Inc | 1516 Brookhollow Dr., Suite A | Santa Ana | CA | 92705 | 125,000.00
Pathways To Success, Inc | 31 The Circle, Suite 1 | Georgetown | DE | 19947 | 125,000.00
Project Sentinel Inc | 1490 El Camino Real | Santa Clara | CA | 95050 | 125,000.00
South Suburban Housing Center | 18220 Harwood Ave, Suite 1 | Homewood | IL | 60430 | 125,000.00
SouthCoast Fair Housing, Inc | 257 Union Street | New Bedford | MA | 2740 | 125,000.00
Southwest Fair Housing Council | 177 N Church Ave., Suite 1104 | Tucson | AZ | 85701 | 125,000.00
Southwestern Pennsylvania Legal Services, Inc | 10 West Cherry Avenue | Washington | PA | 15205 | 125,000.00
Telamon Corporation | 5560 Munford Road, Suite 201 | Raleigh | NC | 27612 | 25,841.00
Telamon Corporation | 5560 Munford Road, Suite 201 | Raleigh | NC | 27612 | 99,159.00
The John Marshall Law School | 315 S Plymouth Court | Chicago | IL | 60604 | 124,989.00
Way Finders Inc | 120 Maple Street, Suite 400 | Springfield | MA | 01103 | 122,086.00
Westchester Residential Opportunities, Inc | 470 Mamaroneck Avenue, Suite 410 | White Plains | NY | 10605 | 125,000.00
Total |  |  |  |  | 8,754,521.87

Appendix E

FY2018 Fair Housing Initiatives Program (FHIP): Fair Housing Organizations Initiative (FHOI) (FR-6200-N-21B)

Contact: Kimberly Harley (202) 402-4753.

Organization | Address | City | State | Zip code | Amount
JCVision and Associates, Inc | P.O. Box 1972 | Hinesville | GA | 31310 | $250,000.00
National Community Reinvestment Coalition | 740 15 St. NW, 4th Floor | Washington | DC | 20005 | 250,000.00
Total |  |  |  |  | 500,000.00

Appendix F

FY2018 Fair Housing Initiatives Program (FHIP): Private Enforcement Initiative (PEI) (FR-6200-N-21C)

Contact: Kimberly Harley (202) 402-4753.

Recipient | Address | City | State | Zip | Amount
Access Living of Metropolitan Chicago | 115 West Chicago Avenue | Chicago | IL | 60654 | $300,000.00
Alaska Legal Services Corporation | 1016 W 6th Avenue, Suite 200 | Anchorage | AK | 99501 | 300,000.00
Austin Tenants' Council | 1640-B East 2nd St., Suite 150 | Austin | TX | 78702 | 300,000.00
Bay Area Legal Aid | 1735 Telegraph Avenue | Oakland | CA | 94612 | 300,000.00
Bay Area Legal Services, Inc | 1302 North 19th Street/Suite400 | Tampa | FL | 33605 | 300,000.00
Brooklyn Legal Services (formerly South Brooklyn Legal Svcs) | 105 Court Street | Brooklyn | NY | 11201 | 300,000.00
California Rural Legal Assistance, Inc | 1430 Franklin Street, Suite 103 | Oakland | CA | 94612 | 300,000.00
Central Alabama Fair Housing Center | 2867 Zelda Road | Montgomery | AL | 36106 | 300,000.00
Chicago Lawyers' Committee for Civil Rights Under Law, Inc | 100 N LaSalle St. | Chicago | IL | 60602 | 300,000.00
CNY Fair Housing, Inc | 731 James Street, Suite 200 | Syracuse | NY | 13203 | 300,000.00
Community Legal Aid Society, Inc | 100 W 10th Street, Suite 801 | Wilmington | DE | 19801 | 300,000.00
Community Legal Aid, Inc | 405 Main Street | Worcester | MA | 01608 | 300,000.00
Community Legal Services of Mid-Florida, Inc | 128 Orange Avenue | Daytona Beach | FL | 32114 | 300,000.00
Connecticut Fair Housing Center | 60 Popieluszko Court | Hartford | CT | 6106 | 300,000.00
CSA San Diego County | 131 Avocado Avenue | El Cajon | CA | 92020 | 300,000.00
Denver Metro Fair Housing Center | 3280 Downing St, Suite B | Denver | CO | 80205 | 297,651.81
Disability Law Center | 205 N 400 W | Salt Lake City | UT | 84103 | 282,830.00
Equal Rights Center | 11 Dupont Circle NW | Washington | DC | 20036 | 300,000.00
Fair Housing Advocates of Northern California | 1314 Lincoln Ave | San Rafael | CA | 94901 | 300,000.00
Fair Housing Center of Central Indiana, Inc | 445 N Pennsylvania St., Suite 811 | Indianapolis | IN | 46204 | 300,000.00
Fair Housing Center of Metropolitan Detroit | 220 Bagley | Detroit | MI | 48226 | 300,000.00
Fair Housing Center of Northern Alabama | 1820 7th Avenue North Suite 110 | Birmingham | AL | 35203 | 300,000.00
Fair Housing Center of Southeastern Michigan | P.O. Box 7825 | Ann Arbor | MI | 48107 | 300,000.00
Fair Housing Center of Southwest Michigan | 405 W Michigan Ave | Kalamazoo | MI | 49007 | 300,000.00
Fair Housing Center of the Greater Palm Beaches, Inc | 1300 W Lantana Road, Suite 200 | Lantana | FL | 33462 | 300,000.00
Fair Housing Center of Washington | 1517 Fawcett Ave Suite 250 | Tacoma | WA | 98402 | 300,000.00
Fair Housing Center of West Michigan | 20 Hall Street SE | Grand Rapids | MI | 49507 | 300,000.00
Fair Housing Contact Service, Inc | 441 Wolf Ledges Parkway, Suite 200 | Akron | OH | 44311 | 300,000.00
Fair Housing Continuum, Inc | 571 Haverty Ct., Suite W | Rockledge | FL | 32955 | 300,000.00
Fair Housing Council of Central California | 333 W Shaw Avenue Suite 14 | Fresno | CA | 93704 | 300,000.00
Fair Housing Council of Northern New Jersey | 131 Main Street, Suite 140 | Hackensack | NJ | 07601 | 300,000.00
Fair Housing Council of Oregon | 1221 SW YAMHILL ST, STE 305 | PORTLAND | OR | 97205 | 300,000.00
Fair Housing Council of Riverside County, Inc | P.O. Box 1068 | Riverside | CA | 92502 | 300,000.00
Fair Housing Council of Suburban Philadelphia, Inc | 550 Pinetown Road, Suite 460 | Fort Washington | PA | 19034 | 300,000.00
Fair Housing Justice Center, Inc | 30-30 Northern Boulevard, Suite 302 | Long Island City | NY | 11101 | 300,000.00
Fair Housing Opportunities of NW Ohio, Inc | 432 N Superior Street | Toledo | OH | 43604 | 300,000.00
Fair Housing Opportunities, Inc. dba Fair Housing Center | 432 N Superior Street | Toledo | OH | 43604 | 300,000.00
Fair Housing Partnership of Greater Pittsburgh | 2840 Liberty Ave | Pittsburgh | PA | 15222 | 300,000.00
Fair Housing Partnership of Greater Pittsburgh | 2840 Liberty Ave., Suite 205 | Pittsburgh | PA | 15222 | 300,000.00
Fair Housing Resource Center, Inc | 1100 Mentor Avenue | Painesville | OH | 44077 | 300,000.00
Fair Housing Rights Center in Southeastern Pennsylvania | 444 N 3rd Street, Suite 110 | Philadelphia | PA | 19123 | 300,000.00
Family Housing Advisory Services, Incorporated | 2401 Lake Street | Omaha | NE | 68111 | 300,000.00
Greater Bakersfield Legal Assistance, Inc. (GBLA) | 615 California Ave | Bakersfield | CA | 93304 | 300,000.00
Greater Houston Fair Housing Center, Inc | P.O. Box 292 | Houston | TX | 77001 | 300,000.00
Greater Napa Valley Fair Housing Center | 1804 Soscol Ave., Suite 203 | Napa | CA | 94559 | 300,000.00
Greater New Orleans Fair Housing Action Center, Inc | 404 South Jefferson Davis Parkway | New Orleans | LA | 70119 | 300,000.00
H.O.P.E. Inc d/b/a HOPE Fair Housing Center | 202 W Willow Ave., Suite 203 | Wheaton | IL | 60187 | 300,000.00
High Plains Fair Housing Center | 1405 1st Ave. N | Grand Forks | ND | 58201 | 205,000.00
Housing Education and Economic Development, Inc | 3405 Medgar Evers Boulevard | Jackson | MS | 39206 | 233,538.00
Housing Opportunities Made Equal of Greater Cincinnati, Inc | 2400 Reading Road, Suite 118 | Cincinnati | OH | 45202 | 300,000.00
Housing Opportunities Made Equal of Virginia, Inc | 626 E Broad Street, Suite 400 | Richmond | VA | 23219 | 300,000.00
Housing Opportunities Made Equal, Inc | 1542 Main Street | Buffalo | NY | 14209 | 300,000.00
Housing Opportunities Project for Excellence, Inc | 11501 N.W. 2nd Avenue | Miami | FL | 33168 | 300,000.00
Housing Research & Advocacy Center | 2728 Euclid Ave | Cleveland | OH | 44115 | 300,000.00
Inland Mediation Board | 1500 South Haven Avenue, Suite 100 | Ontario | CA | 91761 | 300,000.00
Intermountain Fair Housing Council, Inc | 4696 W Overland Rd., Suite 140 | Boise | ID | 83705 | 299,917.66
Jacksonville Area Legal Aid, Inc | 126 W Adams St | Jacksonville | FL | 32202 | 299,980.00
Legal Aid of Arkansas, Inc | 714 South Main | Jonesboro | AR | 72401 | 281,396.00
Legal Aid of North Carolina, Inc | 224 S Dawson St | Raleigh | NC | 27601 | 300,000.00
Legal Aid Services of Oklahoma, Inc | 2915 N Classen Blvd | Oklahoma City | OK | 73106 | 300,000.00
Legal Aid Society of Hawaii | 924 Bethel Street | Honolulu | HI | 96813 | 300,000.00
Legal Aid Society of Palm Beach County, Inc | 423 Fern Street Suite 200 | West Palm Beach | FL | 33401 | 300,000.00
Legal Aid Society of San Diego, Inc | 110 S Euclid Avenue | San Diego | CA | 92114 | 300,000.00
Legal Assistance of Western New York, Inc | 1 West Main Street | Rochester | NY | 14614 | 300,000.00
Legal Services of Eastern Michigan | 436 S Saginaw Street, Suite 101 | Flint | MI | 48502 | 300,000.00
Lexington Fair Housing Council, Inc | 207 E Reynolds Rd. Suite 130 | Lexington | KY | 40517 | 300,000.00
Long Island Housing Services, Inc | 640 Johnson Avenue | Bohemia | NY | 11716 | 300,000.00
Massachusetts Fair Housing Center Inc | 57 Suffolk Street | Holyoke | MA | 01040 | 300,000.00
Metro Fair Housing Services, Inc | 215 Lakewood Way SW, Suite 106 | Atlanta | GA | 30315 | 300,000.00
Metropolitan Fair Housing Council of Oklahoma, Inc | 312 Ne 28th Street, Suite 112 | Oklahoma City | OK | 73105 | 300,000.00
Metropolitan Milwaukee Fair Housing Council | 759 North Milwaukee Street | Milwaukee | WI | 53202 | 300,000.00
Metropolitan St. Louis Equal Housing and Opportunity Council | 1027 S Vandeventer Ave | St. Louis | MO | 63110 | 300,000.00
Miami Valley Fair Housing Center, Inc | 505 Riverside Drive | Dayton | OH | 45405 | 300,000.00
Mid-Minnesota Legal Assistance | 430 First Avenue North, Suite 300 | Minneapolis | MN | 55401 | 300,000.00
Mississippi Center for Justice | 5 Old River Place | Jackson | MS | 39202 | 300,000.00
Mobile Fair Housing Center | P.O. Box 16324 | Mobile | AL | 36616 | 300,000.00
Montana Fair Housing, Inc | 501 East Front Street, Suite 504 | Butte | MT | 59701 | 300,000.00
National Community Reinvestment Coalition | 740 15th St. NW | Washington | DC | 20005 | 300,000.00
National Fair Housing Alliance | 1101 Vermont Ave. NW, Suite 710 | Washington | DC | 20005 | 300,000.00
New Hampshire Legal Assistance | 117 N State Street | Concord | NH | 3301 | 300,000.00
North Texas Fair Housing Center | 8625 King George Drive, Suite 130 | Dallas | TX | 75235 | 300,000.00
Northwest Fair Housing Alliance | 35 W Main | Spokane | WA | 99201 | 300,000.00
Open Communities | 614 Lincoln Ave | Winnetka | IL | 60093 | 295,510.00
Orange County Fair Housing Council, Inc | 1516 Brookhollow Dr., Suite A | Santa Ana | CA | 92705 | 300,000.00
Pine Tree Legal Assistance | 88 Federal Street | Portland | ME | 04112 | 300,000.00
Prairie State Legal Services, Inc | 303 N Main Street, Suite 600 | Rockford | IL | 61101 | 300,000.00
Project Sentinel Inc | 1490 El Camino Real | Santa Clara | CA | 95050 | 300,000.00
Rogers Park Community Council dba Northside Community Res | 1530 W Morse Avenue | Chicago | IL | 60626 | 300,000.00
San Antonio Fair Housing Council, Inc | 4414 Centerview Drive, Suite 229 | San Antonio | TX | 78228 | 300,000.00
Silver State Fair Housing Council | 110 W Arroyo Street, Suite A | RENO | NV | 89509 | 300,000.00
South Suburban Housing Center | 18220 Harwood Avenue, Suite 1 | Homewood | IL | 60430 | 300,000.00
South Coast Fair Housing, Inc | 721 County Street | New Bedford | MA | 02740 | 300,000.00
Southern California Housing Rights Center | 3255 Wilshire Blvd., Suite 1150 | Los Angeles | CA | 90010 | 300,000.00
Southwest Fair Housing Council | 177 N Church Ave., Suite 1104 | Tucson | AZ | 85701 | 300,000.00
Southwestern Pennsylvania Legal Services, Inc | 10 West Cherry Ave | Washington | PA | 15301 | 300,000.00
Suffolk University | 8 Ashburton Place | Boston | MA | 02108 | 299,989.00
Tennessee Fair Housing Council | 107 Music City Circle, Suite 318 | Nashville | TN | 37214 | 300,000.00
The John Marshall Law School | 315 S Plymouth Court | Chicago | IL | 60604 | 299,660.66
Vermont Legal Aid, Inc | 264 North Winooski Avenue | Burlington | VT | 05401 | 300,000.00
West Tennessee Legal Services, Inc | 210 W Main Street | Jackson | TN | 38301 | 300,000.00
Westchester Residential Opportunities, Inc | 470 Mamaroneck Avenue, Suite 410 | White Plains | NY | 10605 | 300,000.00
Total |  |  | ...... |  | 30,095,473.13

Appendix G

FY2019 Fair Housing Initiatives Program (FHIP): Education and Outreach Initiative (EOI) (FR-6300-N-21A)

Contact: Kimberly Harley (202) 402-4753.

Organization name | Street address | City | State | Zip code | Award amount
Baltimore City Office of Equity and Civil Rights | 7 E Redwood Street | Baltimore | MD | 21202 | $125,000.00
Brooklyn Legal Services Corporation A | 260 Broadway, 2nd Floor | Brooklyn | NY | 11211 | 125,000.00
California Rural Legal Assistance, Inc | 1430 Franklin Street | Oakland | CA | 94612 | 125,000.00
Center for Community and Economic Development | 223 West Carolina Street, Suite D | Tallahassee | FL | 32301 | 125,000.00
Central Alabama Fair Housing Center | 2867 Zelda Road | Montgomery | AL | 36106 | 125,000.00
Champlain Valley Office of Economic Opportunity, Inc | 255 South Champlain St., Suite 9 | Burlington | VT | 5401 | 125,000.00
Chautauqua Opportunities, Inc | 17 West Courtney Street | Dunkirk | NY | 14048 | 125,000.00
Citizen Action of New Jersey | 625 Broad Street | Newark | NJ | 07102 | 125,000.00
City of Lincoln Nebraska | 555 South 10th Street | Lincoln | NE | 68508 | 125,000.00
CNY Fair Housing, Inc | 731 James Street, Suite 200 | Syracuse | NY | 13203 | 125,000.00
Connecticut Fair Housing Center, Inc | 60 Popieluszko Court | Hartford | CT | 06106 | 125,000.00
CSA San Diego County | 327 Van Houten Avenue | El Cajon | CA | 92020 | 101,586.98
Equal Rights Center | 820 First St NE, LL160 | Washington | DC | 20002 | 125,000.00
Fair Housing Advocates of Northern California | 1314 Lincoln Avenue | San Rafael | CA | 94901 | 125,000.00
Fair Housing Center of Central Indiana, Inc | 445 N Pennsylvania St., Suite 811 | Indianapolis | IN | 46204 | 125,000.00
Fair Housing Center of Southwest Michigan | 405 W Michigan Ave, Suite 6 | Kalamazoo | MI | 49007 | 123,605.00
Fair Housing Center of Washington | 1517 Fawcett Avenue, Suite 250 | Tacoma | WA | 98402 | 125,000.00
Fair Housing Center of West Michigan | 20 Hall Street SE | Grand Rapids | MI | 49507 | 125,000.00
Fair Housing Contact Service, Inc | 441 Wolf Ledges Parkway, Suite 200 | Akron | OH | 44311 | 125,000.00
Fair Housing Council of Northern New Jersey | 131 Main Street | Hackensack | NJ | 07601 | 125,000.00
Fair Housing Council of Oregon | 1221 SW Yamhill St. #305 | Portland | OR | 97205 | 125,000.00
Fair Housing Council of Riverside County, Inc | P.O. Box 1068 | Riverside | CA | 92502 | 125,000.00
Fair Housing Council of Suburban Philadelphia, Inc | 550 Pinetown Road, Suite 460 | Fort Washington | PA | 19034 | 125,000.00
Fair Housing Opportunities of Northwest Ohio, Inc | 432 N Superior Street | Toledo | OH | 43604 | 125,000.00
Fair Housing Resource Center, Inc | 1100 Mentor Avenue | Painesville | OH | 44077 | 125,000.00
Greenville County Human Relations Commission | 301 University Ridge | Greenville | SC | 29601 | 120,753.90
H.O.P.E Inc d/b/a HOPE Fair Housing Center | 202 W Willow | Wheaton | IL | 60187 | 125,000.00
HCP of Illinois, Inc | 401 S LaSalle Ste 1101 | Chicago | IL | 60605 | 125,000.00
High Plains Fair Housing Center | 406 Demers Ave | Grand Forks | ND | 58201 | 125,000.00
Housing Education and Economic Development, Inc | 3405 Medgar Evers Blvd | Jackson | MS | 39213 | 125,000.00
Housing Opportunities Made Equal of Greater Cincinnati | 2400 Reading Road | Cincinnati | OH | 45202 | 125,000.00
Housing Opportunities Made Equal of Virginia, Inc | 626 East Broad Street, Suite 400 | Richmond | VA | 23219 | 125,000.00
Housing Opportunities Made Equal, Inc | 1542 Main Street | Buffalo | NY | 14209 | 125,000.00
Housing Opportunities Project for Excellence (HOPE), Inc | 11501 NW 2nd Avenue | Miami | FL | 33168 | 125,000.00
Housing Research & Advocacy Center | 2728 Euclid Ave, Suite 200 | Cleveland | OH | 44115 | 125,000.00
Idaho Housing & Finance Association | P.O. Box 7899 | Boise | ID | 83707 | 123,750.00
Idaho Legal Aid Services | 1447 S Tyrell Lane | Boise | ID | 83706 | 114,944.00
Jacksonville Area Legal Aid, Inc | 126 West Adams St | Jacksonville | FL | 32202 | 125,000.00
Lancaster Housing Opportunity Partnership | 123 E King Street | Lancaster | PA | 17602 | 124,383.00
Legal Aid of Arkansas, Inc | 714 South Main | Jonesboro | AK | 72401 | 125,000.00
Legal Aid of North Carolina, Inc | 224 S Dawson Street | Raleigh | NC | 27601 | 125,000.00
Legal Aid Society of Palm Beach County, Inc | 423 Fern Street Suite 200 | West Palm Beach | FL | 33401 | 125,000.00
Legal Assistance of Western New York, Inc | 316 South Main Street | Geneva | NY | 14456 | 110,500.00
Legal Services of Eastern Michigan | 436 S Saginaw Street, Suite 101 | Flint | MI | 48502 | 125,000.00
Louisiana Fair Housing Action Center, Inc | 1340 Poydras St | New Orleans | LA | 70112 | 125,000.00
Mental Health Advocacy Services, Inc | 3255 Wilshire Blvd., Suite 902 | Los Angeles | CA | 90010 | 125,000.00
Metropolitan Fair Housing Council of Oklahoma, Inc | 312 NE 28th Street, Suite 112 | Oklahoma City | OK | 73105 | 125,000.00
Metropolitan Milwaukee Fair Housing Council | 759 North Milwaukee Street | Milwaukee | WI | 53202 | 125,000.00
Metropolitan St. Louis Equal Housing and Opportunity Council | 1027 S Vandeventer Ave | St. Louis | MO | 63110 | 125,000.00
Mississippi Center for Justice | 5 Old River Place, Suite 203 | Jackson | MS | 39202 | 125,000.00
Mobile Fair Housing Center, Inc | 602 Bel Air Blvd | Mobile | AL | 36606 | 124,150.00
National Fair Housing Alliance | 1331 Pennsylvania Ave. NW, Suite 650 | Washington | DC | 20004 | 250,000.00
Northwest Fair Housing Alliance | 35 W Main | Spokane | WA | 99201 | 125,000.00
Open Communities Alliance | 75 Charter Oak Avenue | Hartford | CT | 06106 | 125,000.00
Orange County Fair Housing Council, Inc | 2021 E 4th Street | Santa Ana | CA | 92705 | 125,000.00
Silver State Fair Housing Council | 110 W Arroyo Street | Reno | NV | 89431 | 124,502.00
Solo Por Hoy, Inc | 1716 Calle Santa Ines | San Juan | PR | 00921 | 125,000.00
South Coast Fair Housing, Inc | 257 Union Street | New Bedford | MA | 02740 | 125,000.00
Southwest Fair Housing Council | 177 N Church Ave | Tucson | AZ | 85701 | 125,000.00
Southwestern Pennsylvania Legal Services, Inc | 10 West Cherry Avenue | Washington | PA | 15301 | 125,000.00
Suffolk University | 8 Ashburton Place | Boston | MA | 02108 | 125,000.00
Telamon Corporation | 5560 Munford Rd | Raleigh | NC | 27612 | 125,000.00
Texas Department of Housing and Community Affairs | P.O. Box 13941 | Austin | TX | 78711 | 124,866.79
The Board of Trustees of the University of Illinois | 809 S Marshfield Avenue | Chicago | IL | 60612 | 122,182.00
Vermont Legal Aid, Inc | 264 N Winooski Ave. | Burlington | VT | 05401 | 125,000.00
Veterans Center, Inc | 8060 Webb Road | Riverdale | GA | 30274 | 125,000.00
Way Finders, Inc | 120 Maple Street, Suite 400 | Springfield | MA | 01103 | 122,760.00
West Tennessee Legal Services, Inc | 210 W Main Street | Jackson | TN | 38301 | 125,000.00
Westchester Residential Opportunities, Inc | 470 Mamaroneck Avenue, Suite 410 | White Plains | NY | 10605 | 125,000.00
Total |  |  | ...... |  | 8,687,983.67

Appendix H

FY2019 Fair Housing Initiatives Program (FHIP): Fair Housing Organizations Initiative (FHOI) (FR-6300-N-21B)

Contact: Kimberly Harley (202) 402-4753.

Organization name | Street address | City | State | Zip code | Award amount
Open Communities Alliance | 75 Charter Oak Avenue | Hartford | CT | 06106 | $250,000.00
Total |  |  |  | ...... | 250,000.00

Appendix I

FY2019 Fair Housing Initiatives Program (FHIP): Private Enforcement Initiative (PEI) (FR-6300-N-21C)

Contact: Kimberly Harley (202) 402-4753.

Organization name | Street address | City | State | Zip code | Award amount
Access Living of Metropolitan Chicago | 115 West Chicago Avenue | Chicago | IL | 60654 | $300,000.00
Alaska Legal Services Corporation | 1016 W 6th Avenue, Suite 200 | Anchorage | AK | 99501 | 300,000.00
Austin Tenants Council | 205 Chicon Street | Austin | TX | 78702 | 300,000.00
Bay Area Legal Aid | 1735 Telegraph Avenue | Oakland | CA | 94612 | 300,000.00
Bay Area Legal Services, Inc | 1302 North 19th Street/Suite400 | Tampa | FL | 33605 | 300,000.00
Brooklyn Legal Services, Inc | 105 Court Street | Brooklyn | NY | 11201 | 300,000.00
California Rural Legal Assistance, Inc | 1430 Franklin Street, Suite 103 | Oakland | CA | 94612 | 300,000.00
Central Alabama Fair Housing Center | 2867 Zelda Road | Montgomery | AL | 36106 | 300,000.00
Chicago Lawyers' Committee for Civil Rights under Law | 100 N LaSalle Street | Chicago | IL | 60602 | 279,831.33
CNY Fair Housing, Inc | 731 James Street, Suite 200 | Syracuse | NY | 13203 | 300,000.00
Community Legal Aid Society, Inc | 100 W 10th Street, Suite 801 | Wilmington | DE | 19801 | 300,000.00
Community Legal Aid, Inc | 405 Main St | Worcester | MA | 01608 | 300,000.00
Community Legal Services of Mid-Florida, Inc | 128 Orange Avenue | Daytona Beach | FL | 32114 | 300,000.00
Connecticut Fair Housing Center | 60 Popieluszko Court | Hartford | CT | 06106 | 300,000.00
CSA San Diego County | 3280 Downing St | El Cajon | CA | 92020 | 300,000.00
Denver Metro Fair Housing Center | 3280 Downing St | Denver | CO | 80205 | 297,651.81
Disability Law Center | 205 N 400 W | Salt Lake City | UT | 84103 | 299,580.00
Equal Rights Center | 820 First St NE, LL160 | Washington | DC | 20002 | 300,000.00
Fair Housing Advocates of Northern California | 1314 Lincoln Avenue | San Rafael | CA | 94901 | 300,000.00
Fair Housing Center of Central Indiana, Inc | 445 N Pennsylvania St., Suite 811 | Indianapolis | IN | 46204 | 300,000.00
Fair Housing Center of Metropolitan Detroit | 220 Bagley | Detroit | MI | 48226 | 300,000.00
Fair Housing Center of Northern Alabama | 1820 7th Avenue North-Suite 110 | Birmingham | AL | 35203 | 300,000.00
Fair Housing Center of Southeastern Michigan | P.O. Box 7825 | Ann Arbor | MI | 48107 | 300,000.00
Fair Housing Center of Southwest Michigan | 405 W Michigan Ave | Kalamazoo | MI | 49007 | 300,000.00
Fair Housing Center of the Greater Palm Beaches, Inc | 1300 W Lantana Road, Suite 200 | Lantana | FL | 33462 | 300,000.00
Fair Housing Center of Washington | 1517 Fawcett Ave., Suite 250 | Tacoma | WA | 98402 | 300,000.00
Fair Housing Center of West Michigan | 20 Hall Street SE | Grand Rapids | MI | 49507 | 300,000.00
Fair Housing Contact Service, Inc | 441 Wolf Ledges Parkway, Suite 200 | Akron | OH | 44311 | 300,000.00
Fair Housing Council of Central California | 333 W Shaw Avenue, Suite 14 | Fresno | CA | 93704 | 300,000.00
Fair Housing Council of Northern New Jersey | 131 Main Street | Hackensack | NJ | 07601 | 300,000.00
Fair Housing Council of Oregon | 1221 SW Yamhill St #305 | Portland | OR | 97205 | 300,000.00
Fair Housing Council of Riverside County, Inc | P.O. Box 1068 | Riverside | CA | 92502 | 300,000.00
Fair Housing Council of Suburban Philadelphia, Inc | 550 Pinetown Road, Suite 460 | Fort Washington | PA | 19034 | 300,000.00
Fair Housing Justice Center, Inc | 30-30 Northern Boulevard, Suite 302 | Long Island City | NY | 11101 | 300,000.00
Fair Housing Opportunities, Inc dba Fair Housing Center | 432 N Superior Street | Toledo | OH | 43604 | 300,000.00
Fair Housing Partnership of Greater Pittsburgh | 2840 Liberty Ave | Pittsburgh | PA | 15222 | 300,000.00
Fair Housing Resource Center, Inc | 1100 Mentor Avenue | Painesville | OH | 44077 | 300,000.00
Fair Housing Rights Center in Southeastern Pennsylvania | 444 N 3rd Street, Suite 110 | Philadelphia | PA | 19123 | 300,000.00
Family Housing Advisory Services, Incorporated | 2401 Lake Street | Omaha | NE | 68111 | 300,000.00
Greater Bakersfield Legal Assistance, Inc (GBLA) | 615 California Ave | Bakersfield | CA | 93304 | 300,000.00
Greater Houston Fair Housing Center, Inc | P.O. Box 292 | Houston | TX | 77001 | 300,000.00
Greater Napa Valley Fair Housing Center | 1804 Soscol Ave | Napa | CA | 94559 | 300,000.00
H.O.P.E. Inc d/b/a HOPE Fair Housing Center | 202 W Willow Ave, Suite 203 | Wheaton | IL | 60187 | 300,000.00
High Plains Fair Housing Center | 1405 1st Ave N | Grand Forks | ND | 58201 | 205,000.00
Housing Education and Economic Development, Inc | 3405 Medgar Evers Blvd | Jackson | MS | 39213 | 300,000.00
Housing Opportunities Made Equal of Greater Cincinnati | 2400 Reading Road | Cincinnati | OH | 45202 | 300,000.00
Housing Opportunities Made Equal of Virginia, Inc | 626 E Broad Street, Suite 400 | Richmond | VA | 23219 | 300,000.00
Housing Opportunities Made Equal, Inc | 1542 Main Street | Buffalo | NY | 14209 | 300,000.00
Housing Opportunities Project for Excellence, Inc | 11501 NW 2nd Avenue | Miami | FL | 33168 | 300,000.00
Housing Research & Advocacy Center | 2728 Euclid Ave | Cleveland | OH | 44115 | 300,000.00
Inland Mediation Board | 1500 S Haven Avenue | Ontario | CA | 91761 | 300,000.00
Intermountain Fair Housing Council, Inc | 4695 W Overland Rd., Suite 140 | Boise | ID | 83705 | 299,917.66
Jacksonville Area Legal Aid, Inc | 126 W Adams St | Jacksonville | FL | 32202 | 299,980.00
John Marshall Law School | 315 S Plymouth Court | Chicago | IL | 60604 | 299,660.66
Legal Aid Chicago | 120 S LaSalle St | Chicago | IL | 60603 | 300,000.00
Legal Aid of Arkansas, Inc | 714 South Main | Jonesboro | AR | 72401 | 281,396.00
Legal Aid of North Carolina, Inc | 224 S Dawson St. | Raleigh | NC | 27601 | 300,000.00
Legal Aid Services of Oklahoma, Inc | 2915 N Classen Blvd., Suite 500 | Oklahoma City | OK | 73106 | 300,000.00
Legal Aid Society of Hawaii | 924 Bethel Street | Honolulu | HI | 96813 | 300,000.00
Legal Aid Society of Palm Beach County, Inc | 423 Fern Street Suite 200 | West Palm Beach | FL | 33401 | 300,000.00
Legal Aid Society of San Diego, Inc | 110 South Euclid Avenue | San Diego | CA | 92114 | 203,500.00
Legal Assistance of Western New York, Inc | 361 South Main Street | Geneva | NY | 14456 | 300,000.00
Legal Services of Eastern Michigan | 436 S Saginaw Street, Suite 101 | Flint | MI | 48502 | 300,000.00
Lexington Fair Housing Council, Inc | 207 E Reynolds Rd., Suite 130 | Lexington | KY | 40517 | 300,000.00
Long Island Housing Services, Inc | 640 Johnson Avenue | Bohemia | NY | 11716 | 300,000.00
Massachusetts Fair Housing Center, Inc | 57 Suffolk Street | Holyoke | MA | 01040 | 300,000.00
Metro Fair Housing Services, Inc | 215 Lakewood Way SW, Suite 106 | Atlanta | GA | 30315 | 300,000.00
Metropolitan Fair Housing Council of Oklahoma, Inc | 312 NE 28th Street, Suite 112 | Oklahoma City | OK | 73105 | 300,000.00
Metropolitan Milwaukee Fair Housing Council | 759 North Milwaukee Street | Milwaukee | WI | 53202 | 300,000.00
Metropolitan St. Louis Equal Housing and Opportunity Council | 1027 S Vandeventer Ave | St. Louis | MO | 63110 | 300,000.00
Miami Valley Fair Housing Center, Inc | 505 Riverside Drive | Dayton | OH | 45405 | 300,000.00
Mid-Minnesota Legal Assistance | 111 N Fifth Street, Suite 100 | Minneapolis | MN | 55403 | 300,000.00
Mississippi Center for Justice | 5 Old River Place | Jackson | MS | 39202 | 300,000.00
Mobile Fair Housing Center | P.O. Box 16324 | Mobile | AL | 36616 | 300,000.00
Montana Fair Housing, Inc | 501 East Front Street, Suite 504 | Butte | MT | 59701 | 300,000.00
National Community Reinvestment Coalition | 740 15th St. NW | Washington | DC | 20005 | 300,000.00
National Fair Housing Alliance | 1101 Vermont Ave. NW, Suite 710 | Washington | DC | 20005 | 300,000.00
New Hampshire Legal Assistance | 117 N State Street | Concord | NH | 03301 | 300,000.00
New Jersey Citizen Action Education Fund, Inc | 625 Broad Street | Newark | NJ | 07102 | 300,000.00
North Texas Fair Housing Center | 8625 King George Drive, Suite 130 | Dallas | TX | 75235 | 300,000.00
Northwest Fair Housing Alliance | 35 W Main | Spokane | WA | 99201 | 300,000.00
Ohio State Legal Services Association | 1108 City Park Avenue | Columbus | OH | 43206 | 300,000.00
Open Communities | 614 Lincoln Avenue | Winnetka | IL | 60093 | 295,510.00
Orange County Fair Housing Council, Inc | 1516 Brookhollow Dr | Santa Ana | CA | 92705 | 300,000.00
Pine Tree Legal Assistance Inc | 88 Federal Street, P.O. Box 547 | Portland | ME | 04112 | 300,000.00
Prairie State Legal Services, Inc | 303 N Main Street, Suite 600 | Rockford | IL | 61101 | 300,000.00
Project Sentinel Inc | 1490 El Camino Real | Santa Clara | CA | 95050 | 300,000.00
Rogers Park Community Council dba Northside Community Res. | 1530 W Morse Avenue | Chicago | IL | 60626 | 300,000.00
San Antonio Fair Housing Council, Inc | 4414 Centerview Drive, Suite 229 | San Antonio | TX | 78228 | 300,000.00
Silver State Fair Housing Council | 110 W Arroyo Street, Suite A | Reno | NV | 89509 | 300,000.00
South Suburban Housing Center | 18220 Harwood Avenue, Suite 1 | Homewood | IL | 60430 | 300,000.00
South Coast Fair Housing, Inc | 257 Union Street | New Bedford | MA | 02740 | 300,000.00
Southern California Housing Rights Center | 3255 Wilshire Blvd., Suite 1150 | Los Angeles | CA | 90010 | 300,000.00
Southwest Fair Housing Council | 177 N Church Ave | Tucson | AZ | 85719 | 300,000.00
Southwestern Pennsylvania Legal Services, Inc | 10 West Cherry Ave | Washington | PA | 15301 | 300,000.00
Suffolk University | 8 Ashburton Place | Boston | MA | 02108 | 299,989.00
Tennessee Fair Housing Council | 107 Music City Circle | Nashville | TN | 37214 | 300,000.00
Vermont Legal Aid, Inc | 264 North Winooski Avenue | Burlington | VT | 05401 | 300,000.00
West Tennessee Legal Services, Inc | 210 W Main Street | Jackson | TN | 38301 | 300,000.00
Westchester Residential Opportunities, Inc | 470 Mamaroneck Avenue, Suite 410 | White Plains | NY | 10605 | 300,000.00
Total |  |  | ...... |  | 29,762,016.46

Appendix J

FY2020 Fair Housing Initiatives Program (FHIP): Education and Outreach Initiative (EOI) (FR-6400-N-21A)

Contact: Kimberly Harley (202) 402-4753.

Organization name | Street address | City | State | Zip codes | Award amount
Alaska Legal Services Corporation | 1016 W 6th Ave., Suite 200 | Anchorage | AK | 99501 | $125,000.00
Bridgeport Neighborhood Trust | 570 State Street | Bridgeport | CT | 06604 | 125,000.00
California Rural Legal Assistance, Inc | 1430 Franklin Street, Ste. 103 | Oakland | CA | 94612 | 125,000.00
Central Alabama Fair Housing Center | 2867 Zelda Road | Montgomery | AL | 36016 | 125,000.00
Champlain Valley Office of Economic Opportunity, Inc | 255 South Champlain St., Suite 9 | Burlington | VT | 05401 | 114,013.00
Citizen Action of New Jersey | 625 Broad Street | Newark | NJ | 07102 | 125,000.00
CNY Fair Housing, Inc | 731 James Street, Suite 200 | Syracuse | NY | 13203 | 125,000.00
Community Legal Services of Mid-Florida, Inc | 122 E Colonial Dr., Ste. 200 | Orlando | FL | 32801 | 93,691.00
Connecticut Fair Housing Center | 60 Popieluszko Court | Hartford | CT | 06106 | 125,000.00
Consumer Credit Counseling Service of Maryland and Delaware | 6315 Hillside Court, Suite B | Columbia | MD | 21046 | 125,000.00
Equal Rights Center | 820 First St. NE, LL160 | Washington | DC | 20002 | 125,000.00
Fair Housing Advocates of Northern California | 1314 Lincoln Avenue, Ste. A | San Rafael | CA | 94901 | 125,000.00
Fair Housing Center of Central Indiana, Inc | 445 N Pennsylvania St., Suite 811 | Indianapolis | IN | 46204 | 125,000.00
Fair Housing Center of Southeastern Michigan | 301 W Michigan Avenue | Ypsilanti | MI | 48197 | 124,900.10
Fair Housing Center of West Michigan | 20 Hall Street SE | Grand Rapids | MI | 49505 | 125,000.00
Fair Housing Council of Oregon | 1221 SW Yamhill Street #305 | Portland | OR | 97205 | 125,000.00
Fair Housing Foundation | 3605 Long Beach Blvd | Long Beach | CA | 90807 | 125,000.00
Fair Housing Opportunities, Inc dba Fair Housing Center | 432 N Superior Street | Toledo | OH | 43604 | 125,000.00
Florida Legal Services, Inc | P.O. Box 533986 | Orlando | FL | 32853 | 125,000.00
Greater Napa Valley Fair Housing Center | 1804 Soscol Ave | Napa | CA | 94559 | 125,000.00
Hampton Roads Community Action Program, Inc | 2410 Wickham Avenue | Newport News | VA | 23607 | 91,270.66
Housing Opportunities Project for Excellence (HOPE), Inc | 11501 NW 2nd Avenue | Miami | FL | 33168 | 125,000.00
Inland Fair Housing and Mediation Board | 1500 South Haven Avenue, Suite 100 | Ontario | CA | 91761 | 125,000.00
Intermountain Fair Housing Council, Inc | 4696 W Overland Rd | Boise | ID | 83705 | 124,951.00
Iowa Legal Aid | 1111 9th Street, Suite 230 | Des Moines | IA | 50314 | 96,228.00
Legal Aid of Arkansas | 714 S Main Street | Jonesboro | AR | 72401 | 125,000.00
Legal Aid Society of San Diego, Inc | 110 South Euclid Avenue | San Diego | CA | 92114 | 125,000.00
Legal Aid Society of Palm Beach County, Inc | 423 Fern Street Suite 200 | West Palm Beach | FL | 33401 | 125,000.00
Legal Services of Eastern Michigan | 436 S Saginaw Street, Suite 101 | Flint | MI | 48502 | 108,947.00
Louisiana Fair Housing Action Center, Inc | 1340 Poydras St | New Orleans | LA | 70112 | 125,000.00
Mental Health Advocacy Services, Inc | 3255 Wilshire Blvd., Suite 902 | Los Angeles | CA | 90010 | 125,000.00
Miami Valley Fair Housing Center, Inc | 505 Riverside Drive | Dayton | OH | 45405 | 125,000.00
Mobile Fair Housing Center | 602 Bel Air Blvd | Mobile | AL | 36602 | 125,000.00
National Coalition for Asian Pacific American Community Dev | 1628—16th Street NW | Washington | DC | 20009 | 250,000.00
National Fair Housing Alliance | 1331 Pennsylvania Ave. NW, Suite 650 | Washington | DC | 20004 | 250,000.00
New Hampshire Legal Assistance | 117 North State Street | Concord | NH | 03301 | 124,710.00
Open Communities | 1880 Oak Ave., Suite 301 | Evanston | IL | 60201 | 125,000.00
Orange County Fair Housing Council, Inc | 2021 E 4th Street | Santa Ana | CA | 93705 | 125,000.00
Pathways to Success, Inc | 31 The Circle | Georgetown | DE | 19947 | 125,000.00
Project Sentinel, Inc | 1490 El Camino Real | Santa Clara | CA | 95050 | 125,000.00
Sonora Environmental Research Institute, Inc | 3202 E Grant Rd | Tucson | AZ | 85716 | 103,175.00
South Suburban Housing Center | 18220 Harwood Ave., Suite 1 | Homewood | IL | 60430 | 125,000.00
SouthCoast Fair Housing, Inc | 257 Union Street | New Bedford | MA | 02740 | 125,000.00
Southern California Housing Rights Center | 3255 Wilshire Blvd | Los Angeles | CA | 90010 | 125,000.00
Southwest Fair Housing Council | 177 N Church Ave | Tucson | AZ | 85701 | 125,000.00
Tennessee Fair Housing Council | 107 Music City Circle | Nashville | TN | 37214 | 125,000.00
The Board of Trustees of the University of Illinois | 809 S Marshfield Avenue | Chicago | IL | 60612 | 124,998.00
The Fair Housing Partnership of Greater Pittsburgh | 2840 Liberty Avenue | Pittsburgh | PA | 15222 | 125,000.00
The Fairmont Morgantown Housing Authority | 103 12th Street, P.O. Box 2738 | Fairmont | WV | 26555 | 124,467.00
Total |  |  | ...... |  | 6,231,350.76

Appendix K

FY2020 Fair Housing Initiatives Program (FHIP): Fair Housing Organizations Initiative (FHOI) (FR-64200-N-21B)

Contact: Kimberly Harley (202) 402-4753.

Organization name | Street address | City | State | Zip code | Award amount
JC Vision and Associates, Inc | P.O. Box 1972 | Hinesville | GA | 31310 | $250,000.00
Veterans Center, Incorporated | 8060 Webb Road | Riverdale | GA | 30274 | 250,000.00
Total |  |  | ...... |  | 500,000.00

Appendix L

FY2020 Fair Housing Initiatives Program (FHIP): Private Enforcement Initiative (PEI) (FR-6400-N-21C)

Contact: Kimberly Harley (202) 402-4753.

Organization name | Street address | City | State | Zip codes | Award amount
Access Living of Metropolitan Chicago | 115 West Chicago Avenue | Chicago | IL | 60654 | $360,000.00
Alaska Legal Services Corporation | 1016 W 6th Avenue | Anchorage | AK | 99051 | 360,000.00
Austin Tenants' Council | 1640-B East 2nd St., Suite 150 | Austin | TX | 78702 | 360,000.00
Bay Area Legal Aid | 1735 Telegraph Avenue | Oakland | CA | 94612 | 360,000.00
Bay Area Legal Services, Inc | 1302 North 19th Street, Suite 400 | Tampa | FL | 33605 | 360,000.00
Brooklyn Legal Services | 105 Court Street | Brookyn | NY | 11201 | 360,000.00
California Rural Legal Assistance, Inc | 1430 Franklin Street, Suite 103 | Oakland | CA | 94612 | 360,000.00
Central Alabama Fair Housing Center | 2867 Zelda Road | Montgomery | AL | 36106 | 360,000.00
Chicago Lawyers' Committee for Civil Rights Under L | 100 N LaSalle Street | Chicago | IL | 60602 | 339,831.33
CNY Fair Housing, Inc | 731 James Street, Suite 200 | Syracuse | NY | 13203 | 360,000.00
Community Legal Aid Society, Inc | 100 W 10th Street, Suite 801 | Wilmington | DE | 19801 | 360,000.00
Community Legal Aid, Inc | 405 Main Street | Worcester | MA | 01608 | 360,000.00
Connecticut Fair Housing Center | 60 Popieluszko Court | Hartford | CT | 06106 | 360,000.00
CSA San Diego County | 3280 Downing Street | El Cajon | CA | 92020 | 360,000.00
Denver Metro Fair Housing Center | 3280 Downing Street | Denver | CO | 80205 | 357,651.81
Disability Law Center | 205 N 400 W | Salt Lake City | UT | 84103 | 359,580.00
Equal Rights Center | 11 Dupont Circle, NW | Washington | DC | 20036 | 360,000.00
Fair Housing Advocates of Northern California | 1314 Lincoln Ave., Ste. A | San Rafael | CA | 94901 | 360,000.00
Fair Housing Center of Central Indiana, Inc | 445 N Pennsylvania St., Suite 811 | Indianapolis | IN | 46204 | 346,036.00
Fair Housing Center of Metropolitan Detroit | 5555 Conner St | Detroit | MI | 48213 | 360,000.00
Fair Housing Center of Northern Alabama | 1820 7th Avenue North, Suite 110 | Birmingham | AL | 35203 | 360,000.00
Fair Housing Center of Southwest Michigan | 405 W Michigan Ave., Suite 6 | Kalamazoo | MI | 49007 | 334,330.00
Fair Housing Center of the Greater Palm Beach, Inc | 1300 W Lantana Road, Suite 200 | Lantana | FL | 33462 | 360,000.00
Fair Housing Center of Washington | 1517 Fawcett Ave | Tacoma | WA | 98402 | 360,000.00
Fair Housing Center of West Michigan | 20 Hall Street SE | Grand Rapids | MI | 49507 | 360,000.00
Fair Housing Contact Service, Inc | 441 Wolf Ledges Parkway, Suite 200 | Akron | OH | 44311 | 360,000.00
Fair Housing Council of Northern New Jersey | 131 Main Street, Suite 140 | Hackensack | NJ | 07601 | 360,000.00
Fair Housing Council of Oregon | 1221 SW Yamhill Street #305 | Portfand | OR | 97205 | 360,000.00
Fair Housing Council of Riverside County, Inc | P.O. Box 1068 | Riverside | CA | 92502 | 360,000.00
Fair Housing Council of Suburban Philadelphia, Inc | 550 Pinetown Road, Suite 460 | Fort Washington | PA | 19034 | 360,000.00
Fair Housing Justice Center, Inc | 30-30 Northern Blvd., Suite 302 | Long Island City | NY | 11101 | 360,000.00
Fair Housing Opportunities Inc, Fair Housing Center | 432 N Superior Street | Toledo | OH | 43604 | 360,000.00
Fair Housing Partnership of Greater Pittsburgh | 2840 Liberty Ave | Pittsburgh | PA | 15222 | 360,000.00
Fair Housing Resource Center, Inc | 1100 Mentor Avenue | Painesville | OH | 44077 | 360,000.00
Fair Housing Rights Center in Southeastern PA | 444 N 3rd Street, Suite 110 | Philadelphia | PA | 19123 | 360,000.00
Fair Housing Ctr Southeastern Michigan | 301 W Michigan Avenue | Ypsilanti | MI | 48197 | 359,998.00
Family Housing Advisory Services, Inc | 2401 Lake Street | Omaha | NE | 68111 | 360,000.00
Greater Bakersfield Legal Assistance, Inc | 615 California Ave | Bakersfield | CA | 93304 | 360,000.00
Greater Houston Fair Housing Center, Inc | P.O. Box 292 | Houston | TX | 77001 | 360,000.00
Greater Napa Valley Fair Housing Center | 1804 Soscol Ave | Napa | CA | 94559 | 360,000.00
H.O.P.E., Inc, d.b.a. HOPE Fair Housing Center | 202 W Willow | Wheaton | IL | 60187 | 359,996.00
High Plains Fair Housing Center | 406 Demers Road | Grand Forks | ND | 58201 | 360,000.00
Housing Education and Economic Development, Inc | 3405 Medgar Evers Boulevard | Jackson | MS | 39206 | 360,000.00
Housing Opportunities Made Equal of Greater Cincinnati, Inc | 2400 Reading Road, Suite 118 | Cincinnati | OH | 45202 | 360,000.00
Housing Opportunities Made Equal of Virginia, Inc | 626 East Broad Street, Suite 400 | Richmond | VA | 23219 | 360,000.00
Housing Opportunities Made Equal, Inc | 1542 Main Street | Buffalo | NY | 14209 | 360,000.00
Housing Opportunities Project for Excellence (HOPE), Inc | 11501 NW 2nd Avenue | Miami | FL | 33168 | 360,000.00
Housing Research & Advocacy Center | 2728 Euclid Ave | Cleveland | OH | 44115 | 360,000.00
Inland Fair Housing and Mediation Board | 1500 South Haven Avenue, Suite 100 | Ontario | CA | 91761 | 360,000.00
Intermountain Fair Housing Council, Inc | 4695 W Overland Road, Suite 140 | Boise | ID | 83705 | 359,917.66
Jacksonville Area Legal Aid, Inc | 126 W Adams St | Jacksonville | FL | 32202 | 356,333.00
John Marshall Law School | 315 S Plymouth Court | Chicago | IL | 60604 | 359,660.66
Legal Aid Chicago | 120 S Lasalle Street | Chicago | IL | 60602 | 360,000.00
Legal Aid of Arkansas, Inc | 714 South Main | Jonesboro | AR | 72401 | 341,396.00
Legal Aid Services of Oklahoma, Inc | 2915 N Classen Blvd | Oklahoma City | OK | 73106 | 360,000.00
Legal Aid Society of Hawaii | 924 Bethel Street | Honolulu | HI | 96813 | 360,000.00
Legal Aid Society of Palm Beach County, Inc | 423 Fern Street, Suite 200 | West Palm Beach | FL | 33401 | 360,000.00
Legal Aid Society of San Diego, Inc | 110 South Euclid Avenue | San Diego | CA | 92114 | 263,500.00
Legal Assistance of Western New York, Inc | 1 West Main Street | Rochester | NY | 14614 | 360,000.00
Legal Services of Eastern Michigan | 436 S Saginaw Street, Suite 101 | Flint | MI | 48502 | 332,257.00
Lexington Fair Housing Council, Inc | 207 E Reynolds Rd., Suite 130 | Lexington | KY | 40517 | 360,000.00
Long Island Housing Services, Inc | 640 Johnson Avenue | Bohemia | NY | 11716 | 360,000.00
Louisiana Fair Housing Action Center, Inc | 1340 Poydras St | New Orleans | LA | 70112 | 360,000.00
Massachusetts Fair Housing Center Inc | 57 Suffolk Street | Holyoke | MA | 01040 | 360,000.00
Metro Fair Housing Services, Inc | 215 Lakewood Way SW, Suite 106 | Atlanta | GA | 30315 | 360,000.00
Metropolitan Fair Housing Council of Oklahoma, Inc | 312 NE 28th Street, Suite 112 | Oklahoma City | OK | 73105 | 360,000.00
Metropolitan Milwaukee Fair Housing Council | 759 North Milwaukee Street | Milwaukee | WI | 53202 | 360,000.00
Metropolitan St. Louis Equal Housing and Opportunity Council | 1027 S Vandeventer Ave | St. Louis | MO | 63110 | 360,000.00
Miami Valley Fair Housing Center, Inc | 505 Riverside Drive | Dayton | OH | 45405 | 360,000.00
Mid-Minnesota Legal Assistance | 430 First Avenue North, Suite 300 | Minneapolis | MN | 55401 | 360,000.00
Mississippi Center for Justice | 5 Old River Place, Suite 203 | Jackson | MS | 39215 | 360,000.00
Mobile Fair Housing Center | P.O. Box 16324 | Mobile | AL | 36616 | 360,000.00
Montana Fair Housing, Inc | 501 East Front Street, Suite 533 | Butte | MT | 59701 | 310,675.00
National Community Reinvestment Coalition | 740 15th Street NW | Washington | DC | 20005 | 360,000.00
National Fair Housing Alliance | 1331 Pennsylvania Ave. NW, Suite 650 | Washington | DC | 20004 | 360,000.00
New Hampshire Legal Assistance | 117 N State Street | Concord | NH | 03301 | 360,000.00
New Jersey Citizen Action Education Fund, Inc | 625 Broad Street | Newark | NJ | 07102 | 360,000.00
North Texas Fair Housing Center | 8625 King George Drive, Suite 130 | Dallas | TX | 75235 | 360,000.00
Northwest Fair Housing Alliance | 35 W Main, Suite 250 | Spokane | WA | 99201 | 360,000.00
Ohio State Legal Services Association | 1108 City Park Avenue | Columbus | OH | 43206 | 360,000.00
Orange County Fair Housing Council, Inc | 1516 Brookhollow Drive | Santa Ana | CA | 92705 | 360,000.00
Pine Tree Legal Assistance | 88 Federal Street | Portland | ME | 04112 | 360,000.00
Prairie State Legal Services, Inc | 303 N Main Street, Suite 600 | Rockford | IL | 61101 | 360,000.00
Project Sentinel Inc | 1490 El Camino Real | Santa Clara | CA | 95050 | 360,000.00
Rogers Park Community Council | 1530 W Morse Avenue | Chicago | IL | 60626 | 360,000.00
San Antonio Fair Housing Council, Inc | 4414 Centerview Drive, Suite 229 | San Antonio | TX | 78228 | 360,000.00
Silver State Fair Housing Council | 110 W Arroyo Street | Reno | NV | 89509 | 335,776.00
South Suburban Housing Center | 18220 Harwood Ave., Suite 1 | Homewood | IL | 60430 | 352,690.00
South Coast Fair Housing, Inc | 721 County Street | New Bedford | MA | 02740 | 360,000.00
Southern California Housing Rights Center | 3255 Wilshire Blvd | Los Angeles | CA | 90010 | 360,000.00
Southwest Fair Housing Council | 179 N Church Ave | Tucson | AZ | 85719 | 360,000.00
Southwestern Pennsylvania Legal Services, Inc | 10 West Cherry Avenue | Washington | PA | 15205 | 360,000.00
Suffolk University | 8 Ashburton Place | Boston | MA | 02108 | 359,888.00
Tennessee Fair Housing Council | 107 Music City Circle | Nashville | TN | 37214 | 360,000.00
West Tennessee Legal Services, Inc | 210 W Main Street | Jackson | TN | 38301 | 360,000.00
Westchester Residential Opportunities, Inc | 470 Mamaroneck Avenue, Suite 410 | White Plains | NY | 10605 | 360,000.00
Total |  |  | ...... |  | 34,269,516.46

Appendix M

FY2020 Fair Housing Initiatives Program (FHIP): COVID-19 Education and Outreach (FR-6400-N-70)

Contact: Kimberly Harley (202) 402-4753.

Organization name | Street address | City | State | Zip codes | Award amount
Baltimore City Office of Equity and Civil Rights | 7 E Redwood Street | Baltimore | MD | 21202 | $20,000.00
Bridgeport Neighborhood Trust, Inc | 570 State Street | Bridgeport | CT | 06605 | 20,000.00
Citizen Action of New Jersey | 625 Broad Street | Newark | NJ | 07102 | 20,000.00
Consumer Credit Counseling of Maryland & Delaware, Inc | 6315 Hillside Court | Columbia | MD | 21046 | 20,000.00
CSA San Diego County | 327 Van Houten Avenue | El Cajon | CA | 92020 | 20,000.00
Fair Housing Advocates of Northern California | 1314 Lincoln Avenue, Ste A | San Rafael | CA | 94901 | 20,000.00
Fair Housing Center of Northern Alabama | 1820 7th Avenue North | Birmingham | AL | 35203 | 20,000.00
Fair Housing Center of West Michigan | 20 Hall Street SE | Grand Rapids | MI | 49507 | 20,000.00
Fair Housing Council of Northern New Jersey | 131 Main Street | Hackensack | NJ | 07601 | 20,000.00
Fair Housing Council of Oregon | 1221 SW Yamhill Street #305 | Portland | OR | 97205 | 20,000.00
Family Housing Advisory Services, Inc | 2401 Lake Street | Omaha | NE | 68111 | 20,000.00
Greater Houston Fair Housing Center, Inc | 2626 S Loop W | Houston | TX | 77001 | 20,000.00
High Plains Fair Housing Center | 406 Demers Road | Grand Forks | ND | 58201 | 20,000.00
Housing Opportunities Project for Excellence (HOPE), Inc | 11501 NW 2nd Avenue | Miami | FL | 33168 | 20,000.00
Inland Fair Housing and Mediation Board | 1500 South Haven Avenue, Suite 100 | Ontario | CA | 91761 | 20,000.00
Intermountain Fair Housing Council, Inc | 4696 W Overland Rd | Boise | ID | 83705 | 20,000.00
Iowa Legal Aid | 1111 9th Street | Des Moines | IA | 50314 | 20,000.00
Lancaster Housing Opportunity Partnership | 308 E King Street | Lancaster | PA | 17602 | 10,000.00
Mental Health Advocacy Services, Inc | 3255 Wilshire Blvd | Los Angeles | CA | 90010 | 20,000.00
Miami Valley Fair Housing Center, Inc | 505 Riverside Drive | Dayton | OH | 45405 | 20,000.00
National Fair Housing Alliance | 1331 Pennsylvania Ave. NW | Washington | DC | 20004 | 500,000.00
Northwest Fair Housing Alliance | 35 W Main | Spokane | WA | 99201 | 20,000.00
Orange County Fair Housing Council, Inc | 2021 E 4th Street | Santa Ana | ID | 93705 | 20,000.00
Project Sentinel, Inc | 1490 El Camino Real | Santa Clara | CA | 95050 | 20,000.00
Silver State Fair Housing Council | 110 W Arroyo Street | Reno | NV | 89509 | 20,000.00
Sonora Environmental Research Institute, Inc | 3202 E Grant Road | Tucson | AZ | 85716 | 20,000.00
Total |  |  | ...... |  | 990,000.00

Appendix N

FY 2020 Lead Hazard Reduction Grant Program (FR-6400-N-13)

Contact: Yolanda Brown (202) 402-7596.

Organization name | Street address | City | State | Zip/postal code | Award amount
City of Waterbury | One Jefferson Square | Waterbury | CT | 06706-1102 | $5,700,000.00
State of Connecticut | 505 Hudson Street | Hartford | CT | 06106 | 5,037,437.00
City of Bridgeport | 999 Broad Street | Bridgeport | CT | 06604-4060 | 3,562,689.00
City of Clinton | 611 South 3rd Street, P.O. Box 2958 | Clinton | IA | 52733-2958 | 2,800,700.00
City of Waterloo | 620 Mulberry Street | Waterloo | IA | 50703 | 3,384,678.00
City of Bloomington | 109 E Olive St. Economic/Community Development | Bloomington | IL | 61701 | 2,342,691.00
City of Baton Rouge | 222 St. Louis Street | Baton Rouge | LA | 70802 | 3,400,000.00
City of Alexandria | P.O. Box 71 | Alexandria | LA | 71309 | 2,694,573.00
City of New Bedford | 133 William Street | New Bedford | MA | 02740 | 2,400,000.00
City of Lawrence | 200 Common St | Lawrence | MA | 01840 | 5,004,920.00
City of Brockton | 50 School Street | Brockton | MA | 02301 | 4,700,000.00
Baltimore County | 105 W Chesapeake Avenue | Towson | MD | 21204 | 2,000,000.00
City of Lansing | 124 W Michigan Ave | Lansing | MI | 48933 | 4,589,940.00
City of Battle Creek | 10 N Division Street Community Development | Battle Creek | MI | 49014 | 3,400,000.00
City of Minneapolis | 250 S 4th St., Room 414 | Minneapolis | MN | 55417 | 5,700,000.00
Kansas City Missouri | 2400 Troost Avenue, Suite 4000 | Kansas City | MO | 64108 | 4,003,778.00
City of St. Louis | 1520 Market Street | St. Louis | MO | 63101 | 2,520,000.00
City of Greensboro | 300 Washington Street, Room 315 | Greensboro | NC | 27402 | 2,698,441.00
City of Lincoln | 555 South 10th Street Livable Neighborhoods | Lincoln | NE | 68508 | 3,400,000.00
County of Sullivan | 14 Main St | Newport | NH | 03773 | 1,703,524.00
City of Nashua | 229 Main Street | Nashua | NH | 03061 | 5,700,000.00
New Hampshire Housing Finance Authority | 32 Constitution Drive | Bedford | NH | 03110 | 4,983,542.00
City of Paterson | 155 Market Street | Paterson | NJ | 07505 | 3,400,000.00
City of Albany | Albany Community Development Agency, 200 Henry Johnson Blvd | Albany | NY | 12210 | 3,500,000.00
Chautauqua County | 3 N Erie St | Mayville | NY | 14757 | 3,000,000.00
City of New York | 100 Gold St | New York | NY | 10038 | 3,500,000.00
City of Buffalo | City Hall, 65 Niagara Square, Room 920 | Buffalo | NY | 14202 | 2,023,602.00
City of Schenectady | 105 Jay St | Schenectady | NY | 12305 | 3,406,500.46
County of Hamilton | 250 William Howard Taft 2nd Floor | Cincinnati | OH | 45219 | 2,000,000.00
City of Cincinnati | 801 Plum Street | Cincinnati | OH | 45202-0000 | 3,500,000.00
City of Toledo | One Government Center, Suite 1800 | Toledo | OH | 43604-2275 | 5,700,000.00
City of Lancaster | 105 E Main Street | Lancaster | OH | 43130 | 1,400,000.00
City of Portland (OR) | 1221 SW 5th Avenue | Portland | OR | 97204 | 3,600,000.00
Westmoreland County | 40 North Pennsylvania Avenue | Greensburg | PA | 15601-2341 | 3,400,000.00
City of Allentown | 435 Hamilton Street | Allentown | PA | 18101 | 5,700,000.00
Redevelopment Authority of the City of Erie (PA) | 626 State Street, Room 107 | Erie | PA | 16501 | 3,011,446.00
Allegheny County | Chatham One Suite 900 | Pittsburgh | PA | 15219 | 5,600,000.00
City of Providence | 444 Westminster Street | Providence | RI | 02903-3206 | 5,700,000.00
Shelby County | 1075 Mullins Station Road | Memphis | TN | 38134 | 4,143,959.00
City of Fort Worth | 1000 Throckmorton | Fort Worth | TX | 76102 | 4,700,000.00
City of Roanoke | 215 Church Ave., Room 208 North | Roanoke | VA | 24011 | 3,718,733.00
City of Burlington | 149 Church Street | Burlington | VT | 05401 | 3,623,992.44
Kenosha County | 8600 Sheridan Road, Suite 600 | Kenosha | WI | 53143-6615 | 4,400,000.00
Wisconsin Department of Health Services | 1 W Wilson Street, Room 150 | Madison | WI | 53701 | 3,400,000.00
Total |  |  | ...... |  | 164,155,145.90

Appendix O

FY2020 Healthy Homes and Weatherization Cooperation Demonstration (FR-6400-N-62)

Contact: Brenda M. Reyes, MD, MPH Phone (202) 402 6745.

Organization | Address | City | State | Zip 5 | Amount
International Center for Appropriate and Sustainable Technology | 7400 W 14th Ave | Denver | CO | 80214-0000 | $994,831.00
City of Toledo | One Government Center, Suite 1800 | Toledo | OH | 43604-2275 | 1,000,000.00
People Working Cooperatively, Inc | 4612 Paddock Road | Cincinnati | OH | 45229-1002 | 1,000,000.00
Salt Lake County | 2001 South State S-2100 | Salt Lake County | UT | 84114-4575 | 1,000,000.00
Lawrence County Social Services | 1745 Frew Mill Rd., Suite 9 | New Castle | PA | 16105-1745 | 1,000,000.00
Total |  |  | ...... |  | 4,994,831.00

Appendix P

Moving to Work Demonstration (PIH 2018-17)

Contact: Carol Gilliam, 202-402-4354.

Organization | Address | City | State | Amount
Auburn Housing Authority | 931 Booker Street | Auburn | AL | $25,000
Sheffield Housing Authority | P.O. Box 429 | Sheffield | AL | 25,000
Housing Authority of the City of Ozark | 241 Ed Lisenby Drive, P.O. Box 566 | Ozark | AL | 25,000
Fayetteville Housing Authority | 1 N School Avenue | Fayetteville | AR | 25,000
City of Pomona Housing Authority | 505 South Garey Avenue | Pomona | CA | 25,000
Solano County Housing Authority | 40 Eldridge Avenue, Suite #2 | Vacaville | CA | 25,000
Brighton Housing Authority | 22 S 4th Avenue, Suite 202 | Brighton | CO | 25,000
Housing Authority of the City of New Smyrna Beach | 1101 South Dixie Freeway | New Smyrna | FL | 25,000
Housing Authority of Newnan | 48 Ball Street | Newman | GA | 25,000
Housing Authority of the City of Pocatello | 711 N 6th Avenue | Pocatello | ID | 25,000
Ruston Housing | P.O. Box 2288 | Ruston | LA | 25,000
Rockville Housing Enterprises | 1300 Piccard Drive, Suite #203 | Rockville | MD | 25,000
Housing & Redevelopment Authority of Hibbing | 3115 7th Avenue East | Hibbing | MN | 25,000
Kandiyohi County Housing and Redevelopment Authority | 2200 23rd Street NE, Suite 2090 | Wilmar | MN | 25,000
McLeod County Housing and Redevelopment Authority | 2200 23rd Street NE, Suite 2090 | Wilmar | MN | 25,000
Washington County Community Development Agency | 7645 Currell Boulevard, Wo | Woodbury | MN | 25,000
Ripley County Public Housing Agency | 3019 Fair Street | Poplar Bluff | MO | 25,000
Robeson County Housing Authority | 100 Oxedine Circle | Lumberton | NC | 25,000
South Sioux City Housing Agency | 118 E 21st Street | Sioux City | NE | 25,000
Dover Housing Authority | 62 Whittier Street | Dover | NH | 25,000
Township of Neptune Housing Authority | 1810 Alberta Avenue | Neptune | NJ | 25,000
Pleasantville Housing Authority | 168 N Main Street | Pleasantville | NJ | 25,000
Housing Authority of Cheraw | P.O. Box 969 | Florence | SC | 25,000
Housing Authority of Fort Mill | P.O. Box 220 | Fort Mill | SC | 25,000
Maryville Housing Authority | 311 Atlantic Avenue | Maryville | TN | 25,000
Housing Authority of Travis County | 502 E Highland Mall Boulevard, Suite 106B | Austin | TX | 25,000
Rosenberg Housing Authority | 117 Lane Drive, Suite 18 | Rosenberg | TX | 25,000
Bristol Redevelopment and Housing Authority | 809 Edmond Street | Bristol | VA | 25,000
Harrisonburg Redevelopment and Housing Authority | P.O. Box 1071 | Harrisonburg | VA | 25,000
Brattleboro Housing Authority | P.O. Box 2275 | Brattleboro | VT | 25,000
Randolph County Housing Authority | 2280 Randolph Avenue | Elkins | WV | 25,000
Total |  |  |  | 775,000

Appendix Q

FY2020 HBCU Cooperative Research in Housing Technologies (FR-6500-N-55)

Contact: Carol Gilliam, 202-402-4354.

Organization | Address | City | State | Zip code | Amount
North Carolina A&T State University | 1601 East Market Street | Greensboro | NC | 27411 | $249,930

Appendix R

FY2020 Social and Economic Impacts of the CDBG and HOME Programs (FR-6400-N-57)

Contact: Carol Gilliam, 202-402-4354.

Organization | Address | City | State | Zip code | Amount
The Regents of the University of Idaho | 875 Perimeter Drive, MS-3020 | Moscow | ID | 83844-3020 | $245,761
The Urban Institute | 500 L'Enfant Plaza SW | Washington | DC | 20024-2274 | 248,926
Total |  |  | ...... |  | 494,687

Appendix S

FY2020 Alternative Methods for Calculating Fair Market Rents (FMRs) in Rental Markets With Rapidly Rising Rents (FR-6400-N-60)

Contact: Carol Gilliam, 202-402-4354.

Organization | Address | City | State | Zip code | Amount
Urban Institute | 500 L Enfant Plaza | Washington | DC | 20024-2274 | $223,197
University of Georgia Research Foundation | 310 E Campus Road | Athens | GA | 30602 | 127,840
UrbanSim Inc | 1666 Shattuck Avenue | Berkeley | CA | 94709-1631 | 148,936
Total |  |  | ...... |  | 499,973

Appendix T

FY2020 Choice Neighborhoods Planning Grant Program (FR-6400-N-38)

Contact: Luci Blackburn (202) 402-4190.

Organization | Address | City | State | Zip | Award amount
Akron Metropolitan Housing Authority | 100 W Cedar Street | Akron | OH | 44307 | $450,000.00
Atlantic City Housing Authority and Urban Redevelopment | 227 N Vermont Avenue 17th Floor | Atlantic City | NJ | 8401 | 450,000.00
Cincinnati Metropolitan Housing Authority | 1627 Western Ave | Cincinnati | OH | 45214 | 410,000.00
City of Fayetteville | 433 Hay Street | Fayetteville | NC | 28301 | 450,000.00
Fineview Citizens Council Inc. | 447 Marshall Avenue | Pittsburgh | PA | 15214 | 450,000.00
Greater Easton Development Partnership | 325 Northampton Street | Easton | PA | 18042 | 450,000.00
Housing Authority of the City of Atlanta | 230 John Wesley Dobbs Ave. NE | Atlanta | GA | 30303 | 450,000.00
Housing Authority of the City of Fresno | 1331 Fulton Street | Fresno | CA | 93721 | 450,000.00
Housing Authority of the City of Montgomery | 525 South Lawrence Street | Montgomery | AL | 36104 | 450,000.00
Houston Housing Authority | 2640 Fountain View Drive | Houston | TX | 77057 | 450,000.00
Lucas Metropolitan Housing Authority | 435 Nebraska Ave | Toledo | OH | 43697 | 450,000.00
Total |  |  | ...... |  | 4,910,000.00

Appendix U

FY2021 Foster Youth to Independence (FYI) Grant Program (PIH 2020-28)

Contact: Michelle Daniels 202-402-6051 and Ryan Jones 202-402-2677.

Organization | Address | City | State | Zip code | Amount
Alaska Housing Finance Corporation | 4300 Boniface Parkway | Anchorage | AK | 99504 | $89,042.00
Housing Authority of the Birmingham District | 1826 3rd Avenue S | Birmingham | AL | 35233 | 8,258.00
Housing Authority of the City of Montgomery | 525 S Lawrence St | Montgomery | AL | 36104 | 13,260.00
Housing Authority of the City of Dothan | 602 S Lena Street | Dothan | AL | 36301 | 5,365.00
The Housing Authority of the City of Huntsville | 200 Washington Street NE | Huntsville | AL | 35804 | 6,283.00
Scottsdale Housing Agency | Paiute Neighborhood Center #8 | Scottsdale | AZ | 85251 | 178,034.00
Housing Authority of the City of Santa Ana | 20 Civic Center Plaza 2nd Floor | Santa Ana | CA | 92701 | 344,259.00
Littleton Housing Authority | 5745 S Bannock St | Littleton | CO | 80120 | 258,224.00
Montrose County Housing Authority | 222 Hap Court | Olathe | CO | 81425 | 17,663.00
Garfield County Housing Authority | 1430-F Railroad Avenue | Rifle | CO | 81650 | 7,632.00
Hawaii Public Housing Authority | 1002 North School Street | Honolulu | HI | 96817 | 14,674.00
Cedar Rapids Housing Services | 101 First Street SE | Cedar Rapids | IA | 52401 | 5,425.00
Eastern Iowa Regional Housing Authority | 7600 Commerce Park | Dubuque | IA | 52002 | 10,551.00
Housing Authority of Lexington | 300 West New Circle Road | Lexington | KY | 40505 | 23,013.00
Lowell Housing Authority | 350 Moody Street | Lowell | MA | 1879 | 83,531.00
Falmouth Housing Authority | 115 Scranton Avenue | Falmouth | MA | 2540 | 31,222.00
Stockbridge Housing Authority | 5 Pine Street | Stockbridge | MA | 1262 | 11,135.00
Portland Housing Authority | 14 Baxter Boulevard | Portland | ME | 4101 | 11,036.00
Melvindale Housing Commission | 3501 Oakwood Boulevard | Melvindale | MI | 48122 | 163,332.00
HRA in and for the City of Brainerd, Minnesota | 324 E River Road | Brainerd | MN | 56401 | 13,618.00
HRA of St. Cloud, Minnesota | 1225 W Saint Germain | Saint Cloud | MN | 56301 | 12,151.00
Missoula Housing Authority | 1235 34th Street | Missoula | MT | 59801 | 13,385.00
Sandhills Community Action Program, Inc | 103 Saunders Street | Carthage | NC | 28327 | 4,592.00
Concord Housing Authority | 23 Green Street | Concord | NH | 3301 | 7,197.00
Glens Falls Housing Authority | Jay St | Glens Falls | NY | 12801 | 5,548.00
Lorain Metropolitan Housing Authority | 1600 Kansas Avenue | Lorain | OH | 44052 | 12,772.00
Portage Metropolitan Housing Authority | 2832 State Route 59 | Ravenna | OH | 44266 | 7,179.00
Henry Metropolitan Housing Authority | 1044 Chelsea Avenue | Napoleon | OH | 43545 | 3,860.00
Housing Authority of Clackamas County | 13930 South Gain Street | Oregon City | OR | 97045 | 19,968.00
Scranton Housing Authority | 400 Adams Avenue | Scranton | PA | 18510 | 6,216.00
Allegheny County Housing Authority | 625 Stanwix Street | Pittsburgh | PA | 15222 | 6,051.00
Housing Authority of the County of Beaver | 300 State Street | Beaver | PA | 15009 | 5,059.00
Housing Authority of the County of Cumberland | 114 N Hanover Street | Carlisle | PA | 17013 | 11,757.00
Rhode Island Housing | 44 Washington Street | Providence | RI | 2903 | 94,340.00
Housing Authority of Rock Hill | P.O. Box 11579 | Rock Hill | SC | 29730 | 157,770.00
Housing Authority of the City of El Paso, TX | 5300 E Paisano Drive | El Paso | TX | 79905 | 11,944.00
Panhandle Community Services | 1309 SW 8th | Amarillo | TX | 79101 | 152,742.00
Brazos Valley Council of Governments | 3991 E 29th Street | Bryan | TX | 77802 | 65,435.00
Housing Authority City of Bellingham | 208 Unity Street | Bellingham | WA | 98225 | 8,579.00
HA City of Yakima | 810 N 6th Avenue | Yakima | WA | 98902 | 13,174.00
Wausau Community Development Authority | 550 E Thomas Street | Wausau | WI | 54403 | 3,389.00
Walworth County Housing Authority | 735 North Wisconsin Street | Elkhorn | WI | 53121 | 4,980.00
Barron County Housing Authority | 611 Woodland Avenue | Barron | WI | 54812 | 14,137.00
Total |  |  | ...... |  | 1,937,782.00

Appendix V

FY2020 Family Self-Sufficiency Renewal Program (FR-6400-04)

Contact: Anice Chenault Anice.S.Chenault@hud.gov.

Organization | Address | City | State | ZIP | Total
Sheffield Housing Authority | 505 N Columbia Avenue Family Self-Sufficiency Prog | Sheffield | AL | 35660-429 | $51,602.00
Housing Authority of Birmingham District | 1826 3rd Avenue South | Birmingham | AL | 35233-1905 | 143,982.00
Prichard Housing Authority | P.O. Box 10307 | Prichard | AL | 36610 | 48,036.00
Tuscaloosa Housing Authority | 2117 Jack Warner Parkway | Tuscaloosa | AL | 35401-1092 | 134,908.00
Auburn Housing Authority | 931 Booker Street | Auburn | AL | 36832-2902 | 60,848.00
Bessemer Housing Authority | 1515 Fairfax Ave | Bessemer | AL | 35020-6648 | 61,609.00
Huntsville Housing Authority | 200 Washington Street, P.O. Box 486 | Huntsville | AL | 35804-486 | 268,129.00
Albertville Housing Authority | 711 South Broad Street | Albertville | AL | 35950-19 | 22,000.00
The Housing Authority of The City of Montgomery, AL | 525 South Lawrence Street FSS | Montgomery | AL | 36104-4611 | 109,800.00
Alexander City Housing Authority | 2110 County Rd | Alexander City | AL | 35010-3800 | 48,583.00
Alaska Housing Finance Corporation | P.O. Box 101020 | Anchorage | AK | 99510-1020 | 288,000.00
City of Mesa | 200 S Center St, Building 1, P.O. Box 1466 | Mesa | AZ | 85211-1466 | 75,759.00
Mohave County | 700 W Beale Street Mohave County Housing Auth | Kingman | AZ | 86402-7000 | 58,114.00
Chandler, City of | Mail Stop 101, P.O. Box 4008 Housing and Redevelopment | Chandler | AZ | 85244-4008 | 137,867.00
Yuma County Housing Department | 2050 W Main Street Housing | Somerton | AZ | 85350-2534 | 202,658.00
Housing Authority of the City of Yuma | 420 S Madison Avenue | Yuma | AZ | 85364-2320 | 344,456.00
Douglas City of Public Housing Authority | 425 E 10th Street | Douglas | AZ | 85607-2008 | 72,000.00
Housing Authority of Cochise County | 1415 Melody Ln., Bldg. A | Bisbee | AZ | 85603-0 | 58,420.00
City of Tucson | 310 N Commerce Park Loop, P.O. Box 27210 | Tucson | AZ | 85726-7210 | 138,572.00
City of Phoenix Housing Department | 251 W Washington 4th Floor | Phoenix | AZ | 85003-2245 | 216,000.00
City of Scottsdale Housing Agency | Community Assistance Office, 6535 E Osborn Rd., Bldg. 8 | Scottsdale | AZ | 85251-6029 | 33,750.00
City of Tempe | 31 E 5th Street Housing Services | Tempe | AZ | 85281-3601 | 68,000.00
The Housing Authority of Maricopa County | 8910 N 78th Ave | Peoria | AZ | 85345-7900 | 72,000.00
Housing Authority of Lonoke County | 617 North Greenlaw | Carlisle | AR | 72024-74 | 21,466.00
Housing Authority of the city of West Memphis | 390 South Walker Avenue | West Memphis | AR | 72301-6013 | 52,951.00
Housing Authority of The City of Fort Smith | 2100 North 31st Street Family Self Sufficiency | Fort Smith | AR | 72904-6140 | 58,793.00
Jonesboro Urban Renewal and Housing Authority | 330 Union | Jonesboro | AR | 72401-2815 | 44,500.00
Conway County Housing Authority | P.O. Box 229 | Morrilton | AR | 72110-229 | 49,043.00
McGehee Public Residential Housing Facilities Board | P.O. Box 725 Family Self-Sufficiency | McGehee | AR | 71654-725 | 39,961.00
Northwest Regional Housing Authority | P.O. Box 2568 | Harrison | AR | 72601-2568 | 18,668.00
Pine Bluff Housing Authority | 2503 Belle Meade, P.O. Box 8872 | Pine Bluff | AR | 71601-6815 | 70,159.00
Pope County Public Facilities Board/Universal Housing | P.O. Box 846/301 E Third Street | Russellville | AR | 72801-5109 | 21,872.00
Housing Authority of The City of Hot Springs | 1004 Illinois Street | Hot Springs | AR | 71901-4351 | 54,606.00
White River Regional Housing Authority | P.O. Box 650 | Melbourne | AR | 72556-650 | 43,461.00
Wynne Housing Authority | 200 Fisher Place HCV FSS | Wynne | AR | 72396-552 | 19,000.00
Lee County Housing Authority | 199 Highway 243 N | Marianna | AR | 72360-2854 | 30,000.00
Pulaski County Government | 201 S Broadway Suite 220 | Little Rock | AR | 72201-2338 | 43,974.00
North Little Rock Housing Authority | P.O. Box 516 | North Little Rock | AR | 72115-0 | 52,000.00
Housing Authority of The City of Madera | 205 North G Street Housing Services | Madera | CA | 93637-3512 | 65,201.00
Garden Grove Housing Authority | 12966 Euclid Street, Ste 150 Housing Authority | Garden Grove | CA | 92840-9202 | 76,039.00
City of Norwalk | 12700 Norwalk Blvd | Norwalk | CA | 90650-3144 | 36,000.00
Housing Authority of The City of Santa Barbara | 808 Laguna St. Family Self-Sufficiency | Santa Barbara | CA | 93101-1590 | 203,425.00
Housing Authority of The County of San Joaquin | 2575 Grand Canal Blvd | Stockton | CA | 95207-8260 | 214,436.00
The Housing Authority of The County of Santa Cruz | 2160 41st Avenue | Capitola | CA | 95010-2009 | 152,078.00
Housing Authority of The City of San Buenaventura | 995 Riverside Street | Ventura | CA | 93001-1636 | 71,902.00
Housing Authority of The City of Redding | 777 Cypress Avenue Housing Division | Redding | CA | 96001-2718 | 33,528.00
Housing Authority of The County of Marin | 4020 Civic Center Drive Supportive Housing | San Rafael | CA | 94903-4173 | 228,082.00
County of Shasta Housing Authority and Community Action Agency | 1450 Court St., Ste. 108 | Redding | CA | 96001-1661 | 31,564.00
Lake County Housing Commission | 16170 Main Street, Suite F, P.O. Box 1049 Housing | Lower Lake | CA | 95457-7603 | 33,500.00
San Diego Housing Commission | 1122 Broadway, Suite 300 | San Diego | CA | 92101-5629 | 451,692.00
Housing Authority of The City of San Luis Obispo | 487 Leff Street Family Self Sufficiency | San Luis Obispo | CA | 93401-4347 | 124,300.00
Housing Authority of The City of Napa | 1115 Seminary Street | Napa | CA | 94559-2512 | 78,659.00
Housing Authority of The County of Sacramento | 801 12th Street | Sacramento | CA | 95814-2947 | 142,761.00
Housing Authority of The City of Sacramento | 801 12th Street | Sacramento | CA | 95814-2947 | 67,364.00
Housing Authority of The City of Alameda | 701 Atlantic Ave. Housing Programs | Alameda | CA | 94501-2161 | 72,000.00
Housing Authority of The County of Butte | 2039 Forest Avenue | Chico | CA | 95928-7042 | 71,322.00
City of Pomona Housing Authority | 505 S Garey Avenue Housing Authority | Pomona | CA | 91766-3320 | 75,659.00
Area Housing Authority of The County of Ventura | 1400 West Hillcrest Dr | Newbury Park | CA | 91320-2721 | 69,000.00
Housing Authority of The County of Monterey | 123 Rico St | Salinas | CA | 93907-2157 | 138,759.00
Roseville Housing Authority | 316 Vernon Street, Ste. 150 Housing | Roseville | CA | 95678-2649 | 72,000.00
Housing Authority of The City of Los Angeles | 2600 Wilshire Blvd. Special Programs Admin | Los Angeles | CA | 90057-3400 | 828,739.00
The Housing Authority of The County of Yolo | 147 West Main Street Client Services | Woodland | CA | 95695-2914 | 72,000.00
Housing Authority of The County of Santa Barbara | 815 West Ocean Avenue | Lompoc | CA | 93436-6526 | 72,000.00
San Diego, County of (Dba Hsg Authority of The County of Sd) | 3989 Ruffin Road | San Diego | CA | 92123-1815 | 68,164.00
El Dorado County Public Housing Authority | 2900 Fairlane Court | Placerville | CA | 95667-5335 | 59,902.00
Housing Authority of Alameda County | 22941 Atherton Street | Hayward | CA | 94541-6633 | 304,157.00
Housing Authority of The County of Stanislaus | 1701 Robertson Road, P.O. Box 581918 | Modesto | CA | 95358-33 | 148,633.00
Housing Authority of The County of San Bernardino | 715 E Brier Drive | San Bernardino | CA | 92408-2841 | 216,000.00
Housing Authority of The County of Contra Costa | 3133 Estudillo P.O. Box 2759 | Martinez | CA | 94553-3258 | 152,078.00
Imperial Valley Housing Authority | 1402 D Street | Brawley | CA | 92227-2117 | 65,000.00
City of Oceanside Community Development Commission | 300 North Coast Highway Housing | Oceanside | CA | 92054-2823 | 72,000.00
Housing Authority of The City of Oxnard | 435 South D Street | Oxnard | CA | 93030-5918 | 150,617.00
Housing Authority of The City of Long Beach | 521 East 4th Street | Long Beach | CA | 90802-2502 | 298,674.00
Housing Authority of The County of San Mateo | 264 Harbor Blvd., #A | Belmont | CA | 94002-4017 | 380,197.00
The Housing Authority of The City of Santa Ana | P.O. Box 22030 Housing Authority | Santa Ana | CA | 92702-2030 | 152,078.00
Orange County Housing Authority | 1501 E St. Andrew Place Housing Assistance | Santa Ana | CA | 92705-4925 | 288,000.00
Santa Clara County Housing Authority | 505 West Julian St | San Jose | CA | 95110-2338 | 228,118.00
Culver City Housing Authority | 9770 Culver Blvd. Culver City Housing Authority | Culver City | CA | 90232-507 | 36,436.00
Housing Authority of The County of Kern | 601 24th Street | Bakersfield | CA | 93301-4142 | 279,139.00
Anaheim Housing Authority | 201 S Anaheim Blvd #203 | Anaheim | CA | 92805-9987 | 78,659.00
Housing Authority of The County of Riverside | 5555 Arlington Ave | Riverside | CA | 92504-2506 | 504,000.00
Los Angeles County Development Authority | 700 W Main Street Housing Assistance | Alhambra | CA | 91801-3312 | 760,394.00
Housing Authority of The City of San Jose | 505 West Julian St | San Jose | CA | 95110-2338 | 152,078.00
Vacaville Housing Authority | 40 Eldridge Avenue, Suite 2 | Vacaville | CA | 95688-6824 | 144,000.00
Solano County Housing Authority | 40 Eldridge Avenue, Suite 2 | Vacaville | CA | 95688-6824 | 32,836.00
Oakland Housing Authority | 1619 Harrison Street | Oakland | CA | 94612-3307 | 304,157.00
Housing Authority of Fresno County | 1331 Fulton Street | Fresno | CA | 93721-1630 | 66,413.00
The Housing Authority of The County of Merced (HACM) | 405 U Street | Merced | CA | 95341-6548 | 54,400.00
City of Santa Rosa Housing Authority | 90 Santa Rosa Ave | Santa Rosa | CA | 95404-4904 | 72,000.00
Colorado Department of Local Affairs, Division of Housing | 1313 Sherman St., Rm. 320 | Denver | CO | 80203-2288 | 65,000.00
Housing Authority of The City of Fort Collins | 1715 West Mountain Ave | Fort Collins | CO | 80521-2359 | 223,260.00
City of Grand Junction Housing Authority | 8 Foresight Circle | Grand Junction | CO | 81505-1014 | 54,624.00
Boulder County Housing Authority | P.O. Box 471 Housing | Boulder | CO | 80306-471 | 216,000.00
Housing Authority of The City of Englewood | 3460 S Sherman St. Suite 101 | Englewood | CO | 80113-2664 | 54,313.00
Housing Authority of The City and County of Denver | 1035 Osage Street | Denver | CO | 80204-4035 | 327,384.00
Bristol Housing Authority | 164 Jerome Avenue | Bristol | CT | 6010-3711 | 70,636.00
Housing Authority of The City of Norwalk | 24 ½ Monroe Street | Norwalk | CT | 6854-2926 | 144,000.00
Housing Authority of The City of Stamford | 22 Clinton Avenue | Stamford | CT | 6901-3316 | 72,000.00
The Housing Authority of The Town of Greenwich | 249 Milbank Avenue Section 8 and Family Housing | Greenwich | CT | 6830-6680 | 72,000.00
Ansonia Housing Authority | 36 Main Street | Ansonia | CT | 6401-0 | 72,000.00
Housing Authority of The City of New Britain | 16 Armistice St | New Britain | CT | 6053-0 | 72,000.00
Trout Brook Realty Advisors—Formerly WHHC | 80 Shield Street | West Hartford | CT | 6110-1920 | 75,506.00
Housing Authority of New Haven's (HANH) Elm City Communities | 360 Orange Street | New Haven | CT | 6511-6403 | 141,596.00
Housing Authority of The City of Meriden | 22 Church St. Family Self Sufficiency | Meriden | CT | 6451-468 | 156,445.00
Connecticut Department of Housing | 505 Hudson Street | Hartford | CT | 6106-7107 | 206,880.00
Housing Authority of The City of Danbury | 2 Mill Ridge Road | Danbury | CT | 6811-5231 | 52,571.00
Housing Authority City of Derby | 30 Elizabeth St., Suite 2 | Derby | CT | 6418-1869 | 31,432.00
Wilmington Housing Authority | 400 N Walnut Street | Wilmington | DE | 19801-1436 | 142,000.00
District of Columbia Housing Authority | 2000 Alabama Avenue SE | Washington | DC | 20020-2814 | 228,118.00
The Housing Authority of The City of Fort Pierce, Florida | 511 Orange Avenue | Fort Pierce | FL | 34950-4278 | 66,385.00
Pinellas County Housing Authority | 11479 Ulmerton Road | Largo | FL | 33778-1147 | 118,000.00
The Housing Authority of The City of Daytona Beach | 211 N Ridgewood Avenue #300 | Daytona Beach | FL | 32114-3294 | 104,339.00
Housing Authority of The City of Miami Beach | 200 Alton Road FSS | Miami Beach | FL | 33139-6742 | 31,500.00
West Palm Beach Housing Authority | 3700 Georgia Avenue | West Palm Beach | FL | 33405-2177 | 132,002.00
Housing Authority of Brevard County | 1401 Guava Ave | Melbourne | FL | 32935-6582 | 132,181.00
The Housing Authority of The City of Tampa | 5301 W Cypress Street Family Self-Sufficiency | Tampa | FL | 33607-1727 | 486,017.00
Housing Authority of The City of Deerfield Beach | 533 South Dixie Highway, Suite 201 | Deerfield Beach | FL | 33441-4665 | 55,445.00
Boca Raton Housing Authority | 2333A W Glades Rd | Boca Raton | FL | 33431-7305 | 54,106.00
Broward County Housing Authority | 4780 North State Road 7 | Lauderdale Lakes | FL | 33319-5860 | 254,735.00
Housing Authority of The City of Homestead | 29355 S Dixie Highway | Homestead | FL | 33033-2307 | 63,036.00
Housing Authority of The City of Fort Lauderdale | 500 West Sunrise Blvd | Fort Lauderdale | FL | 33311-7234 | 124,909.00
Miami-Dade Public Housing and Community Development | 701 NW 1st Court 16th Floor Contract Administration | Miami | FL | 33136-3914 | 244,759.00
Pasco County Housing Authority | 36739 S.R. 52 Family Self-Sufficiency | Dade City | FL | 33525-5101 | 42,336.00
Lakeland Housing Authority | 430 Hartsell Avenue | Lakeland | FL | 33815-4502 | 72,000.00
Punta Gorda Housing Authority | 340 Gulf Breeze Avenue | Punta Gorda | FL | 33950-5634 | 51,255.00
Pahokee Housing Authority | 465 Friend Terrace Family Self-Sufficiency | Pahokee | FL | 33476-1941 | 23,417.00
Walton County Housing Agency | 63 BoPete Manor Road Citizen Services | DeFuniak Springs | FL | 32435-2943 | 38,177.00
Manatee County Housing Authority | 5631 11th Street East | Bradenton | FL | 34203-5978 | 31,310.00
Delray Beach Housing Authority | 82 NW 5th Avenue | Delray Beach | FL | 33444-2612 | 52,969.00
Milton Housing Authority | 5668 Byrom Street | Milton | FL | 32570-5807 | 72,000.00
Winter Haven Housing Authority | 2670 Avenue C SW | Winter Haven | FL | 33880-2566 | 144,000.00
The Housing Authority of The City of New Smyrna Beach | 1101 South Dixie Freeway | New Smyrna Beach | FL | 32168-7405 | 69,380.00
Hialeah Housing Authority | 75 East 6th Street | Hialeah | FL | 33010-4845 | 129,930.00
Lee County Housing Authority | 14170 Warner Cir Client Services | N Fort Myers | FL | 33903-3528 | 56,716.00
Orange County Housing and Community Development | 525 E South Street | Orlando | FL | 32801-2817 | 54,429.00
Clearwater Housing Authority | 28050 US Hwy. 19 N, Suite 103 | Clearwater | FL | 33761-2600 | 55,352.00
Housing Authority of The City of Fort Myers | 4224 Renaissance Preserve Way | Fort Myers | FL | 33916-4800 | 140,000.00
Palm Beach County Housing Authority | 3432 W 45th St | West Palm Beach | FL | 33407-1844 | 57,500.00
Sarasota Housing Authority | 269 S Osprey Ave | Sarasota | FL | 34236-6805 | 42,261.00
Jacksonville Housing Authority | 1300 Broad Street N. JHA Family Self-Sufficiency | Jacksonville | FL | 32202-3938 | 321,453.00
Ocala Housing Authority | 1629 NW 4th St | Ocala | FL | 34478-2468 | 91,641.00
Tallahassee Housing Authority | 2940 Grady Rd | Tallahassee | FL | 32312-2210 | 72,000.00
Housing Authority of The City of Augusta, Georgia | 1435 Walton Way | Augusta | GA | 30901-2609 | 171,246.00
Northwest Georgia Housing Authority | 326 West 9th Street | Rome | GA | 30162-1428 | 104,831.00
Housing Authority of Columbus, Georgia | Post Office Box 630, 1000 Wynnton Toad | Columbus | GA | 31902-630 | 105,100.00
Housing Authority of The City of College Park, Georgia | 2000 Princeton Avenue Housing Assistance | College Park | GA | 30337-2412 | 144,000.00
Griffin Housing Authority | 327 S 9th Street | Griffin | GA | 30224-0 | 72,000.00
Housing Authority of Savannah | P.O. Box 1179 | Savannah | GA | 31402-1179 | 220,256.00
Newnan Housing Authority | 48 Ball Street | Newnan | GA | 30263-2307 | 78,659.00
Housing Authority of The City of Marietta | 95 Cole Street Family Self-Sufficiency | Marietta | GA | 30060-2090 | 115,944.00
Housing Authority of Fulton County, Georgia | 4273 Wendell Drive | Atlanta | GA | 30336-1632 | 65,490.00
Housing Authority of The City of Carrollton | 1 Roop Street | Carrollton | GA | 30117-4448 | 106,967.00
Housing Authority of The City of Jonesboro | 203 Hightower Street, P.O. Box 458 | Jonesboro | GA | 30237-458 | 144,000.00
The Housing Authority of The City of Atlanta, Georgia | 230 John Wesley Dobbs Avenue NE | Atlanta | GA | 30303-2421 | 276,021.00
Tri-City Housing Authority | P.O. Box 220 | Woodland | GA | 31836-220 | 26,393.00
Housing Authority of The City of East Point | 3056 Norman Berry Drive | East Point | GA | 30364-363 | 62,500.00
Housing Authority of The City of Albany, GA | P.O. Box 485 | Albany | GA | 31702-485 | 41,837.00
Guam Housing and Urban Renewal Authority | 117 Bien Venida Avenue | Sinajana | GQ | 96910-3643 | 138,883.00
Hawaii County Housing Agency | 1990 Kinoole Street, Suite 102 OHCD | Hilo | HI | 96720-5293 | 66,937.00
Maui, County of | 200 S High Street Housing | Wailuku | HI | 96793-2155 | 43,135.00
City and County of Honolulu | Kapalama Hale 925 Dillingham Blvd., Ste 200 | Honolulu | HI | 96817-4506 | 144,000.00
Hawaii Public Housing Authority | 1002 North School Street E | Honolulu | HI | 96817-6912 | 72,000.00
Kauai, County Of; Dba Kauai County Housing Agency | 4444 Rice Street, Suite 330 | Lihue | HI | 96766-1340 | 142,000.00
Boise City Housing Authority | 1001 S Orchard St | Boise | ID | 83705-1932 | 125,029.00
Ada County Housing Authority | 1001 S Orchard St | Boise | ID | 83705-1932 | 125,027.00
Southwestern Idaho Cooperative Housing Authority | 377 Cornell St | Middleton | ID | 83644-9903 | 103,727.00
Idaho Housing and Finance Association | P.O. Box 7899 | Boise | ID | 83707-1899 | 230,623.00
Rockford Housing Authority | 233 South Winnebago Street | Rockford | IL | 61102-9904 | 144,000.00
Winnebago County Housing Authority | 3617 Delaware Street | Rockford | IL | 61102-1506 | 144,000.00
Housing Authority of The City of Freeport | 1052 West Galena | Freeport | IL | 61032-3814 | 72,000.00
Housing Authority of Henry County | 125 North Chestnut Street Family Self-Sufficiency | Kewanee | IL | 61443-2110 | 94,700.00
Dupage Housing Authority | 711 E Roosevelt Rd | Wheaton | IL | 60187-5646 | 121,726.00
Lake County Housing Authority | 33928 North US Highway 45 | Grayslake | IL | 60030-1714 | 250,045.00
Rock Island Housing Authority | 227 21st Street | Rock Island | IL | 61201-8822 | 64,538.00
St. Clair County Housing Authority | 1790 S 74th St | Belleville | IL | 62223-3366 | 59,040.00
Kankakee County Housing Authority | 185 N. St. Joseph Ave., P.O. Box 965 | Kankakee | IL | 60901-965 | 45,200.00
Housing Authority of Champaign County | 2008 N Market St | Champaign | IL | 61822-1308 | 72,000.00
Madison County Housing Authority | 2 Eastport Plaza Drive | Collinsville | IL | 62234-4909 | 71,789.00
Housing Authority of Joliet | 6 S Broadway Street | Joliet | IL | 60436-1753 | 71,582.00
Housing Authority of Marion County | 719 Howard St | Centralia | IL | 62801-689 | 50,000.00
Springfield Housing Authority | 200 North Eleventh Street | Springfield | IL | 62703-1004 | 263,338.00
Peoria Housing Authority | 100 South Richard Pryor Place | Peoria | IL | 61605-3905 | 113,400.00
Chicago Housing Authority | 60 East Van Buren Department of Resident Service | Chicago | IL | 60605-1240 | 904,560.00
Housing Authority of The City of Bloomington | 104 E Wood Street | Bloomington | IL | 61701-6768 | 42,500.00
The Housing Authority of The City of East St. Louis | 700 North 20th Street Family Self-Sufficiency | East St. Louis | IL | 62205-1814 | 72,000.00
Menard County Housing Authority | 101 West Sheridan Rd., P.O. Box 168 | Petersburg | IL | 62675-1349 | 60,000.00
Moline Housing Authority | 4141 11th Avenue A | Moline | IL | 61265-2592 | 72,000.00
Housing Authority of Cook County | 175 W Jackson Blvd., Suite 350 | Chicago | IL | 60604-3042 | 188,747.00
Macoupin County Housing Authority | 760 Anderson Street P.O. Box 226 | Carlinville | IL | 62626-1003 | 45,786.00
Waukegan Housing Authority | 215 South Martin Luther King Jr. Avenue | Waukegan | IL | 60085-5522 | 58,133.00
Housing Authority of The City of Elgin | 130 South State Street | Elgin | IL | 60123-6444 | 72,000.00
Housing Authority of The City of Elkhart | 1396 Benham Ave | Elkhart | IN | 46516-3341 | 50,750.00
Hammond | 1402 173rd St FSS Program | Hammond | IN | 46324-2861 | 61,944.00
Housing Authority of The City of Terre Haute | P.O. Box 3086 Resident & Community Services | Terre Haute | IN | 47803-86 | 112,445.00
Housing Authority of The City of Kokomo | 210 E Taylor St., P.O. Box 1207 | Kokomo | IN | 46903-1207 | 52,292.00
South Bend Housing Authority | 501 Alonzo Watson Drive | South Bend | IN | 46601-3715 | 43,407.00
Housing Authority of The City of Gary | 578 Broadway | Gary | IN | 46402-0 | 50,951.00
The Housing Authority of The City of New Albany Indiana | P.O. Box 11 | New Albany | IN | 47150-11 | 176,874.00
Housing Authority City of Vincennes | 501 Hart Street, P.O. Box 1636 | Vincennes | IN | 47591-2103 | 44,509.00
Fort Wayne Housing Authority | 7315 Hanna Street | Fort Wayne | IN | 46816-1175 | 148,174.00
Indianapolis Housing Agency | 1919 N Meridian Street | Indianapolis | IN | 46202-1303 | 255,162.00
Housing Authority of The City of Columbus Indiana | 799 McClure Road | Columbus | IN | 47201-6610 | 47,769.00
The Housing Authority of The City of Evansville | 402 Court Street Suite B | Evansville | IN | 47708-1102 | 132,452.00
Marion Housing Authority | 601 S Adams St | Marion | IN | 46953-2042 | 72,000.00
Southern Iowa Regional Housing Authority | 219 N Pine Street | Creston | IA | 50801-2413 | 53,817.00
Eastern Iowa Regional Housing Authority | 7600 Commerce Park | Dubuque | IA | 52002-9673 | 206,170.00
Iowa City Housing Authority | 410 E Washington Street | Iowa City | IA | 52240-1825 | 135,420.00
Central Iowa Regional Housing Authority | 1201 SE Gateway Drive | Grimes | IA | 50111-6637 | 35,000.00
Municipal Housing Agency of The City of Fort Dodge | 700 South 17th Street | Fort Dodge | IA | 50501-5300 | 103,332.00
City of Sioux City Housing Authority | 405 6th Street, Suite 107, P.O. Box 447 Housing Services Division | Sioux City | IA | 51102-447 | 144,000.00
City of Dubuque | 350 W 6th Street Suite 312 | Dubuque | IA | 52001-4648 | 133,507.00
City Of Des Moines Municipal Housing Agency | 2309 Euclid Ave. Supportive Services—FSS | Des Moines | IA | 50310-5703 | 223,726.00
Region XII Regional Housing Authority | 320 E 7th, P.O. Box 663 | Carroll | IA | 51401-0 | 53,304.00
Muscatine, City Of D/B/A Muscatine Municipal Housing Agency | 215 Sycamore St Housing | Muscatine | IA | 52761-3839 | 29,984.00
City of Cedar Rapids | 101 First Street SE Housing Services | Cedar Rapids | IA | 52401-1205 | 152,078.00
Salina Housing Authority | 469 S 5th St | Salina | KS | 67401-4110 | 50,000.00
Nek-Cap, Inc | 1260 220th Street, P.O. Box | Hiawatha | KS | 66434—380 | 54,629.00
Lawrence-Douglas County Housing Authority | 1600 Haskell Avenue | Lawrence | KS | 66044-4399 | 239,921.00
The Housing Authority of The City of Kansas City, Kansas | 1124 N 9th Street Cherrie Escobar | Kansas City | KS | 66101-2197 | 62,312.00
Johnson County, Kansas | 12425 West 87th Street Parkway, Suite 200 Housing Services | Lenexa | KS | 66215-4524 | 32,309.00
Topeka Housing Authority | 2010 SE California Ave | Topeka | KS | 66607-1444 | 51,620.00
City of Olathe Housing Authority | P.O. Box 768 200 West Santa Fe Street | Olathe | KS | 66051-768 | 54,635.00
Boone County Fiscal Court Assisted Housing Department | 2950 Washington PO Box 536 | Burlington | KY | 41005-0 | 66,373.00
Cumberland Valley Regional Housing Authority | P.O. Box 806 | Barbourville | KY | 40906-806 | 119,852.00
Housing Authority of Newport, Ky | 30 East 8th Street | Newport | KY | 41071-459 | 61,659.00
Appalachian Foothills Housing Agency, Inc | 1214 Riverside Boulevard | Wurtland | KY | 41144-1635 | $44,651.00
Housing Authority of Glasgow | 111 Bunche Avenue, P.O. Box 1745 | Glasgow | KY | 42142-1745 | 51,107.00
Pineville Urban Renewal & Community | 114 W Kentucky Avenue | Pineville | KY | 40977-460 | 41,649.00
Louisville Metro Housing Authority | 420 South Eighth Street Special Program | Louisville | KY | 40203-1906 | 461,726.00
City of Covington CDA | 2300 Madison Avenue 2nd floor | Covington | KY | 41014-2237 | 60,320.00
Kentucky Housing Corporation | 1231 Louisville Road Tenant Assistance Programs | Frankfort | KY | 40601-6156 | 121,185.00
City of Richmond Section 8 Housing | P.O. Box 250 | Richmond | KY | 40476-250 | 100,000.00
Lexington-Fayette Urban County Housing Authority | 300 West New Circle Road | Lexington | KY | 40505-1428 | 115,073.00
Housing Authority of Covington | 2300 Madison Ave | Covington | KY | 41014-1237 | 60,320.00
Georgetown Housing Authority | 139 Scroggins Park Drive | Georgetown | KY | 40324-2039 | 47,285.00
Housing Authority of Bowling Green | 247 Double Springs Road, P.O. Box 116 | Bowling Green | KY | 42101-5160 | 49,500.00
Terrebonne Parish Consolidated Government | 809 Barrow Street Section 8 | Houma | LA | 70360-0 | 50,137.00
Housing Authority of The City of Shreveport | 2500 Line Avenue | Shreveport | LA | 71104-3022 | 103,854.00
St. James Parish Housing Authority | 2627 King Avenue, P.O. Box 280 | Lutcher | LA | 70071-0 | 69,380.00
Calcasieu Parish Police Jury Human Services Housing Department | 2001 Moeling Street | Lake Charles | LA | 70601-0 | 26,000.00
Housing Authority of New Orleans | 4100 Touro Street | New Orleans | LA | 70122-3143 | 64,949.00
Housing Authority of Jefferson Parish | 1718 Betty Street Contract Administration | Marrero | LA | 70072-3318 | 60,000.00
Maine State Housing Authority | 26 Edison Drive | Augusta | ME | 4330-6046 | 62,467.00
City of Caribou | 25 High St | Caribou | ME | 4736-25 | 57,446.00
Westbrook Housing Authority | 30 Liza Harmon Drive Family Self-Sufficiency | Westbrook | ME | 4092-3438 | 47,266.00
Housing Authority of The City of Old Town | 358 Main Street P.O. Box 404 | Old Town | ME | 4468-404 | 47,944.00
Bangor Housing Authority | 161 Davis Rd | Bangor | ME | 4401-2310 | 63,709.00
Housing Authority of The City of Brewer | 15 Colonial Circle, Suite 1 | Brewer | ME | 4412-1576 | 60,978.00
Augusta Housing Authority | 33 Union Street, Suite 3 | Augusta | ME | 4330-6800 | 32,484.00
Lewiston Housing Authority | 1 College St | Lewiston | ME | 4240-7175 | 58,873.00
Portland Housing Authority | 14 Baxter Boulevard | Portland | ME | 4101-1822 | 78,659.00
Housing Authority of Washington County | 319 E Antietam St. 2nd. Floor | Hagerstown | MD | 21740-5701 | 72,000.00
Hagerstown Housing Authority | 35 W Baltimore Street | Hagerstown | MD | 21740-6059 | 176,548.00
Howard County Housing Commission | 9770 Patuxent Woods Drive Suite 100 | Columbia | MD | 21046-3374 | 61,059.00
Housing Opportunities Commission of Montgomery County, MD | 10400 Detrick Avenue Housing Resource Division | Kensington | MD | 20895-2440 | 392,113.00
Housing Authority of Baltimore City | 417 E Fayette Street, Room 923 | Baltimore | MD | 21202-3431 | 504,000.00
Housing Authority for The City of Annapolis | 1217 Madison Street | Annapolis | MD | 21403-2203 | 72,000.00
Housing Commission of Anne Arundel County | 7477 Baltimore-Annapolis Blvd. Housing Resources | Glen Burnie | MD | 21061-370 | 206,192.00
Commissioners of Carroll County | 225 N Center Street | Westminster | MD | 21157-5108 | 62,481.00
Havre De Grace Housing Authority | 101 Stansbury Ct. | Havre de Grace | MD | 20178-2641 | 72,000.00
Cecil County Housing Agency | 200 Chesapeake Blvd. Suite 1800 | Elkton | MD | 21921-6682 | 53,594.00
Rockville Housing Enterprises | 621 Southlawn Lane, STE A STE A | Rockville | MD | 20850-1456 | 65,000.00
Housing Authority of St. Mary's County, Maryland | 21155 Lexwood Drive, Suite C | Lexington Park | MD | 20653-4386 | 54,324.00
Marsha J. Parham-Green | 6401 York Road Office of Housing | Baltimore | MD | 21212-2152 | 243,864.00
Harford County, Maryland | 15 South Main Street | Bel Air | MD | 21014-8725 | 32,036.00
Housing Authority of The City of Frederick | 209 Madison Street | Frederick | MD | 21701-6536 | 73,418.00
Methuen Housing Authority | 24 Mystic St | Methuen | MA | 1844-2499 | 64,393.00
Melrose Housing Authority | 910 Main Street | Melrose | MA | 2176-2331 | 30,967.00
Brockton Housing Authority | 45 Goddard Road | Brockton | MA | 2303-7070 | 139,000.00
North Andover Housing Authority | 1 Morkeski Meadows | North Andover | MA | 1845-4932 | 66,052.00
Boston Housing Authority | 52 Chauncy Street Leased Housing | Boston | MA | 2111-2325 | 303,318.00
Gloucester Housing Authority | 259 Washington Street, P.O. Box 1599 | Gloucester | MA | 1930-1599 | 53,286.00
Fall River Housing Authority | 85 Morgan St | Fall River | MA | 2721-1816 | 142,000.00
Medford Housing Authority | 121 Riverside Ave. Family Self-Sufficiency | Medford | MA | 2155-4611 | 72,000.00
Arlington Housing Authority | 4 Winslow Street | Arlington | MA | 2474-3062 | 72,000.00
Revere Housing Authority | 70 Cooledge Street | Revere | MA | 2151-0 | 36,000.00
Chelmsford Housing Authority | 10 Wilsons Street | Chelmsford | MA | 1824-3160 | 64,449.00
Lynn Housing Authority & Neighborhood Development (LHAND) | 10 Church Street | Lynn | MA | 1902-4418 | 116,810.00
Winchester Housing Authority | 13 Westley Street | Winchester | MA | 1890-2130 | 72,000.00
Holyoke Housing Authority | 475 Maple Street Suite One | Holyoke | MA | 1040-0 | 113,158.00
Milton Housing Authority | 65 Miller Avenue | Milton | MA | 2186-4756 | 72,000.00
Malden Housing Authority | 630 Salem Street | Malden | MA | 2148-4361 | 136,319.00
Braintree Housing Authority | 25 Roosevelt Street | Braintree | MA | 2184-8663 | 62,036.00
Taunton Housing Authority | 30 Olney Street, Suite B | Taunton | MA | 2780-4141 | 69,267.00
Lowell Housing Authority | 350 Moody Street, P.O. Box 60 | Lowell | MA | 1853-60 | 73,032.00
Framingham Housing Authority | 1 John J Brady Drive Family Self-Sufficiency | Framingham | MA | 1702-2300 | 74,265.00
Chelsea Housing Authority | 54 Locke Street | Chelsea | MA | 2150-2250 | 72,000.00
Commonwealth of Massachusetts | 100 Cambridge Street, Suite 300 | Boston | MA | 2114-2531 | 785,547.00
Worcester Housing Authority | 40 Belmont Street Resident Programs—FSS | Worcester | MA | 1605-2658 | 360,000.00
Somerville Housing Authority | 30 Memorial Road | Somerville | MA | 2145-1704 | 132,987.00
Acton Housing Authority | 68 Windsor Avenue | Acton | MA | 1720-2861 | 66,430.00
Leominster Housing Authority | 100 Main Street | Leominster | MA | 1453-5599 | 57,439.00
Greenfield Housing Authority | 1 Elm Terrace | Greenfield | MA | 1301-2203 | 63,961.00
Wayland Housing Authority | 106 Main Street | Wayland | MA | 1778-4939 | 33,000.00
Attleboro Housing Authority | 80 South Ave | Attleboro | MA | 2703-4532 | 60,000.00
Plymouth Housing Authority | 130 Court Street | Plymouth | MA | 2360-8728 | 52,000.00
Quincy Housing Authority | 80 Clay Street | Quincy | MA | 2170-2745 | 72,000.00
Saginaw Housing Commission | 1803 Norman St., P.O. BOX 3225 | Saginaw | MI | 48605-3225 | 75,689.00
Ann Arbor Housing Commission | 727 Miller Avenue RAD PBV & HCV | Ann Arbor | MI | 48103-3353 | 144,000.00
Traverse City Housing Commission | 150 Pine St | Traverse City | MI | 49684-2478 | 70,148.00
Wyoming Housing Commission | 2450 36th St. SW | Wyoming | MI | 49519-6111 | 151,798.00
Michigan State Housing Development Authority | 735 East Michigan Avenue RAHS | Lansing | MI | 48909-1474 | 1,064,552.00
Plymouth Housing Commission | 1160 Sheridan Street | Plymouth | MI | 48170-1560 | 133,413.00
Kent, County Of | 121 Franklin Street SE, Suite 110 | Grand Rapids | MI | 49507-1132 | 133,806.00
Westland Housing Commission | 32150 Dorsey Road | Westland | MI | 48186-4784 | 39,602.00
Detroit Housing Commission | 1301 East Jefferson | Detroit | MI | 42807-0 | 307,780.00
Pontiac Housing Commission | 132 Franklin Blvd | Pontiac | MI | 48341-1778 | 72,000.00
Housing and Redevelopment Authority of Duluth, MN | 222 E 2nd St., P.O. Box 16900 | Duluth | MN | 55816-900 | 73,019.00
Housing & Redevelopment Authority of Clay County | 116 Center Ave. E P.O. Box 99 | Dilworth | MN | 56529-99 | 73,196.00
Mankato Economic Development Authority | 10 Civic Center Plaza, P.O. Box 3368 | Mankato | MN | 56002-3368 | 61,376.00
Housing and Redevelopment Authority of Virginia, Mn | 442 Pine Mill Court | Virginia | MN | 55792-3097 | 67,053.00
Dakota County Community Development Agency | 1228 Town Centre Drive Family Self Sufficiency | Eagan | MN | 55123-1066 | 24,876.00
Public Housing Agency of The City of Saint Paul | 555 N Wabasha St., Suite 400 | Saint Paul | MN | 55102-1602 | 23,329.00
Washington County Community Development Agency | 7645 Currell Blvd | Woodbury | MN | 55125-2256 | 48,711.00
Scott County Community Development Agency | 323 Naumkeag St | Shakopee | MN | 55379-1652 | 23,836.00
Northwest Minnesota Multi County Housing Authority | 205 Garfield Avenue Family Self-Sufficiency | Mentor | MN | 56736-128 | 72,000.00
Brainerd, City of | 324 East River Road | Brainerd | MN | 56401-3504 | 67,304.00
South Central Mn Multi-County HRA | 422 Belgrade Avenue, Suite 102 | North Mankato | MN | 56003-3874 | 46,034.00
Southeastern Minnesota Multi-County HRA | 134 East Second Street | Wabasha | MN | 55981-1440 | 43,083.00
Housing Authority of St. Louis Park | 5005 Minnetonka Boulevard | St. Louis Park | MN | 55416-2216 | 41,866.00
Mississippi Regional Housing Authority No. VIII | 10430 Three Rivers Rd: Mailing: P.O. Box 2347, Gulfport, MS 39505-2347 | Gulfport | MS | 39501-5914 | 105,222.00
Tennessee Valley Regional Housing Authority | 1210 Proper St | Corinth | MS | 38834-1210 | 180,101.00
South Delta Regional Housing Authority | 202 Weston Ave | Leland | MS | 38756-202 | 53,250.00
Mississippi Regional Housing Authority VI | 2180 Terry Road, P.O. Box 8746 | Jackson | MS | 39284-8746 | 137,103.00
The Housing Authority of The City of Jackson, Mississippi | 2747 Livingston Road | Jackson | MS | 39213-6928 | 55,636.00
Mississippi Regional Housing Authority No. II | 900 Molly Barr Road | Oxford | MS | 38655-2106 | 35,000.00
The Housing Authority City of Meridian | 2425 E Street | Meridian | MS | 39305-870 | 126,449.00
The Housing Authority of The City of Biloxi | 330 Benachi Avenue, P.O. Box 447 | Biloxi | MS | 39533-447 | 48,687.00
Mississippi Regional Housing Authority, No. VII | P.O. Box 748 | McComb | MS | 39649-748 | 216,680.00
Lincoln County Public Housing Agency | 16 N Court ST, P.O. Box 470 | Bowling Green | MO | 63334-470 | 91,437.00
St Charles County Government | 201 N Second ST, Room 529 | ST. Charles | MO | 63301-0 | 47,834.00
Housing Authority of The City of Liberty, MO | 17 East Kansas | Liberty | MO | 64068-2372 | 51,855.00
The Housing Authority of Kansas City, Missouri | 920 Main Suite 701 | Kansas City | MO | 64105-2017 | 287,995.00
Saint Charles Housing Authority | 1041 Olive Street | Saint Charles | MO | 63301-4711 | 111,946.00
Phelps County Public Housing Agency | #4 Industrial Drive | St. James | MO | 65559-9998 | 59,946.00
Ripley County Public Housing Agency | 3019 Fair Street | Poplar Bluff | MO | 63901-7044 | 43,605.00
Economic Security Dba Jasper County Public Housing Agency | 302 Joplin St | Joplin | MO | 64801-2354 | 47,526.00
Housing Authority of The City of Springfield, Missouri | 421 W Madison St | Springfield | MO | 65806-2938 | 26,825.00
St. Clair County PHA | 106 West Fourth Street Housing | Appleton City | MO | 64724-1402 | 165,683.00
Housing Authority of The City of Jefferson | P.O. Box 1029, 1040 Myrtle Avenue | Jefferson City | MO | 65102-1029 | 72,000.00
St. Francois County Public Housing Agency | 403 Parkway Drive, P.O. Box 308 | Park Hills | MO | 63601-308 | 55,774.00
St. Louis Housing Authority | 3520 Page Boulevard Development | St. Louis | MO | 63106-1417 | 141,449.00
Franklin County Public Housing Agency | P.O. Box 920 Housing Program | Hillsboro | MO | 63050-920 | 87,169.00
Housing Authority of The City of Columbia, Missouri | 201 Switzler Street | Columbia | MO | 65203-4156 | 107,052.00
Housing Authority of St. Louis County | P.O. Box 23886 | St. Louis | MO | 63121-9129 | 135,996.00
Missoula Housing Authority | 1235 34th Street | Missoula | MT | 59801-8521 | 218,242.00
Housing Authority of Billings | 2415 1st Avenue North | Billings | MT | 59101-2318 | 50,536.00
Kearney Housing Authority | 2715 I Avenue, P.O. Box 1236 | Kearney | NE | 68848-1236 | 87,502.00
Douglas County Housing Authority | 5404 N 107th Plaza | Omaha | NE | 68134-1100 | 58,675.00
Goldenrod Regional Housing Agency | 1017 Avenue E, P.O. Box 799 | Wisner | NE | 68791-799 | 95,482.00
Housing Authority of The City of Omaha | 1823 Harney Street | Omaha | NE | 68102-1908 | 224,272.00
Housing Authority of The City of Lincoln | 5700 R Street Family Self-Sufficiency | Lincoln | NE | 68505-2332 | 129,466.00
Southern Nevada Regional Housing Authority | 340 North 11th Street Family Self-Sufficiency | Las Vegas | NV | 89101-3125 | 707,939.00
Reno Housing Authority | 1525 E 9th Street | Reno | NV | 89512-3012 | 113,084.00
Keene Housing | 831 Court St | Keene | NH | 03431-1712 | 145,456.00
Manchester Housing and Redevelopment Authority | 198 Hanover Street | Manchester | NH | 03104-6125 | 51,941.00
Dover Housing Authority | 62 Whittier Street | Dover | NH | 03820-2946 | 72,000.00
New Hampshire Housing Finance Authority | 32 Constitution Drive | Bedford | NH | 03110-6062 | 265,638.00
Woodbridge Housing Authority | 800 B Bunns Lane | Woodbridge | NJ | 07095-1765 | 26,591.00
Passaic County Public Housing Agency | 100 Hamilton Plaza, Suite 510 | Paterson | NJ | 07505-2100 | 123,466.00
Trenton Housing Authority | 875 New Willow Street | Trenton | NJ | 08638-4039 | 63,331.00
Housing Authority of Plainfield | 510 E Front Street | Plainfield | NJ | 07060-510 | 69,000.00
NJ Department of Community Affairs | 101 S Broad Street, P.O. Box 051 | Trenton | NJ | 08625-51 | 72,000.00
Atlantic City Housing and Redevelopment Authority | 227 North Vermont Avenue, 17th Floor | Atlantic City | NJ | 08401-5563 | 64,724.00
Housing Authority of The City of Vineland | 191 West Chestnut Avenue | Vineland | NJ | 08360-5417 | 70,000.00
Housing Authority of The City of Perth Amboy | 881 Amboy Avenue, P.O. Box 390 | Perth Amboy | NJ | 08862-390 | 139,243.00
Housing Authority Count of Morris | 99 Ketch Road | Morristown | NJ | 07960-2606 | 86,892.00
Housing Authority of The Borough of Madison | 24 Central Ave | Madison | NJ | 07940-1811 | 72,000.00
Lakewood Housing Authority | 317 Sampson Avenue, P.O. Box 1599 | Lakewood | NJ | 08701-3565 | 73,605.00
Lakewood Twp. Residential Assistance Program | 600 W Kennedy Blvd | Lakewood | NJ | 08701-1243 | 60,438.00
Housing Authority of The City of Jersey City | 400 U.S. Highway #1 Marion Gardens | Jersey City | NJ | 07306-6545 | 275,886.00
Housing Authority of Gloucester County | 100 Pop Moylan Blvd | Deptford | NJ | 08096-1947 | 53,677.00
Housing Authority of The Borough of Fort Lee | 1403 Teresa Drive Suite FLHA | Fort Lee | NJ | 07024-2101 | 55,000.00
County Treas., County of Monmouth, NJ | 3000 Kozloski Road, P.O. Box 3000 | Freehold | NJ | 07728-9969 | 72,000.00
The Housing Authority of The City of Orange | 340 Thomas Blvd | Orange | NJ | 09730-7050 | 68,000.00
Pleasantville Housing Authority | 168 North Main Street | Pleasantville | NJ | 08232-2569 | 77,699.00
Housing Authority of The City of Newark | 500 Broad Street 2nd Floor | Newark | NJ | 07102-3112 | 134,897.00
Housing Authority of The City of East Orange | 7 Glenwood Avenue, Suite 304A | East Orange | NJ | 07017-1041 | 72,000.00
Housing Authority Town of Dover | 215 East Blackwell Street | Dover | NJ | 07801 | 35,514.00
Housing Authority of The City of Paterson | 60 Van Houten St., P.O. Box H | Paterson | NJ | 07505-1028 | 56,737.00
Housing Authority of The City of Camden | 2021 Watson Street, 2nd Floor | Camden | NJ | 08105-1866 | 56,545.00
Housing Authority of The Township of Irvington | 101 A Union Avenue Family Self-Sufficiency | Irvington | NJ | 07111-3261 | 37,879.00
Clovis Housing & Redevelopment Agency, Inc | 2101 W Grand Avenue, P.O. Box 1240 | Clovis | NM | 88101-7088 | 101,653.00
Eastern Regional Housing Authority | P.O. Drawer 2057 | Roswell | NM | 88202-2057 | 122,420.00
Bernalillo County Housing Department | 2400 Wellesley Dr. NE—Suite 100 Community Services | Albuquerque | NM | 87107-1812 | 80,334.00
Mesilla Valley Public Housing Authority | 926 S San Pedro St HOUSING CHOICE VOUCHER | Las Cruces | NM | 88001-3637 | 50,121.00
Housing Authority of The City of Truth or Consequences | 108 S Cedar St | Truth or Consequences | NM | 87901-2881 | 47,226.00
Santa Fe County | 52 Camino de Jacobo Housing Authority | Santa Fe | NM | 87507-3502 | 50,149.00
El Camino Real Housing Authority | P.O. Box 00 301 Otero Avenue | Socorro | NM | 87801-5000 | 51,266.00
Santa Fe Civic Housing Authority | 664 Alta Vista Street | Santa Fe | NM | 87505-4149 | 62,284.00
Troy Housing Authority | One Eddy's Lane | Troy | NY | 12180-1423 | 144,000.00
Village of Ballston Spa | 11 Federal Street | Saratoga Springs | NY | 12866-4111 | 46,830.00
Town of Colonie | 11 Federal Street | Saratoga Springs | NY | 12866-4111 | 56,708.00
Village of Corinth | 11 Federal Street | Saratoga Springs | NY | 12866-4111 | 67,174.00
Village of Fort Plain | 11 Federal Street | Saratoga Springs | NY | 12866-4111 | 68,706.00
Mechanicville Housing Authority | 11 Federal Street | Saratoga Springs | NY | 12866-4111 | 69,192.00
Cohoes Housing Authority | 11 Federal Street | Saratoga Springs | NY | 12866-4111 | 68,876.00
Gloversville Housing Authority | 11 Federal Street | Saratoga Springs | NY | 12866-4111 | 104,633.00
Town of Guildeland | 11 Federal Street | Saratoga Springs | NY | 12866-4111 | 67,897.00
Village of Highland Falls | 11 Federal Street | Saratoga Springs | NY | 12866-4111 | 66,704.00
City of Johnstown | 11 Federal Street | Saratoga Springs | NY | 12866-4111 | 66,704.00
Town of Rotterdam | 11 Federal Street | Saratoga Springs | NY | 12855-4111 | 58,682.00
Village of Scotia | 11 Federal Street | Saratoga Springs | NY | 12866-4111 | 59,384.00
Town of Islip Housing Authority | 963 Montauk Hwy | Oakdale | NY | 11769-1433 | 60,316.00
City of Utica Section 8 Program | 1 Kennedy Plaza Section 8 Program | Utica | NY | 13502-4236 | 51,659.00
North Hempstead Housing Authority | 899 Broadway | Westbury | NY | 11590-0 | 36,000.00
Ithaca Housing Authority | 800 S Plain St | Ithaca | NY | 14850-5347 | 151,519.00
Town of Babylon Housing Assistance Agency | 281 Phelps Lane Housing Assistance Agency | N. Babylon | NY | 11703-4006 | 49,913.00
City of Oswego Community Development Office | 159 Liberty Street Housing Choice Voucher | Oswego | NY | 13126-1904 | 54,000.00
Municipal Housing Authority of The City of Schenectady | 375 Broadway | Schenectady | NY | 12305-2505 | 122,302.00
NVS Housing Trust Fund Corp | 38-40 State Street Statewide Section 8 | Albany | NY | 12207-2837 | 1,457,220.00
City of Lockport Housing Authority | 301 Michigan St | Lockport | NY | 14094-1724 | 72,000.00
Rental Assistance Corporation of Buffalo | 470 Franklin St | Buffalo | NY | 14202-1302 | 109,375.00
Rochester Housing Authority | 675 West Main Street | Rochester | NY | 14611-2313 | 200,877.00
Syracuse Housing Authority | 516 Burt Street | Syracuse | NY | 13202-3934 | 201,000.00
New York City Housing Authority | 250 Broadway Office of the EVP | New York | NY | 10007-2516 | 216,000.00
City of North Tonawanda PHA | 500 Wheatfield Street | North Tonawanda | NY | 14120-7026 | 50,975.00
Monticello Housing Authority | 76 Evergreen Drive | Monticello | NY | 12701-0 | 72,000.00
Municipal Housing Authority of The City of Utica, New York | 509 Second Street, Suite One | Utica | NY | 13501-2450 | 72,000.00
Albany Housing Authority | 200 South Pearl Street | Albany | NY | 12202-2028 | 227,558.00
Town of Brookhaven, Department of Housing And Human Services | One Independence Hill HCV FSS Program | Farmingville | NY | 11738-362 | 72,000.00
Erie County PHA Consortium, Town of Amherst Lead Applicant | 5583 Main Street | Amherst | NY | 14221-5488 | 164,685.00
Amsterdam Housing Authority | 52 Division Street | Amsterdam | NY | 12010-4007 | 101,435.00
New York City Department of Housing Preservation + Development | 100 Gold Street Tenant Resources | New York | NY | 10038-1605 | 1,210,135.00
Buffalo Municipal Housing Authority | 300 Perry Street Resident Services | Buffalo | NY | 14204-2270 | 34,500.00
Town of Huntington Housing Authority | 1A Lowndes Avenue | Huntington Station | NY | 11746-1261 | 72,000.00
Village of Kiryas Joel Housing Authority | 51 Forest Road, Suite 360 | Monroe | NY | 10950-2938 | 72,859.00
Housing Authority of The City of Wilson | 301 Nash St NE | Wilson | NC | 27893-3834 | 66,159.00
Housing Authority of The City of Kinston NC | 608 N Queen St Kinston Housing Authority | Kinston | NC | 28501-697 | 110,472.00
Northwestern Regional Housing Authority | 869 Highway 105 Extension, Suite 10, P.O. Box 2510 | Boone | NC | 28607-4958 | 206,884.00
Economic Improvement Council, Inc | 712 Virginia Road Family Self Sufficiency | Edenton | NC | 27932-549 | 50,887.00
Rowan County Housing Authority | 310 Long Meadow Dr | Salisbury | NC | 28147-8200 | 108,000.00
Housing Authority City of Asheville | 165 S French Broad Avenue Ste 1 | Asheville | NC | 28801-3947 | 139,190.00
Roxboro Housing Authority | 500 Mt. Bethel Church Street PO 996 | Roxboro | NC | 27573-4795 | 62,975.00
Coastal Community Action, Inc | P.O. Box 729 | Newport | NC | 28570-729 | 39,807.00
City of Hickory Public Housing Authority | 841 S Center Street | Hickory | NC | 28602-3611 | 59,506.00
North Wilkesboro Housing Authority | P.O. Box 1373 101 Hickory Street | North Wilkesboro | NC | 28659-3521 | 60,000.00
Washington Housing Authority | 809 Pennsylvania Ave., P.O. Box 1046 | Washington | NC | 27889-3824 | 45,000.00
Western Carolina Community Action | P.O. Box 685 220 King Creek Blvd. | Hendersonville | NC | 28792-685 | 68,684.00
Housing Authority of The City of Wilmington, NC | 1524 South 16th Street Family Self Sufficiency | Wilmington | NC | 28401-6426 | 64,296.00
Housing Authority of The County of Wake | 100 Shannon Drive Family Self-Sufficiency | Zebulon | NC | 27597-399 | 56,000.00
Housing Authority of The City of High Point | 500 E Russell Ave., P.O. Box 1779 | High Point | NC | 27260-1779 | 181,584.00
Rocky Mount Housing Authority | 1065 Pinehurst Drive, Box 4717 | Rocky Mount | NC | 27803-4717 | 71,272.00
Western Piedmont Council of Governments | 1880 2nd Ave. NW | Hickory | NC | 28601-9026 | 76,039.00
Housing Authority of The Town of Laurinburg | Post Office Box 1437 Family Self-Sufficiency | Laurinburg | NC | 28353-1437 | 52,500.00
Eastern Carolina Human Services Agency, Inc | 237 New River Drive, Suite 1, P.O. Box 796 | Jacksonville | NC | 28541-796 | 72,000.00
Inlivian | 400 East Blvd | Charlotte | NC | 28203-5584 | 116,170.00
Gastonia Housing Authority | P.O. Box 2398 | Gastonia | NC | 28053-2398 | 51,821.00
Isothermal Planning and Development Commission | 111 West Court Street Isothermal Plann and Dev. Comm | Rutherfordton | NC | 28139-841 | 35,744.00
Housing Authority of The City of Winston-Salem | 500 W 4th Street, Suite 300 | Winston-Salem | NC | 27101-2782 | 62,912.00
Chatham County Housing Authority | 13450 U.S. Hwy. 64 West, P.O. Box 571 | Siler City | NC | 27344-6443 | 24,669.00
Burlington Housing Authority | 133 N Ireland St | Burlington | NC | 27217-2365 | 66,349.00
City of Concord Housing Department | 283 Harold Goodman Circle | Concord | NC | 28025-5442 | 51,491.00
Housing Authority of The City of Goldsboro | 700 N Jefferson Ave | Goldsboro | NC | 27530-3135 | 66,746.00
Mid-East Regional Housing Authority | 2995 Radio Station Road | Greenville | NC | 27834-2995 | 46,566.00
Sandhills Community Action Program Inc | 340 Commerce Avenue, Suite 20 | Southern Pines | NC | 28387-7168 | 45,000.00
The Housing Authority of The City of Durham | 330 East Main Street | Durham | NC | 27701-3718 | 132,977.00
Twin Rivers Opportunities, Inc | 318 Craven Street | New Bern | NC | 28560-1482 | 74,156.00
Mountain Projects, Inc | 2177 Asheville Road | Waynesville | NC | 28786-3139 | 33,975.00
Housing Authority of The City of Greenville | 1103 Broad Street | Greenville | NC | 27834-3952 | 170,000.00
Sanford Housing Authority | P.O. Box 636 | Sanford | NC | 27331-4115 | 118,651.00
Housing Authority of The City of Greensboro | 450 N Church St | Greensboro | NC | 27401-2001 | 282,581.00
Lexington Housing Authority | 1 Jamaica Dr | Lexington | NC | 27293-0 | 52,168.00
The Housing Authority of The City of Grand Forks ND | 1405 1st Ave North | Grand Forks | ND | 58203-3484 | 118,218.00
Fargo Housing and Redevelopment Authority | 325 Broadway N | Fargo | ND | 58102-430 | 124,155.00
Columbus Metropolitan Housing Authority | 880 E 11th Avenue | Columbus | OH | 43211-2771 | 186,722.00
Meigs Metropolitan Housing Authority | 441 General Hartinger Parkway | Middleport | OH | 45760-1251 | 23,214.00
Erie Metropolitan Housing Authority | 322 Warren Street | Sandusky | OH | 44870-2265 | 51,715.00
Morgan Metropolitan Housing Authority | 4580 N St Rt 376 | McConnelsville | OH | 43756-9701 | 47,000.00
Pickaway Metro Housing Authority | 176 Rustic Dr | Circleville | OH | 43113-1576 | 24,069.00
Youngstown Metropolitan Housing Authority | 131 W Boardman Street Youngstown FSS Program | Youngstown | OH | 44503-1337 | 244,140.00
Jackson Metropolitan Housing Authority | 249 West 13th Street, P.O. Box 619 | Wellston | OH | 45692-619 | 40,750.00
Knox Metropolitan Housing Authority | 201 A West High Street | Mount Vernon | OH | 43050-2427 | 23,122.00
Morrow Metropolitan Housing Authority | 619 West Marion Street, Suite #107 | Mount Gilead | OH | 43338-1097 | 39,984.00
Fairfield Metropolitan Housing Authority | 315 N Columbus St | Lancaster | OH | 43130-1619 | 113,000.00
Tuscarawas Metropolitan Housing Authority | 134 Second Street SW | New Philadelphia | OH | 44663-3861 | 50,000.00
Parma Public Housing Agency | 1440 Rockside Road, Suite 306 Housing Choice Voucher Program | Parma | OH | 44134-2775 | 50,248.00
Vinton Metropolitan Housing Authority | 310 West High Street, P.O. Box 487 | McArthur | OH | 45651-487 | 19,662.00
Portage Metropolitan Housing Authority | 2832 State Route 59 Family Self-Sufficiency | Ravenna | OH | 44266-1650 | 46,269.00
Allen Metropolitan Housing Authority | 600 South Main Street | Lima | OH | 45804-1242 | 43,500.00
Chillicothe Metropolitan Housing Authority | 178 West Fourth Street | Chillicothe | OH | 45601-3219 | 114,950.00
Adams Metropolitan Housing Authority | 401 East Seventh Street | Manchester | OH | 45144-1401 | 52,529.00
The City of Marietta, Ohio PHA | 301 Putnam Street | Marietta | OH | 45750-0 | 48,000.00
Lucas Metropolitan Housing Authority | 435 Nebraska Avenue, P.O. Box 477 | Toledo | OH | 43697-477 | 263,400.00
Athens Metropolitan Housing Authority | 10 Hope Drive | Athens | OH | 45701-2136 | 41,494.00
Geauga Metropolitan Housing Authority | 385 Center Street—Office | Chardon | OH | 44024-1155 | 67,151.00
Stark Metropolitan Housing Authority | 400 Tuscarawas St. E | Canton | OH | 44702-1131 | 57,300.00
Wayne Metropolitan Housing Authority | 345 North Market Street | Wooster | OH | 44691-3566 | 45,514.00
Cambridge Metropolitan Housing Authority | 1100 Maple Court, P.O. Box 1388 | Cambridge | OH | 43725-6388 | 32,900.00
Lake Metropolitan Housing Authority | 189 First Street | Painesville | OH | 44077-3111 | 60,000.00
Lorain Metropolitan Housing Authority | 1600 Kansas Ave. | Lorain | OH | 44052-3317 | 121,759.00
Zanesville Metropolitan Housing Authority | 407 Pershing Road | Zanesville | OH | 43701-6871 | 222,874.00
Clinton Metropolitan Housing Authority | 478 Thorne Avenue | Wilmington | OH | 45177-1222 | 50,750.00
Akron Metropolitan Housing Authority | 100 West Cedar Street | Akron | OH | 44307-2502 | 349,899.00
Dayton Metropolitan Housing Authority | 400 Wayne Ave Family Self-Sufficiency | Dayton | OH | 45410-1118 | 120,678.00
Cincinnati Metropolitan Housing Authority | 1627 Western Avenue | Cincinnati | OH | 45214-2001 | 364,652.00
Springfield Metropolitan Housing Authority | 101 West High Street | Springfield | OH | 45502-1219 | 72,000.00
Logan County Metropolitan Housing Authority | 116 N Everett St | Bellefontaine | OH | 43311-1132 | 47,403.00
Trumbull Metropolitan Housing Authority | 4076 Youngstown Road, SE | Warren | OH | 44484-3397 | 119,097.00
Housing Authority of The City of Shawnee, OK | 601 W Seventh Street, P.O. Box 3427 | Shawnee | OK | 74802-3427 | 136,979.00
Housing Authority of The City of Muskogee | 220 North 40th | Muskogee | OK | 74401-1471 | 50,305.00
Housing Authority of The City of Norman | 700 North Berry Road | Norman | OK | 73069-7562 | 50,935.00
Oklahoma City Housing Authority | 1700 Northeast Fourth Street | Oklahoma City | OK | 73117-3800 | 50,794.00
Oklahoma Housing Finance Agency | 100 NW 63rd ST Suite 200 | Oklahoma City | OK | 73116-8208 | 213,207.00
Housing Authority of The City of Tulsa | 415 E Independence St | Tulsa | OK | 74106-5727 | 95,600.00
Housing Authority of The City of Stillwater | 807 S Lowry, Ofc. | Stillwater | OK | 74074-4742 | 52,354.00
Linn-Benton Housing Authority | 1250 Queen Avenue SE | Albany | OR | 97322-6661 | 144,000.00
Central Oregon Regional Housing Authority | 405 SW 6th Street | Redmond | OR | 97756-2204 | 148,564.00
Northeast Oregon Housing Authority | 2608 May Lane | La Grande | OR | 97850-7357 | 105,024.00
Marion County Housing Authority | 2645 Portland Road NE, Suite 200 | Salem | OR | 97301-200 | 48,111.00
Housing Authority & Urban Renewal Agency of Polk County | 240 SW Walnut Avenue | Dallas | OR | 97338-1428 | 72,000.00
Housing Authority of Yamhill County | 135 NE Dunn Pl | McMinnville OR 97128 | OR | 97128-9081 | 235,979.00
Housing Authority of Clackamas County | P.O. Box 1510 13930 S Gain Street | Oregon City | OR | 97045-510 | 64,734.00
Housing Authority of Jackson County | 2251 Table Rock Rd | Medford | OR | 97501-1409 | 142,929.00
Home Forward | 135 SW Ash Street FSS/GOALS | Portland | OR | 97204-3540 | 568,303.00
Mid-Columbia Housing Authority | 500 E 2nd Street | The Dalles | OR | 97058-0 | 60,912.00
Housing Authority of Washington County | 111 NE Lincoln Street MS 63 STE 200-L | Hillsboro | OR | 97124-3036 | 68,424.00
Homes for Good Housing Authority | 100 W 13th Ave. Supportive Housing Division | Eugene | OR | 97401-3433 | 228,117.00
Salem Housing Authority | 360 Church Street SE | Salem | OR | 97301-3707 | 296,482.00
Housing Authority of The County of Chester | 30 West Barnard Street, Suite 2 | West Chester | PA | 19382-1 | 55,000.00
Adams County Housing Authority | 40 E High ST | Gettysburg | PA | 17325-2316 | 48,639.00
Harrisburg Housing Authority | 351 Chestnut Street | Harrisburg | PA | 17101-2785 | 27,300.00
Clinton County Housing Authority | 369 Linden Circle | Lock Haven | PA | 17745-3211 | 58,000.00
Housing Authority of The County of Dauphin | 501 Mohn Street | Steelton | PA | 17113-7598 | 31,000.00
Housing Authority of The County of Armstrong | 350 South Jefferson Street | Kittanning | PA | 16201-2418 | 26,587.00
Housing Authority of Lycoming County | 1941 Lincoln Drive | Williamsport | PA | 17701-2824 | 40,710.00
Housing Authority of The County of Cumberland | 114 N Hanover Street HCV & PFH | Carlisle | PA | 17013-2445 | 25,000.00
Housing Authority of The City of Pittsburgh | 200 Ross Street 9th Floor | Pittsburgh | PA | 15219-2068 | 377,268.00
The Housing Authority of Franklin | 436 W Washington Street | Chambersburg | PA | 17201-2458 | 22,200.00
Westmoreland County Housing Authority | 167 S Greengate Road | Greensburg | PA | 15601-6392 | 238,155.00
Housing Authority of Northumberland County | 50 Mahoning Street | Milton | PA | 17847-1016 | 64,458.00
The Housing Authority of The County of Butler | 114 Woody Dr | Butler | PA | 16001-5692 | 55,352.00
Altoona Housing Authority | 2700 Pleasant Valley Boulevard | Altoona | PA | 16602-4492 | 54,000.00
Housing Authority of Centre County | 602 E Howard St. HCV | Bellefonte | PA | 16823-2145 | 57,064.00
Housing Authority of Indiana County | 104 Philadelphia Street | Indiana | PA | 15701-2132 | 39,589.00
Housing Authority of The County of Clarion (Inc) | 8 West Main Street | Clarion | PA | 16214-1816 | 84,901.00
Housing Authority of The City of Easton | 157 S 4th St | Easton | PA | 18042-4505 | 50,000.00
Housing Authority of The County of Union | 1610 Industrial Blvd., Suite 400 | Lewisburg | PA | 17837-1292 | 48,500.00
Montgomery County Housing Authority | 104 W Main St., Suite 1 | Norristown | PA | 19401-4716 | 63,968.00
Lehigh County Housing Authority | 635 Broad Street | Emmaus | PA | 18049-3722 | 55,985.00
Allegheny County Housing Authority | 251 Jefferson Drive | McKees Rocks | PA | 15136-3742 | 128,737.00
Philadelphia Housing Authority | 2013 Ridge Avenue Resident Programs | Philadelphia | PA | 19121-4113 | 370,000.00
Housing Authority of The City of York | 31 S Broad St | York | PA | 17403-0 | 69,380.00
Municipality of San German | Ave. Universidad Interamericana #136 | San German | RQ | 00683 | 56,816.00
Municipality of Bayamon | P.O. Box 1588 Section 8 Program | Bayamon | RQ | 00960-1588 | 28,324.00
Municipality of San Juan | P.O. Box 70179 Section 8 | San Juan | RQ | 00936-8179 | 25,387.00
Town of Cumberland Housing Authority | 573 Mendon Rd., Suite 4 | Cumberland | RI | 02864-6200 | 74,576.00
Town of Coventry Housing Authority | 14 Manchester Circle | Coventry | RI | 02816-8827 | 60,814.00
The Housing Authority of The City of Providence, RI | 100 Broad Street | Providence | RI | 02903-4131 | 219,159.00
Rhode Island Housing and Mortgage Finance Corporation | 44 Washington Street Leased Housing | Providence | RI | 02903-1721 | 207,693.00
Narragansett Housing Authority | 25 Fifth Avenue Family Self-Sufficiency Progra | Narragansett | RI | 02882-3612 | 76,039.00
East Providence Housing Authority | 99 Goldsmith Avenue East Providence Housing | East Providence | RI | 02914-2221 | 66,745.00
Housing Authority of The Town of East Greenwich | 146 First Avenue FSS | East Greenwich | RI | 02818-3663 | 65,473.00
Town of North Providence Housing Authority | 945 Charles Street North Providence HA | North Providence | RI | 02904-5647 | 20,043.00
Housing Authority of The City of Pawtucket | 214 Roosevelt Avenue | Pawtucket | RI | 06860-2153 | 152,078.00
The Central Falls Housing Authority | 30 Washington Street | Central Falls | RI | 02863-2842 | 70,871.00
Warwick Housing Authority | 1035 West Shore Road | Warwick | RI | 02886-3417 | 21,648.00
Housing Authority of Myrtle Beach | 605 10th Avenue North P.O. Box 2468 | Myrtle Beach | SC | 029578-2468 | 68,680.00
Housing Authority of The City of Spartanburg | 2271 South Pine Street | Spartanburg | SC | 029302-4339 | 69,296.00
Housing Authority of The City of Greenville | 122 Edinburgh Court | Greenville | SC | 029607-2530 | 110,000.00
The Housing Authority City of Charleston | 550 Meeting Street Housing Choice Voucher | Charleston | SC | 029403-5068 | 61,181.00
Charleston County Housing and Redevelopment Authority | 2106 Mount Pleasant Street | Charleston | SC | 029403-0 | 67,671.00
Beaufort Housing Authority | Post Office Box 1104 | Beaufort | SC | 29901-1104 | 51,569.00
Housing Authority of The City of Columbia, SC | 1917 Harden Street | Columbia | SC | 29204-1015 | 54,676.00
North Charleston Housing Authority | 6327 Rivers Avenue FSS Program | North Charleston | SC | 29406-4850 | 59,442.00
Brookings County Housing & Redevelopment Commission | 1310 S Main Ave., Suite #104, P.O. BOX 432 | Brookings | SD | 57006-432 | 37,966.00
Mobridge Housing & Redevelopment Commission | 202 1ST Ave. East | Mobridge | SD | 57601-370 | 34,233.00
Sioux Falls Housing and Redevelopment Commission | 630 S Minnesota Ave | Sioux Falls | SD | 57104-4825 | 89,579.00
Knoxville Community Development Corporation | 901 N Broadway, P.O. Box 3550 | Knoxville | TN | 37927-6663 | 56,967.00
Kingsport Housing and Redevelopment Authority | 906 E Sevier Ave | Kingsport | TN | 37660-44 | 107,982.00
East Tennessee Human Resource Agency, Inc. | 9111 Cross Park Drive Suite D-100 | Knoxville | TN | 37923-4517 | 57,600.00
Shelbyville Housing Authority | 316 Templeton Street | Shelbyville | TN | 37160-3295 | 57,034.00
Franklin Housing Authority | 200 Spring Street | Franklin | TN | 37064-3311 | 59,391.00
Jackson Housing Authority | 125 Preston Street Social Services | Jackson | TN | 38301-4888 | 217,699.00
Tennessee Housing Development Agency | 502 Deaderick Street | Nashville | TN | 37243-900 | 306,432.00
Memphis Housing Authority | 700 Adams Ave | Memphis | TN | 38105-5029 | 66,744.00
Town of Crossville Housing Authority | P.O. Box 425 | Crossville | TN | 38557-425 | 54,158.00
Oak Ridge Housing Authority | 10 Van Hicks Road | Oak Ridge | TN | 37830-4969 | 39,809.00
Chattanooga Housing Authority | 801 N Holtzclaw Avenue | Chattanooga | TN | 37404-1236 | 72,000.00
Metropolitan Development and Housing Agency | 701 South Sixth Street MDHA Social Services Division | Nashville | TN | 37206-3809 | 281,022.00
Housing Authority of The City of Beaumont | 1890 Laurel | Beaumont | TX | 77701-1904 | 98,053.00
Housing Authority of The City of Lubbock | 1708 Crickets Avenue | Lubbock | TX | 79401-5127 | 46,113.00
Brazos Valley Council of Government | P.O. Drawer 4128 Family Self-Sufficiency | Bryan | TX | 77802-4128 | 395,640.00
Galveston Housing Authority | 4700 Broadway | Galveston | TX | 77551-4241 | 72,000.00
Housing Authority of The City of Kingsville | 1000 W Corral Avenue | Kingsville | TX | 78363-3035 | 56,996.00
The Housing Authority of The City of Dallas, Texas | 3939 North Hampton Road | Dallas | TX | 75212-1602 | 784,491.00
Ark-Tex Council of Governments | 4808 Elizabeth St Housing Choice Voucher Program | Texarkana | TX | 75505-5307 | 65,229.00
Dallas, County of | 2377 North Stemmons Freeway, Suite 600 Dallas County Housing Agency | Dallas | TX | 75207-2710 | 71,671.00
Houston Housing Authority | 2640 Fountain View Dr | Houston | TX | 77057-7610 | 393,387.00
Housing Authority of The City of Austin | 1124 S IH-35 Special Programs & Intake | Austin | TX | 78704-2614 | 293,577.00
Housing Authority of The City of Arlington | 501 W Sanford Street, Suite 20 | Arlington | TX | 76011-7090 | 189,423.00
Deep East Texas Council of Governments | 1405 Kurth Drive Family Self-Sufficiency Program | Lufkin | TX | 75904-1929 | 72,000.00
Housing Authority of Texarkana Texas | 1611 N Robison Rd | Texarkana | TX | 75501-4113 | 71,630.00
City of Tyler Housing Agency | 900 W Gentry Pkwy Housing Choice Voucher Program | Tyler | TX | 75702-5521 | 58,563.00
Montgomery County Housing Authority | 1500 North Frazier, Suite 101 | Conroe | TX | 77301-2220 | 42,762.00
Housing Authority of The City of Fort Worth | 1201 E 13TH Street | Fort Worth | TX | 76102-5794 | 360,000.00
Housing Authority of The City of Pharr | 104 W Polk Ave | Pharr | TX | 78577-3023 | 45,741.00
City of Longview, TX | P.O. Box 1952 Housing | Longview | TX | 75601-1952 | 56,041.00
Housing Authority of The City of San Angelo | 420 East 28th Street | San Angelo | TX | 76903-2455 | 75,000.00
Housing Authority of The City of Brownsville | 2606 Boca Chica Blvd | Brownsville | TX | 78521-2312 | 166,274.00
Robstown Housing Authority | 625 W Avenue F | Robstown | TX | 78380-4110 | 39,442.00
Housing Authority of The City of Abilene | 1149 E South 11th Street HCV | Abilene | TX | 79602-3701 | 55,162.00
Mission Housing Authority | 1300 East 8th Street | Mission | TX | 78572-1300 | 54,456.00
Housing Authority of The City of El Paso | 5300 E Paisano Housing Programs | El Paso | TX | 79905-2931 | 116,390.00
Walker County Housing Authority | 340 State Hwy. N, Ste. E | Huntsville | TX | 77320-3176 | 45,450.00
Tarrant County Housing Assistance Office | 2100 Circle Drive, Suite 200 Tarrant County Housing Asst | Fort Worth | TX | 76119-8130 | 216,833.00
The Housing Authority of The City of Wichita Falls, Texas | 501 Webster | Wichita Fall | TX | 76306-2954 | 55,981.00
Midland County Housing Authority | 1710 Edwards | Midland | TX | 79701-2313 | 45,000.00
McAllen Housing Authority | 2301 Jasmine Avenue | McAllen | TX | 78501-7496 | 22,925.00
Texoma Council of Governments | 1117 Gallagher Dr., Suite 210 | Sherman | TX | 75090-3107 | 144,000.00
San Marcos Housing Authority | 1201 Thorpe Ln Office | San Marcos | TX | 78666-6565 | 118,843.00
City of Garland Housing Agency | 210 Carver St., Ste. 201B | Garland | TX | 75040-0 | 59,318.00
Housing Authority of The City of Waco | 4400 Cobbs Dr., P.O. Box 978 | Waco | TX | 76703-978 | 117,068.00
Housing Authority of The County of Hidalgo | 1800 N Texas Blvd | Weslaco | TX | 78599-4034 | 95,306.00
San Antonio Housing Authority | 818 S Flores Street | San Antonio | TX | 78204-1430 | 936,002.00
Housing Authority of Bexar County | 1954 E Houston Suite 104 | San Antonio | TX | 78202-2952 | 192,149.00
Provo City Housing Authority | 688 West 100 North | Provo | UT | 84601-2632 | 72,000.00
Housing Authority of The County of Salt Lake | 3595 South Main Street | Salt Lake City | UT | 84115-4434 | 229,581.00
Housing Authority of The City of Ogden | 1100 Grant Avenue | Ogden | UT | 84404-4931 | 59,444.00
Tooele County Housing Authority | 66 West Vine US | Tooele | UT | 84074-0 | 52,720.00
Housing Authority of Salt Lake City | 1776 S West Temple | Salt Lake City | UT | 84115-1816 | 101,804.00
Davis Community Housing Authority | 352 S 200 W | Farmington | UT | 84025-328 | 60,178.00
Housing Authority of Utah County | 485 N Freedom Blvd | Provo | UT | 84601-2824 | 53,539.00
Brattleboro Housing Authority | PO Box 2275 | W. Brattleboro | VT | 5303-0 | 70,168.00
Burlington Housing Authority | 65 Main Street | Burlington | VT | 5401-8408 | 118,482.00
Vermont State Housing Authority | One Prospect Street | Montpelier | VT | 5602-3556 | 261,814.00
Virgin Islands Housing Authority | 9900 Oswald Harris Court #1 Estate Thomas | St. Thomas | VQ | 802-3100 | 69,380.00
Hampton Redevelopment and Housing Authority | 1 Franklin Street, Suite 603 HCV-FSS | Hampton | VA | 23669-280 | 60,152.00
City of Roanoke Redevelopment and Housing Authority | 2624 Salem Turnpike, NW | Roanoke | VA | 24017-5443 | 151,470.00
Harrisonburg Redevelopment & Housing Authority | 286 Kelley Street | Harrisonburg | VA | 22802-4721 | 35,103.00
Hopewell Redevelopment and Housing Authority | P.O. Box 1361 | Hopewell | VA | 23860-7812 | 72,000.00
Franklin Redevelopment and Housing Authority | 100 East Fourth Ave | Franklin | VA | 23851-1901 | 60,000.00
Danville Redevelopment and Housing Authority | 135 Jones Crossing Community Relations | Danville | VA | 24541-2245 | 24,818.00
Newport News Redevelopment and Housing Authority | 227 27th Street Community Resources Division | Newport News | VA | 23607-797 | 112,031.00
James City County Office of Housing and Community Development | 5320 Palmer Lane, Ste. 1A | Williamsburg | VA | 23188-2674 | 26,500.00
Fairfax County Redevelopment and Housing Authority | 3700 Pender Drive, Suite 100 | Fairfax | VA | 22030-6039 | 152,078.00
Waynesboro Redevelopment and Housing Authority | 1700 New Hope Road, P.O. Box 1138 | Waynesboro | VA | 22980-821 | 48,638.00
City of Virginia Beach Department of Housing | 2424 Courthouse Drive Municipal Center—Building 18A | Virginia Beach | VA | 23456-9083 | 56,347.00
Richmond Redevelopment and Housing Authority | 901 Chamberlayne Parkway | Richmond | VA | 23220-6887 | 72,000.00
County of Loudoun | P.O. Box 7400 HCV | Leesburg | VA | 20177-7400 | 74,080.00
Portsmouth Redevelopment and Housing Authority | 3116 South Street | Portsmouth | VA | 23707-4116 | 226,656.00
Chesapeake Redevelopment and Housing Authority | 1468 South Military Highway | Chesapeake | VA | 23320-2604 | 167,440.00
Alexandria Redevelopment and Housing Authority | 401 Wythe St | Alexandria | VA | 22314-0 | 78,659.00
Norfolk Redevelopment and Housing Authority | 555 E Main Street Client Services | Norfolk | VA | 23510-1820 | 360,000.00
Bristol Redevelopment and Housing Authority | 809 Edmond Street Family Self-Sufficiency | Bristol | VA | 24201-4385 | 49,627.00
Suffolk Redevelopment and Housing Authority | 530 E PINNER STREET | Suffolk | VA | 23434-3023 | 52,368.00
Housing Authority of The City of Longview | 820 11th Ave. FSS Program | Longview | WA | 98632-2402 | 98,387.00
Housing Authority of The City of Everett | 3107 Colby Avenue | Everett | WA | 98201-4024 | 72,000.00
Pierce County Housing Authority | 603 Polk Street South | Tacoma | WA | 98444-5649 | 138,000.00
Housing Authority of Island County | 7 NW 6th Street | Coupeville | WA | 98239-3400 | 57,928.00
Housing Authority of The City of Yakima | 810 North 6th Avenue | Yakima | WA | 98902-1474 | 129,286.00
Housing Authority City of Kennewick | 1915 West 4th Place FSS | Kennewick | WA | 99336-5130 | 56,862.00
King County Housing Authority | 600 Andover Park West Resident Services | Tukwila | WA | 98188-3326 | 366,906.00
Housing Authority of Chelan County and The City of Wenatchee | 1555 S Methow | Wenatchee | WA | 98801-9417 | 48,943.00
City of Kelso Housing Authority | 1415 S 10th Ave | Kelso | WA | 98626-2729 | 69,688.00
Peninsula Housing Authority | 2603 S Francis Street | Port Angeles | WA | 98362-6710 | 94,170.00
Columbia Gorge Housing Authority | 500 E 2nd Street | The Dalles | WA | 97058-0 | 60,912.00
Housing Authority of Thurston County | 1206 12th Ave SE Housing Stability Division | Olympia | WA | 98501-2351 | 147,211.00
Housing Authority of The City of Tacoma | 902 South L Street Family Self Sufficiency | Tacoma | WA | 98405-4037 | 197,662.00
Vancouver Housing Authority | 2500 Main St | Vancouver | WA | 98660-2675 | 215,063.00
The Housing Authority of The City of Bremerton | 600 park Ave | Bremerton | WA | 98337-1544 | 67,927.00
Housing Authority of Skagit County | 1650 Port Drive | Burlington | WA | 98233-3106 | 58,556.00
Seattle Housing Authority | 190 Queen Anne Ave N, P.O. Box 19028 | Seattle | WA | 98109-1028 | 456,236.00
Housing Authority of The City of Pasco And Franklin County | 2505 W Lewis St | Pasco | WA | 99301-4569 | 50,160.00
Parkersburg Housing Authority | 1901 Cameron Ave | Parkersburg | WV | 26101-9316 | 47,419.00
Clarksburg-Harrison Regional Housing Authority | 433 Baltimore Ave | Clarksburg | WV | 26301-2053 | 43,263.00
The Fairmont-Morgantown Housing Authority | P.O. Box 2738 103 12th Street | Fairmont | WV | 26555-2738 | 30,186.00
Benwood-McMechen Housing Authority | 2200 Marshall Street | Benwood | WV | 26031-1323 | 18,104.00
Wheeling Housing Authority | P.O. Box 2089 11 Community Street | Wheeling | WV | 26003-5201 | 55,903.00
Housing Authority of Mingo County | 5026 Helena Avenue | Delbarton | WV | 25670-120 | 69,000.00
Charleston-Kanawha Housing Authority | 1525 Washington Street West | Charleston | WV | 25387-2315 | 91,019.00
Dane County Housing Authority | 6000 Gisholt Drive, #203 | Monona | WI | 53713-3707 | 63,670.00
Housing Authority of The City of Milwaukee | P.O. Box 324 | Milwaukee | WI | 53201-324 | 151,474.00
City of Beloit | 100 State Street Beloit Housing Authority | Beloit | WI | 53511-6234 | 36,000.00
Appleton Housing Authority | 925 W Northland Avenue | Appleton | WI | 54914-1422 | 57,500.00
Housing Authority of Racine County | 837 Main Street | Racine | WI | 53403-1522 | 72,000.00
Brown County Housing Authority | 305 E Walnut St., Rm. 320, P.O. Box 23600 | Green Bay | WI | 54305-3600 | 90,308.00
City of Kenosha Housing Authority | 625 52nd Street, RM 98 | Kenosha | WI | 53140-3480 | 72,000.00
Dunn County Housing Authority | 800 Wilson Ave., Room 330 | Menomonie | WI | 54751-0 | 20,750.00
Winnebago County Housing Authority | 600 Merritt Avenue | Oshkosh | WI | 54901-5178 | 72,000.00
Total |  |  | ...... |  | 77,745,862.00

Appendix W

FY2020 Family Self-Sufficiency Renewal Supplemental Program (FR-6400-04)

Contact: Anice Chenault Anice.S.Chenault@hud.gov.

Organization | Address | City | State | ZIP | Total
Housing Authority of the City of Bloomington | 1007 North Summit Street | Bloomington | IN | 47404 | $94,004.00
Cuyahoga Metropolitan Housing Authority | 8120 Kinsman Road | Cleveland | OH | 44104 | 246,468.00
Jefferson County Housing Authority | 3700 Industrial Parkway | Birmingham | AL | 35217 | 139,725.00
Housing Authority of the Town of Boonton | 125 Chestnut St | Boonton | NJ | 07005 | 72,000.00
Housing Authority of Frankfort | 590 Walter Todd Drive | Frankfort | KY | 40601 | 56,650.00
Regional Housing Authority | 1455 Butte House Road | Yuba City | CA | 95993 | 115,000.00
Municipality of Juana Diaz | #35 Degeta U Street | Juana Diaz | PR | 00795 | 24,680.00
Housing Authority of the City of Pueblo | 201 S Victoria Ave | Pueblo | CO | 81003 | 44,343.00
Municipality of Ponce | P.O. Box 331709 | Ponce | PR | 00733 | 15,040.00
Grand Rapids Housing Commission | 1420 Fuller Avenue, SE | Grand Rapids | MI | 49507 | 360,000.00
City of Wichita Kansas Housing Authority | 455 N Main St | Wichita | KS | 67202 | 199,023.00
Housing Authority of Prince George's County | 9200 Basil Court | Largo | MD | 20774 | 138,000.00
Adams County Housing Authority DBA Maiker Housing Partners | 3033 W 71st Ave. #1000 | Westminster | CO | 80030 | 58,960.00
Total |  |  | ...... |  | 1,563,893.00

Appendix X

FY2015 Tribal Veterans Affairs Supportive Housing (TRIBAL HUD VASH) Grant Program (PIH Notice 2020-10)

Contact: Hilary Atkin, 202-402-3427.

Organization | Address | City | State | Zip code | Amount
AVCP Regional Housing Authority | P.O. Box 767 | Bethel | AK | 99559 | $41,991.00
Cook Inlet Housing Authority | 3510 Spenard Road, Suite 100 | Anchorage | AK | 99503 | 173,429.00
Tlingit Haida Regional Housing Authority | P.O. Box 32237 | Juneau | AK | 99803 | 207,316.00
San Carlos Housing Authority | P.O. Box 740 | Peridot | AZ | 85542-0740 | 119,551.00
Blackfeet Housing Authority | P.O. Box 449 | Browning | MT | 59417 | 202,481.00
Turtle Mountain Housing Authority | P.O. Box 620 | Belcourt | ND | 58316 | 69,716.00
Zuni Housing Authority | P.O. Box 710 | Zuni | NM | 87327 | 85,595.00
Oglala Sioux Lakota Housing | P.O. Box 603 | Pine Ridge | SD | 57770 | 68,199.00
Oneida Nation of Wisconsin | P.O. Box 68 | Oneida | WI | 54155 | 140,985.00
Hopi Housing Authority | P.O. Box 906 | Polacca | AZ | 86042 | 123,647.00
Standing Rock Housing Authority | P.O. Box 769 | Fort Yates | ND | 58538 | 77,488.00
Navajo Housing Authority | P.O. Box 4980 | Window Rock | NM | 86515 | 251,296.00
Cherokee Nation | P.O. Box 948 | Tahlequah | OK | 74465 | 98,876.00
Cheyenne-Arapaho Tribes | P.O. Box 167 | Concho | OK | 73022 | 127,124.00
Choctaw Nation | P.O. Drawer 1210 | Durant | OK | 74702 | 116,806.00
Muscogee Creek Nation | P.O. Box 580 | Okmulgee | OK | 74447 | 178,123.00
Osage Nation | P.O. Box 779 | Pawhuska | OK | 74056 | 117,082.00
Sicangu Wicoti Awayankapi Corporation | P.O. Box 69 | Rosebud | SD | 57570 | 19,074.00
Confederated Tribes of Warm Springs | 1234 VETERANS STREET | Jefferson | OR | 97761 | 35,353.00
Tohono O'dham KIKI: Association | P.O. Box 790 | Sells | AZ | 85634-0790 | 391,267.00
Leech Lake Housing Authority | 611 Elm Ave | Cass Lake | MN | 56633 | 31,821.00
White Earth Reservation Housing Authority | 3303 US Hwy. 59 | Waubun | MN | 56589 | 65,700.00
Lumbee Tribe of North Carolina | 6984 Highway 711 | Pembroke | NC | 28372 | 204,608.00
Colville Indian Housing Authority | P.O. Box 528 | Nespelem | WA | 99155-0528 | 40,693.00
Spokane Indian Housing Authority | P.O. Box 195 | Wellpinit | WA | 99040-0195 | 148,615.00
Yakama Nation Housing Authority | P.O. Box 156 | Wapato | WA | 98951-0156 | 131,336.00
Total |  |  | ...... |  | 3,268,172.00

Appendix Y

FY2020 Indian Community Development Block Grant Imminent Threat CARES (ICDBG-IT CARES) Grant Program (PIH Notice 2020-11)

Contact: Hilary Atkin, 202-402-3427.

Organization | Address | City | State | Zip code | Amount
Native Village of Selawik | P.O. Box 59 | Selawik | AK | 99770 | $421,525.00
Orutsararmiut Native Council | P.O. Box 927 | Bethel | AK | 99559 | 900,000.00
Greenville Rancheria | 410 Main Street | Greenville | CA | 95947 | 900,000.00
Three Affiliated Tribes of Fort Berthold | 404 Frontage Road | New Town | ND | 58763-0404 | 900,000.00
Duck Valley Housing Authority | P.O. Box 129 | Owyhee | NV | 89832 | 900,000.00
Confederated Tribes of Siletz Indians of Oregon | 201 SE Swan Avenue | Siletz | OR | 97380 | 900,000.00
Sicangu Wicoti Awayankapi Corporation | P.O. Box 69 | Rosebud | SD | 57570 | 2,939,921.00
Lower Elwha Klallam Tribe | 2851 Lower Elwha Road | Port Angeles | WA | 98363 | 261,083.00
Quinault Housing Authority | P.O. Box 160 | Taholah | WA | 98587 | 900,000.00
St. Croix Chippewa Housing Authority | 4456 State Road 70 | Webster | WI | 54893 | 775,000.00
Gwichyaa Zhee/aka Native Village of Fort Yukon | P.O. Box 126 | Fort Yukon | AK | 99740 | 900,000.00
Hughes Village | P.O. Box 45029 | Hughes | AK | 99745 | 900,000.00
Knik Tribe | P.O. Box 871565 | Wasilla | AK | 99687 | 900,000.00
Native Village of Tetlin | P.O. Box 68 | Tok | AK | 99780 | 899,085.00
Yakutat Tlingit Tribe | P.O. Box 418 | Yakutat | AK | 99689 | 900,000.00
Bear River Band of Rohnerville Rancheria | 266 Keisner Rd | Loleta | CA | 95551 | 541,577.00
Seminole Tribe of Florida | 6300 Stirling Rd | Hollywood | FL | 33024 | 900,000.00
Coeur d'Alene Tribal Housing Authority | P.O. Box 267 | Plummer | ID | 83851 | 900,000.00
Grand Traverse Band of Ottawa and Chippewa Indians | 2605 NW Bay Shore Dr | Peshawbestown | MI | 49682 | 900,000.00
Red Lake Comprehensive Health | 2460 Hospital Drive NW | Red Lake | MN | 56671 | 1,499,918.00
Northern Cheyenne Tribal Housing Authority | P.O. Box 327 | Lame Deer | MT | 59043-0327 | 1,500,000.00
San Felipe Pueblo Housing Authority | P.O. Box 4222 | San Felipe Pueblo | NM | 87001 | 900,000.00
Zuni Housing Authority | P.O. Box 710 | Zuni | NM | 87327 | 1,500,000.00
Taos Pueblo Housing Authority | 925 Spider Rock Road | Taos | NM | 87571 | 899,754.00
Eastern Shawnee Tribe of Oklahoma | 12755 S 705 Road | Wyandotte | OK | 74370 | 900,000.00
Otoe-Missouria Tribe | 8151 Highway 177 | Red Rock | OK | 74651 | 386,325.00
Ottawa Tribe of Oklahoma | P.O. Box 110 | Miami | OK | 74355 | 900,000.00
Quapaw Tribe | P.O. Box 765 | Quapaw | OK | 74363 | 699,660.00
Confederated Tribe of Coos, Lower Umpqua, Siuslaw Indians | 1245 Fulton Ave | Coos Bay | OR | 97420 | 900,000.00
Circle Native Community | P.O. Box 89 | Circle | AK | 99733 | 899,925.00
Native Village of Tanacross | P.O. Box 76009 | Tanacross | AK | 99776 | 899,836.00
Organized Village of Kake | P.O. Box 316 | Kake | AK | 99830 | 900,000.00
Organized Village of Saxman | Route 2, Box 2 | Saxman | AK | 99901 | 900,000.00
Houlton Band of Maliseet Indians | P.O. Box 88 | Houlton | ME | 04730 | 900,000.00
Keweenaw Bay Indian Community | 220 Main Street | Baraga | MI | 49908 | 900,000.00
Fort Belknap Housing Authority | 668 Agency Main Street | Harlem | MT | 59526-9455 | 900,000.00
Nambe Pueblo Housing Entity | P.O. Box 3456 | Sante Fe | NM | 87506 | 900,000.00
Winnemucca Indian Colony | 595 Humboldt Street | Reno | NV | 89509 | 900,000.00
Chickasaw Nation | P.O. Box 1548 | Ada | OK | 74821 | 2,999,915.00
Choctaw Nation | P.O. Drawer 1210 | Durant | OK | 74702 | 3,000,000.00
Comanche Nation | P.O. Box 908 | Lawton | OK | 73502 | 900,000.00
Kickapoo Tribe HA of OK | P.O. Box 120 | McLoud | OK | 74851 | 900,000.00
Pawnee Nation | P.O. Box 470 | Pawnee | OK | 74058 | 900,000.00
Cheyenne River Housing Authority | P.O. Box 480 | Eagle Butte | SD | 57625-0480 | 1,112,601.00
Bad River Band of the Lake Superior Tribe of Chippewa | P.O. Box 39 | Odanah | WI | 54861 | 900,000.00
Ho-Chunk Nation of Wisconsin | P.O. Box 730 | Tomah | WI | 54660 | 1,500,000.00
Akiak Native Community | P.O. Box 52127 | Akiak | AK | 99552 | 899,890.00
Central Council Tlingit and Haida Indian Tribes of Alaska | 320 W Wiloughby Ave | Juneau | AK | 99801 | 1,500,000.00
Chilkoot Indian Association | P.O. Box 490 | Haines | AK | 99827 | 900,000.00
Chuloonawick Native Village | P.O. Box 245 | Emmonak | AK | 99581 | 900,000.00
Cook Inlet Tribal Council | 3400 San Jeronimo | Anchorage | AK | 99508 | 3,000,000.00
Klawock Cooperative Association | P.O. Box 430 | Klawock | AK | 99925 | 900,000.00
Organized Village of Grayling | P.O. Box 490 | Grayling | AK | 99590 | 895,500.00
Wrangell Cooperative Association | P.O. Box 2021 | Wrangell | AK | 99929 | 900,000.00
Tohono O'odham KI:KI: Association | P.O. Box 790 | Sells | AZ | 85634 | 1,500,000.00
Fort Hall Housing Authority | 161 Wardance Circle | Pocatello | ID | 83202 | 900,000.00
Nez Perce Tribe | P.O. Box 305 | Lapwai | ID | 83540 | 899,850.00
Little River Band of Ottawa Indians | 2608 Government Center Drive | Manistee | MI | 49660 | 898,560.00
Pokagon Band of Potawatomi Indians | 58620 Sink Rd | Dowagiac | MI | 49047 | 900,000.00
Turtle Mountain Housing Authority | P.O. Box 620 | Belcourt | ND | 58316 | 2,992,568.00
Coquille Indian Tribe | 3050 Tremont | North Bend | OR | 97459 | 900,000.00
Lummi Nation Housing Authority | 2579 Kwina Road | Bellingham | WA | 98226 | 1,494,909.00
Muckleshoot Housing Authority | 38037 158th Avenue SE | Auburn | WA | 98092 | 899,578.00
Nisqually Indian Tribe | 4820 She Nah Num Drive SE | Olympia | WA | 98513 | 900,000.00
Squaxin Island Tribe | 10 SE Squaxin Lane | Shelton | WA | 98584 | 899,997.00
Tulalip Tribes of Washington | 6406 Marine Drive | Tulalip | WA | 98271 | 1,500,000.00
Lac du Flambeau Band | P.O. Box 67 | Lac du Flambeau | WI | 54538 | 890,575.00
Angoon Community Association | P.O. BOX 328 | Angoon | AK | 99820 | 900,000.00
Craig Tribal Association | P.O. Box 828 | Craig | AK | 99921 | 900,000.00
Qawalangin Tribe of Unalaska | P.O. Box 334 | Unalaska | AK | 99685 | 392,914.00
Manzanita Band of Diegueno Indians | P.O. Box 1302 | Boulevard | CA | 91905 | 900,000.00
Pala Band of Mission Indians | 35008 Pala Temecula Rd | Pala | CA | 92059 | 900,000.00
Tule River Indian Housing Authority | 342 N Reservation Rd | Porterville | CA | 93257 | 900,000.00
Fort Peck Housing Authority | P.O. Box 667 | Poplar | MT | 59255-0667 | 1,500,000.00
Winnebago Tribe of Nebraska | P.O. Box 687 | Winnebago | NE | 68071-0687 | 900,000.00
Ponca Tribe | 121 White Eagle Drive | Ponca | OK | 74601 | 900,000.00
Warm Springs Housing Authority | P.O. Box 1167 | Warm Springs | OR | 97761 | 900,000.00
Confederated Tribes of the Chehalis Reservation | P.O. Box 536 | Oakville | WA | 98568 | 757,278.00
Native Village of Chenega | 3000 C Street, Suite 301 | Anchorage | AK | 99503 | 637,149.00
Petersburg Indian Assocation | P.O. BOX 1418 | Petersburg | AK | 99833 | 900,000.00
Skagway Village | P.O. Box 1157 | Skagway | AK | 99840 | 900,000.00
Stevens Village | P.O. Box 16 | Stevens Village | AK | 99774 | 899,273.00
White Mountain Apache Housing Authority | P.O. Box 1270 | Whiteriver | AZ | 85941 | 3,000,000.00
Campo Band of Mission Indians | 36190 Church Rd | Campo | CA | 91906 | 900,000.00
Dry Creek Rancheria | P.O. Box 607 | Geyserville | CA | 95441 | 900,000.00
Elk Valley Rancheria | 2332 Howland Hill Road | Cresant City | CA | 95531 | 216,000.00
Kashia Band of Pomo Indians of Stewarts Point Rancheria | 1420 Guerneville Road, Suite 1 | Santa Rosa | CA | 95403 | 900,000.00
La Jolla Band of Luiseno Indians | 22000 Highway 76 | Pauma Valley | CA | 92061 | 800,000.00
Redwood Valley Little River Band of Pomo Indians | 3250 Road I | Redwood Valley | CA | 95470 | 900,000.00
Tolowa Dee-NI Nation | 140 Rowdy Creek Road | Smith River | CA | 95567 | 898,563.00
Santa Clara Pueblo Housing Authority | 201 Road Runner Road | Espanola | NM | 87532 | 900,000.00
Peoria Tribe | 3606 Sencay Avenue | Miami | OK | 74354 | 900,000.00
Wichita Tribe and Affiliates | P.O. Box 729 | Anadarko, OK | OK | 73005 | 900,000.00
Paiute Indian Tribe of Utah | 440 North Paiute Drive | Cedar City | UT | 84721-0000 | 882,912.00
North Fork Rancheria | P.O. Box 929 | North Fork | CA | 93643 | 490,634.00
Chippewa Cree Tribe | 96 Clinic Road | Box Elder | MT | 59521-0000 | 817,725.00
Total |  |  | ...... |  | 100,000,000.00

Appendix Z

FY2020 Indian Community Development Block Grant—Imminent Threat (ICDBG-IT CARES) Grant Program (FR-6400-N-23)

Contact: Hilary Atkin, 202-402-3427.

Organization | Address | City | State | Zip code | Amount
Chilkoot Indian Association | P.O. Box 490 | Haines | AK | 99827 | $900,000.00
Sac and Fox Tribe of the Mississippi in Iowa | 349 Meskwaki Rd | Tama | IA | 52339 | 900,000.00
Native Village of Kipnuk | P.O. Box 057 | Kipnuk | AK | 99614 | 230,172.00
Total |  |  | ...... |  | 2,030,172.00

Appendix A-A

FY 2019 Emergency Safety and Security RD1 (Notice 2019-22)

Contact: David Fleischman (202) 402-2071.

Organization | Street address or P.O. box | City | State | Zip code | Award
Housing Authority of the City of Eutaw | 301 Carver Circle | Eutaw | AL | 35462 | $19,305.00
Housing Authority Of The City Of Norwalk | 24 ½ Monroe Street | Norwalk | CT | 06856 | 24,939.00
Housing Authority of the City of Titusville | 524 S Hopkins Avenue | Titusville | FL | 32796 | 56,800.00
Ocala Housing Authority | 1629 Nw 4Th Street | Ocala | FL | 34475 | 113,414.00
Housing Authority of the City of Dublin | P.O. Box 36 | Dublin | GA | 31040 | 145,778.00
Delaware County Housing Authority | 2401 S Haddix Avenue | Muncie | IN | 47302 | 10,000.00
Housing Authority of Shelbyville | 41 Cardinal Drive | Shelbyville | KY | 40065 | 10,000.00
Town of Independence HA | 222 Pine Street | Independence | LA | 70443 | 200,000.00
Housing Authority of the City of Jefferson | 1040 Myrtle Ave | Jefferson City | MO | 65109 | 14,445.00
Housing Authority of the City of Fulton | 350 Sycamore Street | Fulton | MO | 65251 | 10,500.00
Housing Authority of the City of Malden | 109 Watson Drive | Malden | MO | 63863 | 10,500.00
Niagara Falls Housing Authority | 744 10th St. | Niagara Falls | NY | 14301 | 60,000.00
Housing Authority of the City of McAlester | 520 W Kiowa Avenue | Mcalester | OK | 74501 | 27,400.00
Philadelphia Housing Authority | 2013 Ridge Avenue | Philadelphia | PA | 19121 | 188,799.00
Jackson Housing Authority | 125 Preston Street | Jackson | TN | 38301 | 242,550.00
Trenton Housing Authority | 128 Burnett Drive | Trenton | TN | 38382 | 20,450.00
Covington Housing Authority | 1701 Shoaf Street | Covington | TN | 38019 | 14,256.00
Newbern Housing Authority | 100 Flower Valley Drive | Newbern | TN | 38059 | 131,950.00
Housing Authority of Belton | 715 Saunders St | Belton | TX | 76513 | 8,375.00
Carrizo Springs Housing Authority | 207 N 4th Street | Carrizo Springs | TX | 78834 | 14,598.00
Marion Redevelopment & Housing Authority | 237 Miller Avenue | Marion | VA | 24354 | 75,000.00
Total |  |  | ...... |  | 1,399,059.00

Appendix A-B

FY 2019 Emergency Safety and Security RD2 (Notice 2019-22)

Contact: David Fleischman (202) 402-2071.

Organization | Street address or P.O. box | City | State | Zip code | Award
Housing Authority of the Birmingham District | 1826 3rd Avenue S | Birmingham | AL | 35233 | $249,984.00
Selma Housing Authority | 444 Washington Street | Selma | AL | 36702 | 222,008.00
Housing Authority of the City of Marion, AL | 102 Cahaba Heights | Marion | AL | 36756 | 21,808.00
Camden Housing Authority | 800 Monroe Ave | Camden | AR | 71701 | 35,239.50
Housing Authority of the City of Osceola | 100 Wingfield | Osceola | AR | 72370 | 55,660.00
Yuma County Housing Department | 2050 W Main Street | Somerton | AZ | 85350 | 120,000.00
City of Sacramento Housing Authority | 801 12th Street | Sacramento | CA | 95814 | 104,159.00
County of Sacramento Housing Authority | 801 12th Street | Sacramento | CA | 95814 | 28,557.00
West Haven Housing Authority | 15 Glade Street | West Haven | CT | 06516 | 13,885.00
Jacksonville Housing Authority | 1300 N Broad Street | Jacksonville | FL | 32202 | 123,760.00
Housing Authority of the City of Atlanta Georgia | 230 John Wesley Dobbs Ave. NE | Atlanta | GA | 30303 | 247,000.00
Housing Authority of the City of LaGrange | 201 Chatham Street | Lagrange | GA | 30240 | 55,210.00
Housing Authority of the City of Thomaston | 574 Triune Avenue | Thomaston | GA | 30286 | 33,548.00
Quincy Housing Authority | 540 Harrison Street | Quincy | IL | 62301 | 45,000.00
Fort Wayne Housing Authority | 7315 South Hanna Street | Fort Wayne | IN | 46816 | 169,739.00
Kokomo Housing Authority | 210 E Taylor Street | Kokomo | IN | 46901 | 119,569.00
Housing Authority of the City of Elkhart | 1396 Benham Avenue | Elkhart | IN | 46516 | 41,000.00
Housing Authority City of Bedford | 1305 K Street | Bedford | IN | 47421 | 25,000.00
Housing Authority of Lebanon | 101 Hamilton Heights | Lebanon | KY | 40033 | 15,144.00
Housing Authority of the City of Lafayette | 115 Kattie Drive | Lafayette | LA | 70501 | 115,401.00
Housing Authority of Monroe | 300 Harrison Street | Monroe | LA | 71201 | 56,620.00
Brockton Housing Authority | 45 Goddard Road | Brockton | MA | 02301 | 81,730.00
Greenville Housing Commission | 308 E Oak Street | Greenville | MI | 48838 | 14,700.00
Housing Authority of the City of Independence | 4215 S Hocker Dr., Bldg. 5 | Independence | MO | 64055 | 41,778.00
The Housing Authority of the City of Canton | 120 Faith Lane | Canton | MS | 39046 | 22,500.00
The Housing Authority of the City of Natchez | 2 Auburn Avenue | Natchez | MS | 39120 | 129,000.00
Housing Authority of the City of Concord | 283 Harold Goodman Circle SW | Concord | NC | 28025 | 11,310.00
Oxford Housing Authority | 101 Hillside Drive | Oxford | NC | 27565 | 60,718.00
Cuyahoga Metropolitan Housing Authority | 8120 Kinsman Road | Cleveland | OH | 44104 | 111,326.00
Stark Metropolitan Housing Authority | 400 Tuscarawas Street E | Canton | OH | 44702 | 117,120.00
Housing Authority of the City of Pawtucket | 214 Roosevelt Avenue | Pawtucket | RI | 02860 | 35,000.00
Lenoir City Housing Authority | 101 Oakwood Drive | Lenoir City | TN | 37771 | 156,100.00
Houston Housing Authority | 2640 Fountain View | Houston | TX | 77057 | 249,946.00
Housing Authority of the City of Knox City | 203 SW 4th St | Knox City | TX | 79529 | 3,386.00
Housing Authority of the County of Salt Lake | 3595 S Main Street | Salt Lake City | UT | 84115 | 12,622.00
Norfolk Redevelopment & Housing Authority | 555 E Main Street | Norfolk | VA | 23510 | 180,000.00
Charleston/Kanawha Housing Authority | 1525 Washington St., West | Charleston | WV | 25387 | 85,140.00
Total |  |  | ...... |  | 3,210,667.50

Appendix A-C

FY 2019 Emergency Safety and Security RD3 (Notice 2019-22)

Contact: David Fleischman (202) 402-2071.

Organization | Street address or P.O. box | City | State | Zip code | Award
Housing Authority of the Birmingham District | 1826 3rd Avenue S | Birmingham | AL | 35233 | $197,534.00
Housing Authority of the City of Montgomery | 525 S Lawrence St | Montgomery | AL | 36104 | 249,780.00
Housing Authority of the City of Dothan | 602 S Lena Street | Dothan | AL | 36301 | 250,000.00
Housing Authority of Greene County, AL | 429 W.M. Branch Heights Drive | Eutaw | AL | 35462 | 53,625.00
Stuttgart Housing Authority | 413 East Michigan Street | Stuttgart | AR | 72160 | 8,700.00
City of Phoenix Housing Department | 251 W Washington Street | Phoenix | AZ | 85003 | 250,000.00
County of Butte HA | 2039 Forest Ave., Suite #10 | Chico | CA | 95928 | 56,058.00
Housing Authority of the County of Flagler | 414 S Bacher Street | Bunnell | FL | 32110 | 227,000.00
Housing Authority of the City of Fort Myers | 4224 Renaissance Preserve Way | Fort Myers | FL | 33916 | 242,680.00
Housing Authority of Lexington | 300 West New Circle Road | Lexington | KY | 40505 | 81,550.00
Housing Authority of Irvine | 285 Mountain Crest | Irvine | KY | 40336 | 15,478.00
Housing Authority of Columbia | 922 Carrie Bolin | Columbia | KY | 42728 | 30,000.00
Springfield Housing Authority | 60 Congress Street | Springfield | MA | 01101 | 173,237.00
Housing Authority Of Baltimore City | 417 E Fayette Street | Baltimore | MD | 21202 | 250,000.00
Housing Authority of Kansas City, Missouri | 920 Main Street, Suite 701 | Kansas City | MO | 64105 | 15,580.00
Noel Housing Authority | 624 Johnson Drive | Noel | MO | 64854 | 114,336.00
Housing Authority of the City of Goldsboro | 700 N Jefferson Ave | Goldsboro | NC | 27530 | 215,000.00
Rockingham Housing Authority | 809 Armistead Street | Rockingham | NC | 28379 | 250,000.00
Williamston Housing Authority | 504 E Main Street | Williamston | NC | 27892 | 116,671.00
Stark Metropolitan Housing Authority | 400 Tuscarawas Street E | Canton | OH | 44702 | 105,565.00
Housing Authority of the City of Idabel | 901 Lyndon Road | Idabel | OK | 74745 | 16,000.00
Housing Authority of the City of Pittsburgh | 200 Ross Street | Pittsburgh | PA | 15219 | 250,000.00
Philadelphia Housing Authority | 2013 Ridge Avenue | Philadelphia | PA | 19121 | 250,000.00
Ripley Housing Authority | 101 Northcrest Street | Ripley | TN | 38063 | 67,000.00
Housing Authority of Trinidad | 144 Park Street | Trinidad | TX | 75163 | 166,408.00
Housing Authority of the City of Oshkosh, WI | 600 Merritt Avenue | Oshkosh | WI | 54902 | 72,750.00
Total |  |  | ...... |  | 3,724,952.00

Appendix A-D

FY 2020 Emergency Safety and Security (Notice 2020-25)

Contact: David Fleischman (202) 402-2071.

Organization name | Street address or P.O. box | City | State | Zip code | Award amount
Housing Authority of the City of Prattville, AL | 318 Water Street | Prattville | AL | 36067 | $68,076.00
Housing Authority of Greene County, AL | 429 W.M. Branch Heights Drive | Eutaw | AL | 35462 | 250,000.00
Housing Authority of the City of Morrilton | 123 Old Cherokee Rd | Morrilton | AR | 72110 | 13,767.00
Housing Authority of the City of Los Angeles | 2600 Wilshire Blvd | Los Angeles | CA | 90057 | 250,000.00
Housing Authority of the City of Richmond | 330 24th Street | Richmond | CA | 94804 | 226,543.00
Housing Authority of the City of Norwalk | 24 ½ Monroe Street | Norwalk | CT | 06856 | 122,120.00
West Haven Housing Authority | 15 Glade Street | West Haven | CT | 06516 | 236,296.00
Housing Authority of the City of Eustis | 1000 Wall Street | Eustis | FL | 32726 | 250,000.00
Tallahassee Housing Authority | 2940 Grady Road | Tallahassee | FL | 32312 | 250,000.00
Housing Authority of the City of College Park | 2000 W Princeton Avenue | College Park | GA | 30337 | 209,942.00
Charles City Hsg and Redev Authority | 501 Cedar Terrace South | Charles City | IA | 50616 | 250,000.00
Knox County Housing Authority | 11 Powell Street | Bicknell | IN | 47512 | 5,110.00
Oberlin Housing Authority | 202 N Elk Avenue | Oberlin | KS | 67749 | 4,225.00
Housing Authority of Irvine | 285 Mountain Crest | Irvine | KY | 40336 | 34,660.00
Housing Authority of the City of Abbeville | 1101 E Oak Street | Abbeville | LA | 70510 | 250,000.00
Housing Authority of the Town of Lake Providence | 226 Foster Street | Lake Providence | LA | 71254 | 234,025.00
Taunton Housing Authority | 30 Olney Street | Taunton | MA | 02780 | 250,000.00
Beverly Housing Authority | 137 Bridge Street | Beverly | MA | 01915 | 23,126.00
Housing Authority Of Crisfield | 115 S 7th Street | Crisfield | MD | 21817 | 250,000.00
Presque Isle Housing Authority | 58 Birch Street | Presque Isle | ME | 04769 | 94,096.00
Brewer Housing Authority | 15 Colonial Circle Suite 1 | Brewer | ME | 04412 | 25,090.00
Houghton Housing Commission | 401 E Montezuma Avenue | Houghton | MI | 49931 | 12,507.00
City of Minneapolis PHA | 1001 Washington Avenue N | Minneapolis | MN | 55401 | 235,000.00
Anderson Housing Authority | 500 Tatum Street | Anderson | MO | 64831 | 245,780.00
Lanagan Housing Authority | Hiway 59 | Lanagan | MO | 64847 | 160,520.00
Pineville Housing Authority | Big Sugar Road | Pineville | MO | 64850 | 203,250.00
Housing Authority of the City of Sedalia, MO | 500 Welch Court | Sedalia | MO | 65301 | 250,000.00
Housing Authority of the City of Kirkwood | 385 S Taylor | Kirkwood | MO | 63122 | 5,000.00
Dunn Housing Authority | 817 Stewart Street | Dunn | NC | 28334 | 250,000.00
Omaha Housing Authority | 1823 Harney Street | Omaha | NE | 68102 | 227,273.00
Clay Center Housing Authority | 114 E Division Street | Clay Center | NE | 68933 | 7,747.00
Elizabeth Housing Authority | 688 Maple Avenue | Elizabeth | NJ | 07202 | 244,844.00
Irvington Housing Authority | 101 Union Avenue | Irvington | NJ | 07111 | 250,000.00
Housing Authority City of Linden | 1601 Dill Avenue | Linden | NJ | 07036 | 249,200.00
Housing Authority of the County of Santa Fe | 52 Camino De Jacobo | Santa Fe | NM | 87507 | 250,000.00
New York City Housing Authority | 90 Church Street | New York | NY | 10007 | 250,000.00
Albany Housing Authority | 200 South Pearl St. | Albany | NY | 12202 | 216,357.00
Plattsburgh Housing Authority | 4817 South Catherine St | Plattsburgh | NY | 12901 | 250,000.00
Schenectady Municipal Housing Authority | 375 Broadway | Schenectady | NY | 12305 | 195,000.00
Lockport Housing Authority | 301 Michigan St. | Lockport | NY | 14094 | 250,000.00
Cuyahoga Metropolitan Housing Authority | 8120 Kinsman Road | Cleveland | OH | 44104 | 249,715.00
Zanesville Metropolitan Housing Authority | 407 Pershing Road | Zanesville | OH | 43701 | 250,000.00
Columbiana Metropolitan Housing Authority | 325 Moore Street | East Liverpool | OH | 43920 | 250,000.00
Housing Authority of the Town of Prague | 607 Mitacek Ave | Prague | OK | 74864 | 4,545.00
Housing Authority of the City of Seminole | 111 Randolph Drive | Seminole | OK | 74868 | 6,970.00
Housing Authority of the City of Shawnee | 601 W 7th Street | Shawnee | OK | 74801 | 31,050.00
Housing Authority of the City of Tecumseh | 601 Leisure Drive | Tecumseh | OK | 74873 | 4,420.00
Philadelphia Housing Authority | 2013 Ridge Avenue | Philadelphia | PA | 19121 | 4,656.00
Allegheny County Housing Authority | 301 Chartiers Avenue | Mckees Rocks | PA | 15136 | 129,022.00
Westmoreland County Housing Authority | 167 South Greengate Road | Greensburg | PA | 15601 | 250,000.00
HA County of Lawrence | P.O. Box 988 | New Castle | PA | 16101 | 150,204.00
Housing Authority of the County of Dauphin | 501 Mohn Street | Steelton | PA | 17113 | 70,000.00
HA of Indiana County | 104 Philadelphia Street | Indiana | PA | 15701 | 57,600.00
HA of the County of Erie | 120 S Center Street | Corry | PA | 16407 | 235,000.00
Central Falls Housing Authority | 30 Washington Street | Central Falls | RI | 02863 | 128,465.00
South Kingstown Housing Authority | 364 Curtis Corner Road | Peace Dale | RI | 02879 | 132,600.00
Coventry Housing Authority | 14 Manchester Circle | Coventry | RI | 02816 | 250,000.00
HA of Florence | 400 E Pine Street | Florence | SC | 29506 | 250,000.00
Norfolk Redevelopment & Housing Authority | 555 E. Main Street | Norfolk | VA | 23510 | 171,615.00
Seattle Housing Authority | 190 Queen Anne Ave N | Seattle | WA | 98109 | 250,000.00
Mauston Housing Authority | 208 W Monroe Street | Mauston | WI | 53948 | 24,954.00
Housing Authority of the City of Oshkosh, WI | 600 Merritt Avenue | Oshkosh | WI | 54902 | 49,630.00
Total |  |  | ...... |  | 10,000,000.00

Appendix A-E

FY 2020 Emergency Disaster Grant

Contact: David Fleischman (202) 402-2071.

Organization name | Street Address or P.O. box | City | State | Zip code | Award amount
Housing Authority of the City of Jasper | 1005 Highway 69 S | Jasper | AL | 35501 | $1,925,000.00
Housing Authority of the County of Poinsett | 1104 Elm Street | Marked Tree | AR | 72365 | 965,302.00
Housing Authority of the City of Luxora | 1 Cedar St | Luxora | AR | 72358 | 860,000.00
The Housing Authority of Henry County | 125 N Chestnut St | Kewanee | IL | 61443 | 121,491.00
Housing Authority of South Bend | 501 Alonzo Watson Drive | South Bend | IN | 46601 | 620,330.00
Worcester Housing Authority | 40 Belmont Street | Worcester | MA | 01605 | 3,284,700.00
Falmouth Housing Authority | 115 Scranton Avenue | Falmouth | MA | 02540 | 2,831,553.00
Total |  |  | ...... |  | 10,608,376.00

Appendix A-F

FY 2020 Receivership

Contact: David Fleischman (202) 402-2071.

Organization name | Street Address or P.O. box | City | State | Zip code | Award amount
Alexander County Housing Authority | 1101 Ohio St | Cairo | IL | 62914 | $1,279,402.00
Gary Housing Authority | 578 Broadway | Gary | IN | 46402-1900 | 8,661,383.00
New York City Housing Authority | 200 South Pearl St | New York | NY | 10007-2516 | 24,709,215.00
Total |  |  |  |  | 34,650,000.00

Appendix A-G

FY 2021 Emergency Disaster Grant

Contact: David Fleischman (202) 402-2071.

Organization name | Street address or P.O. box | City | State | Zip code | Award amount
Housing Authority of the County of Ventura | 1400 W Hillcrest Drive | Newbury Park | CA | 91320 | $1,317,647.00
Housing Authority of the Town of Lake Providence | 226 Foster Street | Lake Providence | SC | 71254 | 2,300,830.00
College Park Housing Authority | 9014 Rhode Island Avenue | College Park | LA | 20740 | 333,256.00
Housing Authority of the City of Wilson | 301 E. Nash Street | Wilson | SD | 27893 | 48,350.00
Housing Authority of Florence | 400 E Pine Street | Florence | MD | 29506 | 146,586.00
Canton Housing & Redevelopment Commission | 903 W 5th Street | Canton | NC | 57013 | 2,631,792.00
Hughes Springs | 1314 East 1st | Hughes Springs | TX | 75656 | 418,000.00
Total |  |  | ...... |  | 7,196,461.00

[FR Doc. 2021-20390 Filed 9-20-21; 8:45 am]

BILLING CODE 4210-67-P